FEDERAL COMMUNICATIONS COMMISSION

47 CFR Part 1

[MD Docket Nos. 20-105; MD Docket Nos. 21-190; FCC 21-49; FRS 26021]

Assessment and Collection of Regulatory Fees for Fiscal Year 2021

AGENCY: Federal Communications Commission.

ACTION: Notice of proposed rulemaking.

SUMMARY: In this document, the Federal Communications Commission (Commission) seeks comment on revising the fee schedule of FY 2021 regulatory fees.

DATES: Submit comments on or before June 3, 2021; and reply comments on or before June 18, 2021.

ADDRESSES: Interested parties may file comments and reply comments identified by MD Docket No. 21-190, by any of the following methods below.

1. Electronic Filers: Comments may be filed electronically using the internet by accessing the ECFS: http://apps.fcc.gov/ecfs/.

2. Paper Filers: Parties who choose to file by paper must file an original and one copy of each filing.

3. Filings can be sent by commercial overnight courier, or by first-class or overnight U.S. Postal Service mail. All filings must be addressed to the Commission's Secretary, Office of the Secretary, Federal Communications Commission.

4. Commercial overnight mail (other than U.S. Postal Service Express Mail and Priority Mail) must be sent to 9050 Junction Drive, Annapolis Junction, MD 20701.U.S.

5. Postal Service first-class, Express, and Priority mail must be addressed to 45 L Street NE, Washington, DC 20554.

For detailed instructions for submitting comments and additional information on the rulemaking process, see the SUPPLEMENTARY INFORMATION section of this document.

FOR FURTHER INFORMATION CONTACT: Roland Helvajian, Office of Managing Director at (202) 418-0444.

SUPPLEMENTARY INFORMATION: This is a summary of the Commission's Notice of Proposed Rulemaking (NPRM), FCC 21-49, MD Docket No. 20-105, and MD Docket No. 21-190, adopted on May 3, 2021 and released on May 4, 2021. The full text of this document is available for inspection and copying during normal business hours in the FCC Reference Center, 45 L Street NE, Washington, DC 20554, and may also be purchased from the Commission's copy contractor, BCPI, Inc., 45 L Street NE, Washington, DC 20554. Customers may contact BCPI, Inc. via their website, http://www.bcpi.com, or call 1-800-378-3160. This document is available in alternative formats (computer diskette, large print, audio record, and braille). Persons with disabilities who need documents in these formats may contact the FCC by email: FCC504@fcc.gov or phone: 202-418-0530 or TTY: 202-418-0432. Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy. During the time the Commission's building is closed to the general public and until further notice, if more than one docket or rulemaking number appears in the caption of a proceeding, paper filers need not submit two additional copies for each additional docket or rulemaking number; an original and one copy are sufficient.

I. Procedural Matters

8. Ex Parte Information. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

9. Initial Regulatory Flexibility Analysis. An initial regulatory flexibility analysis (IRFA) is contained in this summary. Comments to the IRFA must be identified as responses to the IRFA and filed by the deadlines for comments on the Notice of Proposed Rulemaking. The Commission will send a copy of the Notice of Proposed Rulemaking, including the IRFA, to the Chief Counsel for Advocacy of the Small Business Administration.

10. Initial Paperwork Reduction Act of 1995 Analysis. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

I. Introduction

1. Notice of Proposed Rulemaking, we seek comment on the Commission's proposed regulatory fees for fiscal year (FY) 2021. Specifically, we propose to collect $374,000,000 in regulatory fees for FY 2021, pursuant to sections 9 and 9A of the Communications Act of 1934, as amended (Act or Communications Act), and the Commission's FY 2021 Appropriation.

2. In this Notice of Proposed Rulemaking, we seek comment on several specific regulatory fee issues: (i) Including non-geographic numbers in the calculation of the number of subscribers for each commercial mobile radio service (CMRS) provider; (ii) ending our phase in of direct broadcast satellite (DBS) regulatory fees, and instead including the Media Bureau-based DBS regulatory fee in the same fee category as cable television and Internet Protocol Television (IPTV); (iii) assessing regulatory fees for full service broadcast television using the same population-based methodology that we used for FY 2020 and continuing the changes we adopted previously for stations in Puerto Rico; (iv) adopting new regulatory fees for the new NGSO fee subcategories for “less complex” NGSO systems and “other” NGSO systems; and (v) extending our streamlined waiver provisions adopted last year for FY 2021.

3. Each year the Commission issues a Notice of Proposed Rulemaking to seek comment on its regulatory fee methodology and proposed regulatory fees for the fiscal year. The Commission also seeks to improve the regulatory fee methodology. Since 2013, the Commission has made numerous reforms to the regulatory fee schedule. In 2019, the Commission adopted several rule amendments to conform them to the RAY BAUM'S Act of 2018. Last year, the Commission added non-U.S. licensed space stations with United States market access grants to the regulatory fee schedule. The Commission concluded that assessing the same regulatory fees on all space stations with U.S. market access, whether U.S. licensed or non-U.S. licensed, would better reflect the benefits received by these operators through the Commission's adjudicatory, enforcement, regulatory, and international coordination activities, and would promote regulatory parity and fairness among space station operating in the United States.

II. Notice of Proposed Rulemaking

A. Methodology for Allocating FTEs

4. Congress requires us to collect $374,000,000 in regulatory fees for FY 2021. In doing so, section 9 of the Act requires us to set regulatory fees to “reflect the full-time equivalent number of employees within the bureaus and offices of the Commission adjusted to take into account factors that are reasonably related to the benefits provided to the payor of the fee by the Commission's activities.” We implement this directive by looking first to the core bureaus, i.e., the bureaus that conduct work that directly benefits fee payors, in order to establish the number of direct FTEs from each bureau. The remaining non-auction FTEs and other Commission costs are categorized as indirect. Once we have identified the direct FTEs for each core bureau, we look within each core bureau to allocate fees to specific fee categories. These proportional calculations allocate all Commission non-auction related costs across all fee categories. We seek comment on this methodology.

5. The Commission identifies the number of FTEs within each of the four core bureaus (i.e., Wireline Competition Bureau, Wireless Telecommunications Bureau, International Bureau, and Media Bureau) and then further subdivides within each core bureau to account for its regulatory fee categories. As a general matter, we expect that the work of the FTEs in the four core bureaus will remain focused on the industry segment regulated by each of those bureaus. Consistent with past practices, we propose that the allocation of fee categories for FY 2021 will be based on the Commission's calculation of FTEs in each regulatory fee category. The work of the FTEs in the indirect bureaus and offices benefits the Commission and the telecommunications industry generally and is not specifically focused on the regulatees and licensees of one core bureau. We propose that, consistent with past practices, the total FTEs for each fee category include the direct FTEs associated with that category plus a proportional allocation of indirect FTEs. Applying the section 9 requirements to calculate regulatory fees, we propose to allocate the total collection target across all regulatory fee categories. Each regulatee within a fee category then pays its proportionate share based on an objective measure (e.g., revenues or number of subscribers). To calculate fees for each licensee, we identify “units” used to calculate the fees. For example, broadcast licensee fees will vary by population served and wireless licensees will pay fees based on their number of subscribers. These calculations are illustrated in Table 2. The sources for the unit estimates that are used in these calculations are listed in Table 4.

6. We project approximately $32.0 million (8.56% of the total FTE allocation, 28 direct FTEs) in fees from International Bureau regulatees; $83.5 million (22.33% of the total FTE allocation, 73 direct FTEs) in fees from Wireless Telecommunications Bureau regulatees; $122.4 million (32.72% of the total FTE allocation, 107 direct FTEs) from Wireline Competition Bureau regulatees; and $136.1 million (36.39% of the total FTE allocation, 119 direct FTEs) from Media Bureau regulatees. We seek comment on our calculation for the FY 2021 FTEs (327 total direct FTEs). The proposed fees are based on the established methodology, applied to the allocated FTEs and based on the Commission's appropriation amount of $374,000,000. We seek comment on this methodology and on the schedule of FY 2021 regulatory fees as set forth in Tables 2 and 3.

B. Calculating Regulatory Fees for Commercial Mobile Radio Services

7. The Commission sets regulatory fees by identifying a unit for a fee category, calculating the amount to be collected from that category, and then dividing the target collection amount by the unit count. The regulatory fee unit for the Commercial Mobile Radio Services (CMRS) fee category is the number of subscribers. Historically, each CMRS provider self-reported its subscriber count for regulatory fee purposes. In 2004, the Commission started using the “assigned number” count as the proxy for subscribers to address concerns regarding the accuracy of prior estimates.

8. The definition of assigned numbers is as follows: Assigned numbers are numbers working in the Public Switched Telephone Network under an agreement such as a contract or tariff at the request of specific end users or customers for their use, or numbers not yet working but having a customer service order pending. Numbers that are not yet working and have a service order pending for more than five days shall not be classified as assigned numbers.

9. The Commission currently provides each CMRS provider with its estimated subscriber counts based on information included in the Numbering Resource Utilization Forecast (NRUF) Report. The NRUF Report is based upon data provided by telecommunications carriers holding numbering resources, which include CMRS providers. CMRS providers are responsible for certifying the accuracy of their subscriber counts and can adjust the counts to correct any inaccuracies.

10. Non-geographic numbers are not associated with any particular geographic area, as typical numbers are, such as numbers in the 202 area code. They are also included in NRUF data and fall within the definition of assigned numbers. Historically, non-geographic numbers were commonly used for “follow me” services, which allowed a consumer to receive a call at different locations, and were not used for independent subscribers. The Commission, therefore, has not previously included these numbers in the CMRS subscriber count estimates.

11. More recently, usage of non-geographic numbers has increased substantially. Non-geographic numbers are often used for machine-to-machine calling, such as wireless alarm monitoring and car emergency services subscriptions, and counting non-geographic numbers for regulatory fee purposes would no longer be duplicative of the geographic number. CMRS service providers have the information necessary to determine if their non-geographic numbers should be counted for calculating their number of subscribers for regulatory fee purposes. Accordingly, we propose to include non-geographic numbers in the calculation of the number of subscribers for each CMRS provider, as reflected in Table 2 and the CMRS regulatory fee factor, as reflected in Table 3. Under this proposal, CMRS provider regulatory fees will be calculated and should be paid based on the inclusion of non-geographic numbers. CMRS providers could then adjust the total number of subscribers, if needed. We note that including non-geographic numbers, if appropriate, will not change the total amount to be collected from this industry, but will likely reduce the per subscriber fee because the number of units will increase. We seek comment on this analysis.

12. In addition, we seek comment on whether there are any other changes in the CMRS industry that we should consider in calculating regulatory fees. For example, are there subscriber devices accessing wireless carrier 4G and 5G networks for IP-only use cases not requiring traditional phone numbers (e.g., industrial sensors, remote health monitoring devices, etc.) and if so, what identifiers govern their access (e.g., International Mobile Subscriber Identity, or IMSI) and who is in the best position to identify how many are in use by each licensee? Other categories of CMRS subscriber numbers, if added to the CMRS calculation, would not increase the total amount collected from the industry, but may reduce the amount per subscriber by increasing the number of units.

C. Direct Broadcast Satellite Regulatory Fees

13. Direct Broadcast Satellite (DBS) service is a nationally distributed subscription service that delivers video and audio programming via satellite to a small parabolic dish antenna at the subscriber's location. The two DBS providers, AT&T and DISH Network, are MVPDs. The Media Bureau oversees the regulation of MVPDs, i.e., regulated companies that make available for purchase, by subscribers or customers, multiple channels of video programming. The Media Bureau relies on a common pool of FTEs to carry out its oversight of MVPDs and other video distribution providers. These responsibilities include market modifications, local-into-local, must-carry and retransmission consent disputes, program carriage and program access complaints, over-the-air reception device declaratory rulings and waivers, rulemakings, and proposed transactions. For Media Bureau activities in FY 2021, the Commission must collect $74.84 million in regulatory fees from MVPDs, i.e., cable TV systems (including CARS licenses), IPTV providers, and DBS operators.

14. We propose to end the phase in of the DBS regulatory fee and assess all DBS, cable television, and IPTV providers at the same per subscriber regulatory fee, i.e., the fee category would equally include cable television, IPTV, and DBS. The Commission has been phasing in the DBS operator regulatory fee for 6 years. In FY 2015, the Commission decided to phase in the new Media Bureau-based regulatory fee for DBS, starting at 12 cents per subscriber per year, as a subcategory in the cable television and IPTV category. At the same time, the Commission committed to updating the regulatory fee rate in future years. The DBS regulatory fee is based on the significant number of Media Bureau FTEs that work on MVPD issues that include DBS, “not a particular number of FTEs focused solely on DBS” or “specific recent proceedings.” The Commission has increased the DBS regulatory fee by 12 cents per subscriber per year in each subsequent year and in FY 2020 the DBS fee was 72 cents. We propose to end the phase in and assess the same regulatory fee, i.e., $0.96, per subscriber, per year, for DBS, cable television, and IPTV. We seek comment on this proposal.

D. Television Broadcaster Issues

15. Last year the Commission completed the transition to a population-based full-power broadcast television regulatory fee. We seek comment again on the use of population-based fees for full-power broadcast television stations based on the station's contour. We propose adopting a factor of .8525 of one cent ($.008525) per population served for FY 2021 full-power broadcast television station fees. The population data for broadcasters' service areas are extracted from the TVStudy database, based on a station's projected noise-limited service contour. The population data for each licensee and the population-based fee (population multiplied by $.008525) for each full-power broadcast television station, including each satellite station, is listed in Table 7. We seek comment on these proposed fees.

16. We also seek comment on streamlining our current methodology, for FY 2022, by refining the current television broadcaster table, in Table 7, to a tiered table, similar to the tiered table used for radio licensees. The current process required to implement a per call sign fee calculation imposes a significant administrative cost on the Commission and a portion of fee payors. Specifically, the Commission must generate and publish the 50 plus page table of all call signs and their respective fees in the Federal Register each year to ensure a fee for every call sign is established. Publication is necessary, regardless of whether a particular call sign is exempt, as a station's status may change over the course of a year. This has caused confusion to some fee payors. Further, discrepancies last year led to several hundred inquiries by fee payors. Using a tiered system would simplify the process for fee payors and the Commission while still assessing fees based on each broadcasters' population served. We seek comment on whether the administrative benefits for the Commission and fee payors of using a tiered table to establish television broadcaster regulatory fees would outweigh the costs and be easier for fee payors to navigate. Commenters should discuss whether such a table would be more administrable than the current population-based chart establishing individual fee amounts for each station. A model streamlined table based on the proposed FY 2021 television broadcaster fees is set forth below in Table 1.

Table 1—Proposed Broadcast Television Fee Tiers
Population served | Proposed tiered fee amount
<=75,000 | $400
75,001-150,000 | 925
150,001-500,000 | 2,625
500,001-1,500,000 | 8,175
1,500,001-3,000,000 | 18,000
3,000,001-5,000,000 | 32,225
5,000,001-7,000,000 | 50,975
7,000,001-10,000,000 | 70,150
10,000,001-15,000,000 | 93,100
>15,000,000 | 154,525

17. Stations in Puerto Rico. Previously, a group of broadcasters in Puerto Rico argued that the population-based methodology overstates the population served by Puerto Rico stations because the mountainous terrain conditions result in TVStudy overstating the population served. They also argued that significant and measurable drops in Puerto Rico's population resulting from an exodus caused in part by Hurricane Maria overstated that the population counts underlying TVStudy. For those reasons, the Commission sought comment last year on adjusting the fees of such broadcasters in two discrete ways and adopted such proposals in the FY 2020 Report and Order, 36 FCC Rcd 1731. We seek comment on continuing those adjustments for FY 2021. We propose to account for the objectively measurable reduction in population by reducing the population counts used in TVStudy by 16.9%, or the decline between the last census in 2010 and the current population estimate, as we did for FY 2020. Additionally, in FY 2020 the Commission adopted a proposal to limit the market served by a primary television stations and commonly owned satellite broadcast stations in Puerto Rico to no more than 3.10 million people, the latest population estimate. We seek comment on adopting these proposals again for FY 2021.

E. NGSO Regulatory Fees

18. The Commission has adopted two new fee subcategories, one for “less complex” NGSO systems and a second for all other NGSO systems identified as “other” NGSO systems, both under the broader category of “Space Stations (Non-Geostationary Orbit).” We have analyzed the time International Bureau FTEs devote to oversight and regulation of the less complex systems listed in Appendix E and we seek comment on the percentage of regulatory fees that should be allocated to each subcategory of NGSO systems. We propose an 20/80 allocation within the category of NGSO fees, with “less complex” NGSO systems responsible for 20% of NGSO regulatory fees and ” the remaining NGSO systems (“Other”) responsible for 80% of NGSO regulatory fees. Based on our current experience and considering our costs reasonably related to regulating and overseeing all NGSO systems, we think that a 20/80 percent split between less complex systems and other NGSO systems would be appropriate. The proposed 80 percent of total NGSO fees apportionment to other NGSO systems category is based on the fact that a small minority of Commission efforts appear to involve NGSO systems that meet our definition of a less complex NGSO system.

19. We recognize the considerable challenge of assigning a precise number to the apportionment of regulatory fees between less complex and other categories of NGSO space stations, given that all of these systems are NGSO systems and continue to benefit from our various activities, including rulemakings, enforcement, applications, and international activities, to some extent. For example, a number of systems with limited U.S. earth stations providing EESS have been granted waivers of the processing round procedures. Although there is no cost associated with a processing round, these waivers provide continuous benefits to these less complex systems. Based on our NGSO experience and judgement, we believe an approximate apportionment of FTEs' time working on oversight for each category of operators may be the most practical way to estimate the relative percentages of the benefits driven by our activities. Accordingly, we propose that a 20/80 split would be a reasonable apportionment to distribute our regulatory cost reasonably related to the benefits these fee payors are receiving. We seek comment on these conclusions. Accordingly, we propose regulatory fees of $105,525 per Space Station (Non-Geostationary Orbit)—Less Complex and $337,725 per Space Station (Non-Geostationary Orbit)—Other, as reflected in Table 6.

F. Continued Flexibility in FY 2021 for Regulatory Payors Seeking Waivers Due to Financial Hardship Caused by the COVID-19 Pandemic

20. We seek comment on whether we should extend to the FY 2021 regulatory fee season the temporary measures the Commission adopted in FY 2020 with respect to FY 2020 regulatory fees to provide relief to regulatees whose businesses have suffered financial harm due to the pandemic. The FY 2020 Report and Order, 36 FCC Rcd 1731, included several mechanisms to provide such relief, such as: Waiver of section 1.1166(a) of the Commission's rules to permit parties seeking regulatory fee waiver and deferral for financial hardship reasons to make a single request for both waiver and deferral; waiver of the same rule to permit requests to be submitted electronically to the Commission, rather than in paper form; waivers to allow parties seeking extended payment terms to do so by submitting an email request, and allowing a combined installment payment request with any waiver, reduction, and deferral requests in a single filing.

21. In addition to those rule waivers, the Commission exercised its discretion to reduce the interest rate typically charged on installments payments to a nominal rate—and it also waived the down payment normally required before granting an installment payment request. The Commission also partially waived the requirement that parties seeking relief on financial hardship grounds submit with their requests all financial documentation needed to prove financial hardship. This allowed regulatees experiencing pandemic related financial hardship to submit additional financial documentation post-filing if necessary to determine whether relief should be granted. The Commission directed the Managing Director to work with individual regulatees that filed requests if additional documents were needed to render a decision on the request.

22. Finally, the Commission allowed debtors barred from filing requests or applications by the red-light rule who are experiencing financial hardship due to the pandemic to nonetheless request relief with respect to their regulatory fees. The Commission authorized the Managing Director to partially waive the red light to permit consideration of those requests while requiring those parties to resolve all delinquent debt to the Commission's satisfaction in the process.

23. We seek comment on extending these temporary measures for FY 2021 regulatory fees due to the continuing pandemic. We remind commenters that we cannot relax the standard for granting a waiver or deferral of fees, penalties, or other charges for late payment of regulatory fees under section 9A of the Act. Under that statute, the Commission may only waive a regulatory fee, penalty or interest if it finds there is good cause for the waiver and that the waiver is in the public interest. The Commission has only granted financial hardship waivers when the requesting party has shown it “lacks sufficient funds to pay the regulatory fees and to maintain its service to the public.” Other statutory limitations include that the Commission must act on waiver requests individually, and cannot extend the deadline we set for payment of fees beyond September 30.

G. Additional Regulatory Fee Reform

24. We seek comment on additional regulatory fee reform and ways to further improve our regulatory fee process to make it less burdensome for all entities. We seek comment on whether there are licensees who are not listed as a fee category in our current regulatory fee schedule and should be included. We also seek comment on whether our fee setting methodologies could be improved or updated to ensure that our regulatory fees are more equitable or otherwise streamlined to make the fee schedule simpler. As part of this analysis, we seek comment on the costs and benefits of reforming our fee-setting process.

III. Procedural Matters

25. Included below are procedural items as well as our current payment and collection methods. We include these payments and collection procedures here as a useful way of reminding regulatory fee payers and the public about these aspects of the annual regulatory fee collection process.

26. Credit Card Transaction Levels. In accordance with Treasury Financial Manual, Volume I, Part 5, Chapter 7000, Section 7045—Limitations on Card Collection Transactions, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, ACH debits from a bank account, and wire transfers. Each of these payment options is available after filing regulatory fee information in Fee Filer. Further details will be provided regarding payment methods and procedures at the time of FY 2021 regulatory fee collection in Fact Sheets, https://www.fcc.gov/regfees.

27. Payment Methods. Pursuant to an Office of Management and Budget (OMB) directive, the Commission is moving towards a paperless environment, extending to disbursement and collection of select federal government payments and receipts. In 2015, the Commission stopped accepting checks (including cashier's checks and money orders) and the accompanying hardcopy forms (e.g., Forms 159, 159-B, 159-E, 159-W) for the payment of regulatory fees. During the fee season for collecting regulatory fees, regulatees can pay their fees by credit card through Pay.gov, ACH, debit card, or by wire transfer. Additional payment instructions are posted on the Commission's website at http://transition.fcc.gov/fees/regfees.html. The receiving bank for all wire payments is the U.S. Treasury, New York, NY (TREAS NYC). Any other form of payment (e.g., checks, cashier's checks, or money orders) will be rejected. For payments by wire, a Form 159-E should still be transmitted via fax so that the Commission can associate the wire payment with the correct regulatory fee information. The fax should be sent to the Federal Communications Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

28. De Minimis Regulatory Fees, Section 9(e)(2) Exemption. Under the de minimis rule, and pursuant to our analysis under section 9(e)(2) of the Act, a regulatee is exempt from paying regulatory fees if the sum total of all of its annual regulatory fee liabilities is $1,000 or less for the fiscal year. The de minimis threshold applies only to filers of annual regulatory fees, not regulatory fees paid through multi-year filings, and it is not a permanent exemption. Each regulatee will need to reevaluate the total annual fee liability each fiscal year to determine whether they meet the de minimis exemption.

29. Standard Fee Calculations and Payment Dates.—The Commission will accept fee payments made in advance of the window for the payment of regulatory fees. The responsibility for payment of fees by service category is as follows:

• Media Services: Regulatory fees must be paid for initial construction permits that were granted on or before October 1, 2020 for AM/FM radio stations, VHF/UHF broadcast television stations, and satellite television stations. Regulatory fees must be paid for all broadcast facility licenses granted on or before October 1, 2020.

• Wireline (Common Carrier) Services: Regulatory fees must be paid for authorizations that were granted on or before October 1, 2020. In instances where a permit or license is transferred or assigned after October 1, 2020, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2020.

• Wireless Services: CMRS cellular, mobile, and messaging services (fees based on number of subscribers or telephone number count): Regulatory fees must be paid for authorizations that were granted on or before October 1, 2020. The number of subscribers, units, or telephone numbers on December 31, 2020 will be used as the basis from which to calculate the fee payment. In instances where a permit or license is transferred or assigned after October 1, 2020, responsibility for payment rests with the holder of the permit or license as of the fee due date.

• Wireless Services, Multi-year fees: The first seven regulatory fee categories in our Schedule of Regulatory Fees pay “small multi-year wireless regulatory fees.” Entities pay these regulatory fees in advance for the entire amount period covered by the ten-year terms of their initial licenses, and pay regulatory fees again only when the license is renewed, or a new license is obtained. We include these fee categories in our rulemaking to publicize our estimates of the number of “small multi-year wireless” licenses that will be renewed or newly obtained in FY 2021.

• Multichannel Video Programming Distributor Services (cable television operators, CARS licensees, DBS, and IPTV): Regulatory fees must be paid for the number of basic cable television subscribers as of December 31, 2020. Regulatory fees also must be paid for CARS licenses that were granted on or before October 1, 2020. In instances where a permit or license is transferred or assigned after October 1, 2020, responsibility for payment rests with the holder of the permit or license as of the fee due date. For providers of DBS service and IPTV-based MVPDs, regulatory fees should be paid based on a subscriber count on or about December 31, 2020. In instances where a permit or license is transferred or assigned after October 1, 2020, responsibility for payment rests with the holder of the permit or license as of the fee due date.

• International Services: Regulatory fees must be paid for (1) earth stations and (2) geostationary orbit space stations and non-geostationary orbit satellite systems that were licensed and operational on or before October 1, 2020. In instances where a permit or license is transferred or assigned after October 1, 2020, responsibility for payment rests with the holder of the permit or license as of the fee due date.

International Services (Submarine Cable Systems, Terrestrial and Satellite Services): Regulatory fees for submarine cable systems are to be paid on a per cable landing license basis based on lit circuit capacity as of December 31, 2020. Regulatory fees for terrestrial and satellite IBCs are to be paid based on active (used or leased) international bearer circuits as of December 31, 2020 in any terrestrial or satellite transmission facility for the provision of service to an end user or resale carrier. When calculating the number of such active circuits, entities must include circuits used by themselves or their affiliates. For these purposes, “active circuits” include backup and redundant circuits as of December 31, 2020. Whether circuits are used specifically for voice or data is not relevant for purposes of determining that they are active circuits. In instances where a permit or license is transferred or assigned after October 1, 2020, responsibility for payment rests with the holder of the permit or license as of the fee due date.

30. Commercial Mobile Radio Service (CMRS) and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in Table 2 and the CMRS regulatory fee factor proposed in Table 3. CMRS provider regulatory fees will be calculated and should be paid based on the inclusion of non-geographic numbers. CMRS providers can adjust the total number of subscribers, if needed. This information of telephone numbers (subscriber count) will be posted on the Commission's electronic filing and payment system (Fee Filer).

31. A carrier wishing to revise its telephone number (subscriber) count can do so by accessing Fee Filer and follow the prompts to revise their telephone number counts. Any revisions to the telephone number counts should be accompanied by an explanation or supporting documentation. The Commission will then review the revised count and supporting documentation and either approve or disapprove the submission in Fee Filer. If the submission is disapproved, the Commission will contact the provider to afford the provider an opportunity to discuss its revised subscriber count and/or provide additional supporting documentation. If we receive no response from the provider, or we do not reverse our initial disapproval of the provider's revised count submission, the fee payment must be based on the number of subscribers listed initially in Fee Filer. Once the timeframe for revision has passed, the telephone number counts are final and are the basis upon which CMRS regulatory fees are to be paid. Providers can view their final telephone counts online in Fee Filer. A final CMRS assessment letter will not be mailed out.

32. Because some carriers do not file the NRUF report, they may not see their telephone number counts in Fee Filer. In these instances, the carriers should compute their fee payment using the standard methodology that is currently in place for CMRS Wireless services (i.e., compute their telephone number counts as of December 31, 2020), and submit their fee payment accordingly. Whether a carrier reviews its telephone number counts in Fee Filer or not, the Commission reserves the right to audit the number of telephone numbers for which regulatory fees are paid. In the event that the Commission determines that the number of telephone numbers that are paid is inaccurate, the Commission will bill the carrier for the difference between what was paid and what should have been paid.

IV. List of Tables

Table 2—Calculation of FY 2021 Revenue Requirements and Pro-Rata Fees
[Regulatory fees for the categories shaded in gray are collected by the Commission in advance to cover the term of the license and are submitted at the time the application is filed.]
Fee category | FY 2021 Payment units | Yrs. | FY 2020 Revenue estimate | Pro-rated FY 2021 revenue requirement | Computed FY 2021 regulatory fee | Rounded FY 2021 reg. fee | Expected FY 2021 revenue
PLMRS (Exclusive Use) | 300 | 10 | 187,500 | 75,000 | 25.00 | 25 | 187,500
PLMRS (Shared use) | 9,900 | 10 | 1,170,000 | 990,000 | 10.00 | 10 | 1,170,000
Microwave | 19,000 | 10 | 3,150,000 | 4,750,000 | 25.00 | 25 | 3,150,000
Marine (Ship) | 6,150 | 10 | 1,065,000 | 922,500 | 15.00 | 15 | 1,065,000
Aviation (Aircraft) | 3,900 | 10 | 550,000 | 390,000 | 10.00 | 10 | 550,000
Marine (Coast) | 40 | 10 | 36,000 | 16,000 | 40.00 | 40 | 36,000
Aviation (Ground) | 550 | 10 | 220,000 | 110,000 | 20.00 | 20 | 220,000
AM Class A ¹ | 63 | 1 | 296,100 | 319,125 | 4,706 | 4,700 | 296,100
AM Class B ¹ | 1,456 | 1 | 3,681,450 | 3,959,298 | 2,523 | 2,525 | 3,681,450
AM Class C ¹ | 825 | 1 | 1,310,400 | 1,417,458 | 1,608 | 1,600 | 1,310,400
AM Class D ¹ | 1,397 | 1 | 4,356,100 | 4,683,387 | 3,172 | 3,175 | 4,356,100
FM Classes A, B1 & C3 ¹ | 3,059 | 1 | 9,141,975 | 9,855,412 | 3,080 | 3,075 | 9,141,975
FM Classes B, C, C0, C1 & C2 ¹ | 3,118 | 1 | 11,246,950 | 12,072,952 | 3,565 | 3,575 | 11,246,950
AM Construction Permits ² | 6 | 1 | 3,960 | 3,960 | 660 | 660 | 3,960
FM Construction Permits ² | 55 | 1 | 63,250 | 63,250 | 1,150 | 1,150 | 63,250
Digital Television ⁵ (including Satellite TV) | 3.262 billion population | 1 | 25,473,855 | 27,805,580 | .0085252 | .008525 | 27,805,580
Digital TV Construction Permits ² | 4 | 1 | 14,850 | 20,600 | 5,150 | 5,150 | 20,600
LPTV/Translators/Boosters/Class A TV | 5,156 | 1 | 1,682,100 | 1,813,236 | 351.7 | 350 | 1,804,600
CARS Stations | 150 | 1 | 208,000 | 224,612 | 1,497 | 1,500 | 225,000
Cable TV Systems, including IPTV & DBS | 77,800,000 | 1 | 49,395,000 | 74,616,008 | .959 | .96 | 74,688,000
Interstate Telecommunication Service Providers | $30,500,000,000 | 1 | 98,547,000 | 118,307,694 | 0.003879 | 0.00388 | 118,340,000
Toll Free Numbers | 33,500,000 | 1 | 3,960,000 | 4,065,106 | 0.1213 | 0.12 | 4,020,000
CMRS Mobile Services (Cellular/Public Mobile) | 500,000,000 | 1 | 72,250,000 | 75,174,308 | 0.1503 | 0.15 | 75,000,000
CMRS Messaging Services | 1,700,000 | 1 | 152,000 | 136,000 | 0.0800 | 0.080 | 136,000
BRS/ ³ LMDS | 1,250 342 | 1 1 | 716,800 190,400 | 743,750 203,490 | 595 594.99 | 595 595 | 743,750 203,490
Per Gbps circuit Int'l Bearer Circuits. Terrestrial (Common & Non-Common) & Satellite (Common & Non-Common) | 10,900 | 1 | 438,700 | 457,326 | 41.95 | 42 | 457,800
Submarine Cable Providers (See chart at bottom of Appendix C) ⁴ | 58.188 | 1 | 8,280,333 | 8,689,188 | 149,331 | 149,325 | 8,688,848
Earth Stations | 3,000 | 1 | 1,680,000 | 1,760,792 | 587 | 585 | 1,755,000
Space Stations (Geostationary) | 149 | 1 | 16,092,500 | 16,885,675 | 113,327 | 113,325 | 16,885,425
Space Stations (Non-Geostationary, Other) | 10 | 1 | 4,023,000 | 3,377,135 | 337,714 | 337,725 | 3.377,250
Space Stations (Non-Geostationary, Less Complex) | 8 | 1 |  | 844,284 | 105,536 | 105,525 | 844,200
****** Total Estimated Revenue to be Collected |  |  | 338,940,733 | 373,922,577 |  |  | 373,844,229
****** Total Revenue Requirement |  |  | 339,000,000 | 374,000,000 |  |  | 374,000,000
Difference |  |  | (59,267) | (77,423) |  |  | (155,771)
Notes on Table 2
¹ The fee amounts listed in the column entitled “Rounded New FY 2021 Regulatory Fee” constitute a weighted average broadcast regulatory fee by class of service. The actual FY 2021 regulatory fees for AM/FM radio station are listed on a grid located at the end of Table 3.
² The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 3 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 2 is a weighted average of the various fee payers in the chart at the end of Table 3.
⁵ The actual digital television regulatory fees to be paid by call sign are identified in Table 7.

Table 3—FY 2021 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .15.
CMRS Messaging Services (per unit) (47 CFR parts 20, 22, 24 and 90) | .08.
Broadband Radio Service (formerly MMDS/MDS) (per license) (47 CFR part 27) Local Multipoint Distribution Service (per call sign) (47 CFR, part 101) | 595. 595.
AM Radio Construction Permits | 660.
FM Radio Construction Permits | 1,150.
AM and FM Broadcast Radio Station Fees | See Table Below.
Digital TV (47 CFR part 73) VHF and UHF Commercial Fee Factor | $.008525.*
Digital TV Construction Permits | 5,150.
Low Power TV, Class A TV, TV/FM Translators & Boosters (47 CFR part 74) | 350.
CARS (47 CFR part 78) | 1,500.
Cable Television Systems (per subscriber) (47 CFR part 76), Including IPTV | .96.
Interstate Telecommunication Service Providers (per revenue dollar) | .00388.
Toll Free (per toll free subscriber) (47 CFR section 52.101 (f) of the rules) | .12.
Earth Stations (47 CFR part 25) | 585.
Space Stations (per operational station in geostationary orbit) (47 CFR part 25) also includes DBS Service (per operational station) (47 CFR part 100) | 113,325.
Space Stations (per operational system in non-geostationary orbit) (47 CFR part 25) (Other) | 337,725.
Space Stations (per operational system in non-geostationary orbit) (47 CFR part 25) (Less Complex) | 105,525.
International Bearer Circuits—Terrestrial/Satellites (per Gbps circuit) | 42.
Submarine Cable Landing Licenses Fee (per cable system) | See Table Below.
*See Appendix F for fee amounts due, also available at https://www.fcc.gov/licensing-databases/fees/regulatory-fees.

FY 2021 Radio Station Regulatory Fees
Population served | AM class A | AM class B | AM class C | AM class D | FM classes A, B1 & C3 | FM classes B, C, C0, C1 & C2
<=25,000 | $1,050 | $760 | $660 | $725 | $1,150 | $1,325
25,001-75,000 | 1,575 | 1,150 | 990 | 1,100 | 1,725 | 2,000
75,001-150,000 | 2,375 | 1,700 | 1,475 | 1,625 | 2,600 | 2,975
150,001-500,000 | 3,550 | 2,575 | 2,225 | 2,450 | 3,875 | 4,475
500,001-1,200,000 | 5,325 | 3,850 | 3,350 | 3,675 | 5,825 | 6,700
1,200,001-3,000,000 | 7,975 | 5,775 | 5,025 | 5,500 | 8,750 | 10,075
3,000,001-6,000,000 | 11,950 | 8,650 | 7,525 | 8,250 | 13,100 | 15,100
>6,000,000 | 17,950 | 13,000 | 11,275 | 12,400 | 19,650 | 22,650

FY 2021 International Bearer Circuits—Submarine Cable Systems
Submarine cable systems (capacity as of December 31, 2020) | Fee ratio (units) | FY 2021 regulatory fees
Less than 50 Gbps | .0625 | $9,350
50 Gbps or greater, but less than 250 Gbps | .125 | 18,675
250 Gbps or greater, but less than 1,500 Gbps | .25 | 37,350
1,500 Gbps or greater, but less than 3,500 Gbps | .5 | 74,675
3,500 Gbps or greater, but less than 6,500 Gbps | 1.0 | 149,325
6,500 Gbps or greater | 2.0 | 298,650

Table 4—Sources of Payment Unit Estimates for FY 2021

In order to calculate individual service fees for FY 2021, we adjusted FY 2020 payment units for each service to more accurately reflect expected FY 2021 payment liabilities. We obtained our updated estimates through a variety of means and sources. For example, we used Commission licensee data bases, actual prior year payment records and industry and trade association projections, when available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues.

We sought verification for these estimates from multiple sources and, in all cases, we compared FY 2021 estimates with actual FY 2020 payment units to ensure that our revised estimates were reasonable. Where appropriate, we adjusted and/or rounded our final estimates to take into consideration the fact that certain variables that impact on the number of payment units cannot yet be estimated with sufficient accuracy. These include an unknown number of waivers and/or exemptions that may occur in FY 2021 and the fact that, in many services, the number of actual licensees or station operators fluctuates from time to time due to economic, technical, or other reasons. When we note, for example, that our estimated FY 2021 payment units are based on FY 2020 actual payment units, it does not necessarily mean that our FY 2021 projection is exactly the same number as in FY 2020. We have either rounded the FY 2020 number or adjusted it slightly to account for these variables.

Fee category | Sources of payment unit estimates
Land Mobile (All), Microwave, Marine (Ship & Coast), Aviation (Aircraft & Ground), Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 2020 payment data.
CMRS Messaging Services | Based on WTB reports, and FY 2020 payment data.
AM/FM Radio Stations | Based on CDBS data, adjusted for exemptions, and actual FY 2020 payment units.
Digital TV Stations (Combined VHF/UHF units) | Based on LMS data, fee rate adjusted for exemptions, and population figures are calculated based on individual station parameters.
AM/FM/TV Construction Permits | Based on CDBS data, adjusted for exemptions, and actual FY 2020 payment units.
LPTV, Translators and Boosters, Class A Television | Based on LMS data, adjusted for exemptions, and actual FY 2020 payment units.
BRS (formerly MDS/MMDS) LMDS | Based on WTB reports and actual FY 2020 payment units. Based on WTB reports and actual FY 2020 payment units.
Cable Television Relay Service (CARS) Stations | Based on data from Media Bureau's COALS database and actual FY 2020 payment units.
Cable Television System Subscribers, Including IPTV Subscribers | Based on publicly available data sources for estimated subscriber counts and actual FY 2020 payment units.
Interstate Telecommunication Service Providers | Based on FCC Form 499-Q data for the four quarters of calendar year 2020, the Wireline Competition Bureau projected the amount of calendar year 2020 revenue that will be reported on the 2021 FCC Form 499-A worksheets due in April 2021.
Earth Stations | Based on International Bureau licensing data and actual FY 2020 payment units.
Space Stations (GSOs & NGSOs) | Based on International Bureau data reports and actual FY 2020 payment units.
International Bearer Circuits | Based on International Bureau reports and submissions by licensees, adjusted as necessary, and actual FY 2020 payment units.
Submarine Cable Licenses | Based on International Bureau license information, and actual FY 2020 payment units.

Table 5—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Table 6—Satellite Charts for FY 2021 Regulatory Fees
[U.S.-licensed space stations]
Licensee | Call sign | Satellite name | Type
DIRECTV Enterprises, LLC | S2922 | SKY-B1 | GSO
DIRECTV Enterprises, LLC | S2640 | DIRECTV T11 | GSO
DIRECTV Enterprises, LLC | S2711 | DIRECTV RB-1 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2455 | DIRECTV T7S | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694 | ECHOSTAR 10 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Operating Corporation | S2653 | ECHOSTAR 12 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Intelsat License LLC/ViaSat, Inc | S2160 | GALAXY 28 | GSO
Intelsat License LLC, Debtor-in-Possession | S2414 | INTELSAT 10-02 | GSO
Intelsat License LLC, Debtor-in-Possession | S2972 | INTELSAT 37e | GSO
Intelsat License LLC, Debtor-in-Possession | S2854 | NSS-7 | GSO
Intelsat License LLC, Debtor-in-Possession | S2409 | INELSAT 905 | GSO
Intelsat License LLC, Debtor-in-Possession | S2411 | INTELSAT 907 | GSO
Intelsat License LLC, Debtor-in-Possession | S2405 | INTELSAT 901 | GSO
Intelsat License LLC, Debtor-in-Possession | S2408 | INTELSAT 904 | GSO
Intelsat License LLC, Debtor-in-Possession | S2804 | INTELSAT 25 | GSO
Intelsat License LLC, Debtor-in-Possession | S2959 | INTELSAT 35e | GSO
Intelsat License LLC, Debtor-in-Possession | S2237 | INTELSAT 11 | GSO
Intelsat License LLC, Debtor-in-Possession | S2785 | INTELSAT 14 | GSO
Intelsat License LLC, Debtor-in-Possession | S2913 | INTELSAT 29E | GSO
Intelsat License LLC, Debtor-in-Possession | S2380 | INTELSAT 9 | GSO
Intelsat License LLC, Debtor-in-Possession | S2831 | INTELSAT 23 | GSO
Intelsat License LLC, Debtor-in-Possession | S2915 | INTELSAT 34 | GSO
Intelsat License LLC, Debtor-in-Possession | S2863 | INTELSAT 21 | GSO
Intelsat License LLC, Debtor-in-Possession | S2750 | INTELSAT 16 | GSO
Intelsat License LLC, Debtor-in-Possession | S2715 | GALAXY 17 | GSO
Intelsat License LLC, Debtor-in-Possession | S2154 | GALAXY 25 | GSO
Intelsat License LLC, Debtor-in-Possession | S2253 | GALAXY 11 | GSO
Intelsat License LLC, Debtor-in-Possession | S2381 | GALAXY 3C | GSO
Intelsat License LLC, Debtor-in-Possession | S2887 | INTELSAT 30 | GSO
Intelsat License LLC, Debtor-in-Possession | S2924 | INTELSAT 31 | GSO
Intelsat License LLC, Debtor-in-Possession | S2647 | GALAXY 19 | GSO
Intelsat License LLC, Debtor-in-Possession | S2687 | GALAXY 16 | GSO
Intelsat License LLC, Debtor-in-Possession | S2733 | GALAXY 18 | GSO
Intelsat License LLC, Debtor-in-Possession | S2385 | GALAXY 14 | GSO
Intelsat License LLC, Debtor-in-Possession | S2386 | GALAXY 13 | GSO
Intelsat License LLC, Debtor-in-Possession | S2422 | GALAXY 12 | GSO
Intelsat License LLC, Debtor-in-Possession | S2387 | GALAXY 15 | GSO
Intelsat License LLC, Debtor-in-Possession | S2704 | INTELSAT 5 | GSO
Intelsat License LLC, Debtor-in-Possession | S2817 | INTELSAT 18 | GSO
Intelsat License LLC, Debtor-in-Possession | S2960 | JCSAT-RA | GSO
Intelsat License LLC, Debtor-in-Possession | S2850 | INTELSAT 19 | GSO
Intelsat License LLC, Debtor-in-Possession | S2368 | INTELSAT 1R | GSO
Intelsat License LLC, Debtor-in-Possession | S2988 | TELKOM-2 | GSO
Intelsat License LLC, Debtor-in-Possession | S2789 | INTELSAT 15 | GSO
Intelsat License LLC, Debtor-in-Possession | S2423 | HORIZONS 2 | GSO
Intelsat License LLC, Debtor-in-Possession | S2846 | INTELSAT 22 | GSO
Intelsat License LLC, Debtor-in-Possession | S2847 | INTELSAT 20 | GSO
Intelsat License LLC, Debtor-in-Possession | S2948 | INTELSAT 36 | GSO
Intelsat License LLC, Debtor-in-Possession | S2814 | INTELSAT 17 | GSO
Intelsat License LLC, Debtor-in-Possession | S2410 | INTELSAT 906 | GSO
Intelsat License LLC, Debtor-in-Possession | S2406 | INTELSAT 902 | GSO
Intelsat License LLC, Debtor-in-Possession | S2939 | INTELSAT 33e | GSO
Intelsat License LLC, Debtor-in-Possession | S2382 | INTELSAT 10 | GSO
Intelsat License LLC, Debtor-in-Possession | S2751 | NEW DAWN | GSO
Intelsat License LLC, Debtor-in-Possession | S3023 | INTELSAT 39 | GSO
Leidos, Inc | S2371 | LM-RPS2 | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2134 | AMC-2 | GSO
SES Americom, Inc | S2826 | SES-2 | GSO
SES Americom, Inc | S2807 | SES-1 | GSO
SES Americom, Inc | S2892 | SES-3 | GSO
SES Americom, Inc | S2180 | AMC-15 | GSO
SES Americom, Inc | S2445 | AMC-1 | GSO
SES Americom, Inc | S2135 | AMC-4 | GSO
SES Americom, Inc | S2155 | AMC-7 | GSO
SES Americom, Inc | S2713 | AMC-18 | GSO
SES Americom, Inc | S2433 | AMC-11 | GSO
SES Americom, Inc./Alascom, Inc | S2379 | AMC-8 | GSO
SES Americom, Inc./EchoStar Satellite Services L.L.C | S2181 | AMC-16 | GSO
Sirius XM Radio Inc | S2710 | FM-5 | GSO
Skynet Satellite Corporation | S2933 | TELSTAR 12V | GSO
Skynet Satellite Corporation | S2357 | TELSTAR 11N | GSO
ViaSat, Inc | S2747 | VIASAT-1 | GSO
XM Radio LLC | S2617 | XM-3 | GSO
XM Radio LLC | S2616 | XM-4 | GSO

Non-U.S.-Licensed Space Stations—Market Access Through Petition for Declaratory Ruling
Licensee | Call sign | Satellite common name | Satellite type
ABS Global Ltd | S2987 | ABS-3A | GSO
DBSD Services Ltd | S2651 | DBSD G1 | GSO
Empresa Argentina de Soluciones Satelitales S.A | S2956 | ARSAT-2 | GSO
European Telecommunications Satellite Organization | S2596 | Atlantic Bird 2 | GSO
European Telecommunications Satellite Organization | S3031 | EUTELSAT 133 WEST A | GSO
Gamma Acquisition L.L.C | S2633 | TerreStar 1 | GSO
Hispamar Satélites, S.A | S2793 | AMAZONAS-2 | GSO
Hispamar Satélites, S.A | S2886 | AMAZONAS-3 | GSO
Hispasat, S.A | S2969 | HISPASAT 30W-6 | GSO
Inmarsat PLC | S2932 | Inmarsat-4 F3 | GSO
Inmarsat PLC | S2949 | Inmarsat-3 F5 | GSO
Inmarsat Mobile Networks, Inc | E150028 | Inmarsat 5F3 | GSO
Intelsat License LLC | S2592/S2868 | Galaxy 23 | GSO
Intelsat License LLC | S3058 | HISPASAT 143W-1 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltd | S2974 | SES-14 | GSO
SES Satellites (Gibraltar) Ltd | S2951 | SES-15 | GSO
Embratel Tvsat Telecommunicacoes S.A | S2677 | STAR ONE C1 | GSO
Embratel Tvsat Telecommunicacoes S.A | S2678 | STAR ONE C2 | GSO
Embratel Tvsat Telecommunicacoes S.A | S2845 | STAR ONE C3 | GSO
Telesat Brasil Capacidade de Satelites Ltda | S2821 | ESTRELA DO SUL 2 | GSO
Telesat Canada | S2674 | ANIK F1R | GSO
Telesat Canada | S2703 | ANIK F3 | GSO
Telesat Canada | S2646/S2472 | ANIK F2 | GSO
Telesat International Ltd | S2955 | TELSTAR 19 VANTAGE | GSO
Viasat, Inc | S2902 | VIASAT-2 | GSO

Non-U.S.-Licensed Space Stations—Market Access Through Earth Station Licenses
ITU Name (if available) | Common name | Call sign | GSO/NGSO
APSTAR VI | APSTAR 6 | M292090 | GSO
AUSSAT B 152E | OPTUS D2 | M221170 | GSO
CAN-BSS3 and CAN-BSS | ECHOSTAR 23 | SM1987 | GSO
Ciel Satellite Group | Ciel-2 | E050029 | GSO
ECHOSTAR 23 | ECHOSTAR 23 | SM2975 | GSO
ECHOSTAR 8 (MEX) | ECHOSTAR 8 | NUS1108 | GSO
Eutelsat 65 West A | Eutelsat 65 West A | E160081 | GSO
INMARSAT 3F3 | INMARSAT 3F3 | E000284 | GSO
INMARSAT 4F1 | INMARSAT 4F1 | KA25 | GSO
JCSAT-2B | JCSAT-2B | M174163 | GSO
NIMIQ 5 | NIMIQ 5 | E080107 | GSO
MSAT-1 | MSAT-1 | E980179 | GSO
QUETZSAT-1(MEX) | QUETZSAT-1 | NUS1101 | GSO
Superbird C2 | Superbird C2 | M334100 | GSO
WILDBLUE-1 | WILDBLUE-1 | E040213 | GSO
Yamal 300K | Yamal 300K | M174162 | GSO

Non-Geostationary Space Stations (NGSO)
ITU name (if available) | Common name | Call sign | NGSO
U.S.-Licensed NGSO Systems
ORBCOMM License Corp | ORBCOMM | S2103 | Other.
Iridium Constellation LLC | IRIDIUM | S2110 | Other.
Space Exploration Holdings, LLC | SPACEX Ku/Ka-Band | S2983/S3018 | Other.
Swarm Technologies | SWARM | S3041 | Other.
Planet Labs | Flock | S2912 | Less Complex.
Planet Labs | Skysats | S2862 | Less Complex.
Maxar License | WorldView 1, 2, 3 & 4 | S2129/S2348 | Less Complex.
BlackSky Global | Global 1, 2, 3 & 4 | S3032 | Less Complex.
Astro Digital U.S., Inc | LANDMAPPER | S3014 | Less Complex.
Hawkeye 360 | HE360 | S3042 | Less Complex.
Non-U.S.-Licensed NGSO Systems—Market Access Through Petition for Declaratory Ruling
Telesat Canada | TELESAT Ku/Ka-Band | S2976 | Other.
Kepler Communications, Inc | KEPLER | S2981 | Other.
WorldVu Satellites Ltd | ONEWEB | S2963 | Other.
Hiber Inc | HIBER | S3038 | Other.
O3b Ltd | O3b | S2935 | Other.
Non-U.S.-Licensed NGSO Systems—Market Access Through Earth Station Licenses
EXACTVIEW-1 | EXACTVIEW-1 | SM2989 | Less Complex.
NGSO Systems that Are Partly U.S.-Licensed and Partly Non-U.S.-Licensed with Market Access Through Petition for Declaratory Ruling
Globalstar License LLC | GLOBALSTAR | S2115 | Other.
Spire Global | LEMUR & MINAS | S2946/S3045 | Less Complex.

Table 7—FY 2021 Full-Service Broadcast Television Stations by Call Sign
Facility Id. | Call sign | Service area population | Terrain limited population | Terrain limited fee amount
3246 | KAAH-TV | 955,391 | 879,906 | $7,501
18285 | KAAL | 589,502 | 568,169 | 4,844
11912 | KAAS-TV | 220,262 | 219,922 | 1,875
56528 | KABB | 2,474,296 | 2,456,689 | 20,943
282 | KABC-TV | 17,540,791 | 16,957,292 | 144,561
1236 | KACV-TV | 372,627 | 372,330 | 3,174
33261 | KADN-TV | 877,965 | 877,965 | 7,485
8263 | KAEF-TV | 138,085 | 122,808 | 1,047
2728 | KAET | 4,217,217 | 4,184,386 | 35,672
2767 | KAFT | 1,204,376 | 1,122,928 | 9,573
62442 | KAID | 711,035 | 702,721 | 5,991
4145 | KAII-TV | 188,810 | 165,396 | 1,410
67494 | KAIL | 1,967,744 | 1,948,341 | 16,610
13988 | KAIT | 861,149 | 845,812 | 7,211
40517 | KAJB | 383,886 | 383,195 | 3,267
65522 | KAKE | 803,937 | 799,254 | 6,814
804 | KAKM | 380,240 | 379,105 | 3,232
148 | KAKW-DT | 2,615,956 | 2,531,813 | 21,584
51598 | KALB-TV | 943,307 | 942,043 | 8,031
51241 | KALO | 948,683 | 844,503 | 7,199
40820 | KAMC | 391,526 | 391,502 | 3,338
8523 | KAMR-TV | 366,476 | 366,335 | 3,123
65301 | KAMU-TV | 346,892 | 342,455 | 2,919
2506 | KAPP | 319,797 | 283,944 | 2,421
3658 | KARD | 703,234 | 700,887 | 5,975
23079 | KARE | 3,924,944 | 3,907,483 | 33,311
33440 | KARK-TV | 1,212,038 | 1,196,196 | 10,198
37005 | KARZ-TV | 1,066,386 | 1,050,270 | 8,954
32311 | KASA-TV | 1,161,789 | 1,119,108 | 9,540
41212 | KASN | 1,175,627 | 1,159,721 | 9,887
7143 | KASW | 4,174,437 | 4,160,497 | 35,468
55049 | KASY-TV | 1,144,839 | 1,099,825 | 9,376
33471 | KATC | 1,348,897 | 1,348,897 | 11,499
13813 | KATN | 97,466 | 97,128 | 828
21649 | KATU | 2,977,993 | 2,845,582 | 24,259
33543 | KATV | 1,257,777 | 1,234,933 | 10,528
50182 | KAUT-TV | 1,637,333 | 1,636,330 | 13,950
6864 | KAUZ-TV | 381,671 | 379,435 | 3,235
73101 | KAVU-TV | 319,618 | 319,484 | 2,724
49579 | KAWB | 186,919 | 186,845 | 1,593
49578 | KAWE | 136,033 | 133,937 | 1,142
58684 | KAYU-TV | 809,464 | 750,766 | 6,400
29234 | KAZA-TV | 14,973,535 | 13,810,130 | 117,731
17433 | KAZD | 6,776,778 | 6,774,172 | 57,750
1151 | KAZQ | 1,097,010 | 1,084,327 | 9,244
35811 | KAZT-TV | 436,925 | 359,273 | 3,063
4148 | KBAK-TV | 1,510,400 | 1,263,910 | 10,775
16940 | KBCA | 479,260 | 479,219 | 4,085
53586 | KBCB | 1,256,193 | 1,223,883 | 10,434
69619 | KBCW | 8,227,562 | 7,375,199 | 62,874
22685 | KBDI-TV | 4,042,177 | 3,683,394 | 31,401
56384 | KBEH | 17,736,497 | 17,695,306 | 150,852
65395 | KBFD-DT | 953,207 | 834,341 | 7,113
169030 | KBGS-TV | 159,269 | 156,802 | 1,337
61068 | KBHE-TV | 140,860 | 133,082 | 1,135
48556 | KBIM-TV | 205,701 | 205,647 | 1,753
29108 | KBIN-TV | 912,921 | 911,725 | 7,772
33658 | KBJR-TV | 275,585 | 271,298 | 2,313
83306 | KBLN-TV | 297,384 | 134,927 | 1,150
63768 | KBLR | 1,964,979 | 1,915,861 | 16,333
53324 | KBME-TV | 123,571 | 123,485 | 1,053
10150 | KBMT | 743,009 | 742,369 | 6,329
22121 | KBMY | 119,993 | 119,908 | 1,022
49760 | KBOI-TV | 715,191 | 708,374 | 6,039
55370 | KBRR | 149,869 | 149,868 | 1,278
66414 | KBSD-DT | 155,012 | 154,891 | 1,320
66415 | KBSH-DT | 102,781 | 100,433 | 856
19593 | KBSI | 756,501 | 754,722 | 6,434
66416 | KBSL-DT | 49,814 | 48,483 | 413
4939 | KBSV | 1,352,166 | 1,262,708 | 10,765
62469 | KBTC-TV | 3,697,981 | 3,621,965 | 30,877
61214 | KBTV-TV | 734,008 | 734,008 | 6,257
6669 | KBTX-TV | 4,404,648 | 4,401,048 | 37,519
35909 | KBVO | 1,498,015 | 1,312,360 | 11,188
58618 | KBVU | 135,249 | 120,827 | 1,030
6823 | KBYU-TV | 2,389,548 | 2,209,060 | 18,832
33756 | KBZK | 120,807 | 107,817 | 919
21422 | KCAL-TV | 17,499,483 | 16,889,157 | 143,980
11265 | KCAU-TV | 714,315 | 706,224 | 6,021
14867 | KCBA | 3,088,394 | 2,369,803 | 20,203
27507 | KCBD | 414,804 | 414,091 | 3,530
9628 | KCBS-TV | 17,853,152 | 16,656,778 | 141,999
49750 | KCBY-TV | 89,156 | 73,211 | 624
33710 | KCCI | 1,102,130 | 1,095,326 | 9,338
9640 | KCCW-TV | 284,280 | 276,935 | 2,361
63158 | KCDO-TV | 2,798,103 | 2,650,225 | 22,593
62424 | KCDT | 698,389 | 657,101 | 5,602
83913 | KCEB | 1,163,228 | 1,159,665 | 9,886
57219 | KCEC | 3,831,192 | 3,613,287 | 30,803
10245 | KCEN-TV | 1,795,767 | 1,757,018 | 14,979
13058 | KCET | 16,875,019 | 15,402,588 | 131,307
18079 | KCFW-TV | 148,162 | 129,122 | 1,101
132606 | KCGE-DT | 123,930 | 123,930 | 1,057
60793 | KCHF | 1,118,671 | 1,085,205 | 9,251
33722 | KCIT | 382,477 | 381,818 | 3,255
62468 | KCKA | 953,680 | 804,362 | 6,857
41969 | KCLO-TV | 138,413 | 132,157 | 1,127
47903 | KCNC-TV | 3,794,400 | 3,541,089 | 30,188
71586 | KCNS | 8,270,858 | 7,381,656 | 62,929
33742 | KCOP-TV | 17,386,133 | 16,647,708 | 141,922
19117 | KCOS | 1,014,396 | 1,014,205 | 8,646
63165 | KCOY-TV | 664,655 | 459,468 | 3,917
33894 | KCPQ | 4,439,875 | 4,311,994 | 36,760
53843 | KCPT | 2,507,879 | 2,506,224 | 21,366
33875 | KCRA-TV | 10,612,483 | 6,500,774 | 55,419
9719 | KCRG-TV | 1,136,762 | 1,107,130 | 9,438
60728 | KCSD-TV | 273,553 | 273,447 | 2,331
59494 | KCSG | 174,814 | 164,765 | 1,405
33749 | KCTS-TV | 4,177,824 | 4,115,603 | 35,086
41230 | KCTV | 2,547,456 | 2,545,645 | 21,702
58605 | KCVU | 630,068 | 616,068 | 5,252
10036 | KCWC-DT | 44,216 | 39,439 | 336
64444 | KCWE | 2,460,172 | 2,458,913 | 20,962
51502 | KCWI-TV | 1,043,811 | 1,042,642 | 8,889
42008 | KCWO-TV | 50,707 | 50,685 | 432
166511 | KCWV | 207,398 | 207,370 | 1,768
24316 | KCWX | 3,961,268 | 3,954,787 | 33,715
68713 | KCWY-DT | 79,948 | 79,414 | 677
22201 | KDAF | 6,648,507 | 6,645,226 | 56,651
33764 | KDBC-TV | 1,015,564 | 1,015,162 | 8,654
79258 | KDCK | 43,088 | 43,067 | 367
166332 | KDCU-DT | 796,251 | 795,504 | 6,782
38375 | KDEN-TV | 3,376,799 | 3,351,182 | 28,569
17037 | KDFI | 6,684,439 | 6,682,487 | 56,968
33770 | KDFW | 6,659,312 | 6,657,023 | 56,751
29102 | KDIN-TV | 1,088,376 | 1,083,845 | 9,240
25454 | KDKA-TV | 3,611,796 | 3,450,690 | 29,417
60740 | KDKF | 71,413 | 64,567 | 550
4691 | KDLH | 263,422 | 260,394 | 2,220
41975 | KDLO-TV | 208,354 | 208,118 | 1,774
55379 | KDLT-TV | 639,284 | 628,281 | 5,356
55375 | KDLV-TV | 96,873 | 96,620 | 824
25221 | KDMD | 375,328 | 373,408 | 3,183
78915 | KDMI | 1,141,990 | 1,140,939 | 9,727
56524 | KDNL-TV | 2,987,219 | 2,982,311 | 25,424
24518 | KDOC-TV | 17,503,793 | 16,701,233 | 142,378
1005 | KDOR-TV | 1,112,060 | 1,108,556 | 9,450
60736 | KDRV | 519,706 | 440,002 | 3,751
61064 | KDSD-TV | 64,314 | 59,635 | 508
53329 | KDSE | 42,896 | 41,432 | 353
56527 | KDSM-TV | 1,096,220 | 1,095,478 | 9,339
49326 | KDTN | 6,602,327 | 6,600,186 | 56,267
83491 | KDTP | 26,564 | 24,469 | 209
33778 | KDTV-DT | 7,959,349 | 7,129,638 | 60,780
67910 | KDTX-TV | 6,680,738 | 6,679,424 | 56,942
126 | KDVR | 3,644,912 | 3,521,884 | 30,024
18084 | KECI-TV | 211,745 | 193,803 | 1,652
51208 | KECY-TV | 399,372 | 394,379 | 3,362
58408 | KEDT | 513,683 | 513,683 | 4,379
55435 | KEET | 177,313 | 159,960 | 1,364
41983 | KELO-TV | 705,364 | 646,126 | 5,508
34440 | KEMO-TV | 8,270,858 | 7,381,656 | 62,929
2777 | KEMV | 619,889 | 559,135 | 4,767
26304 | KENS | 2,544,094 | 2,529,382 | 21,563
63845 | KENV-DT | 47,220 | 40,677 | 347
18338 | KENW | 87,017 | 87,017 | 742
50591 | KEPB-TV | 576,964 | 523,655 | 4,464
56029 | KEPR-TV | 453,259 | 433,260 | 3,694
49324 | KERA-TV | 6,681,083 | 6,677,852 | 56,929
40878 | KERO-TV | 1,285,357 | 1,164,979 | 9,931
61067 | KESD-TV | 166,018 | 159,195 | 1,357
25577 | KESQ-TV | 1,334,172 | 572,057 | 4,877
50205 | KETA-TV | 1,702,441 | 1,688,227 | 14,392
62182 | KETC | 2,913,924 | 2,911,313 | 24,819
37101 | KETD | 3,323,570 | 3,285,231 | 28,007
2768 | KETG | 426,883 | 409,511 | 3,491
12895 | KETH-TV | 6,088,821 | 6,088,677 | 51,906
55643 | KETK-TV | 1,031,567 | 1,030,122 | 8,782
2770 | KETS | 1,185,111 | 1,166,796 | 9,947
53903 | KETV | 1,355,714 | 1,350,740 | 11,515
92872 | KETZ | 526,890 | 523,877 | 4,466
68853 | KEYC-TV | 544,900 | 531,079 | 4,527
33691 | KEYE-TV | 2,732,257 | 2,652,529 | 22,613
60637 | KEYT-TV | 1,419,564 | 1,239,577 | 10,567
83715 | KEYU | 339,348 | 339,302 | 2,893
34406 | KEZI | 1,113,171 | 1,065,880 | 9,087
34412 | KFBB-TV | 93,519 | 91,964 | 784
125 | KFCT | 795,114 | 788,747 | 6,724
51466 | KFDA-TV | 385,064 | 383,977 | 3,273
22589 | KFDM | 732,665 | 732,588 | 6,245
65370 | KFDX-TV | 381,703 | 381,318 | 3,251
49264 | KFFV | 4,020,926 | 3,987,153 | 33,990
12729 | KFFX-TV | 409,952 | 403,692 | 3,441
83992 | KFJX | 515,708 | 505,647 | 4,311
42122 | KFMB-TV | 3,947,735 | 3,699,981 | 31,542
53321 | KFME | 393,045 | 392,472 | 3,346
74256 | KFNB | 80,382 | 79,842 | 681
21613 | KFNE | 54,988 | 54,420 | 464
21612 | KFNR | 10,988 | 10,965 | 93
66222 | KFOR-TV | 1,616,459 | 1,615,614 | 13,773
33716 | KFOX-TV | 1,023,999 | 1,018,549 | 8,683
41517 | KFPH-DT | 347,579 | 282,838 | 2,411
81509 | KFPX-TV | 963,969 | 963,846 | 8,217
31597 | KFQX | 186,473 | 163,637 | 1,395
59013 | KFRE-TV | 1,721,275 | 1,705,484 | 14,539
51429 | KFSF-DT | 7,348,828 | 6,528,430 | 55,655
66469 | KFSM-TV | 906,728 | 884,919 | 7,544
8620 | KFSN-TV | 1,836,607 | 1,819,585 | 15,512
29560 | KFTA-TV | 818,859 | 809,173 | 6,898
83714 | KFTC | 61,990 | 61,953 | 528
60537 | KFTH-DT | 6,080,688 | 6,080,373 | 51,835
60549 | KFTR-DT | 17,560,679 | 16,305,726 | 139,006
61335 | KFTS | 74,936 | 65,126 | 555
81441 | KFTU-DT | 113,876 | 109,731 | 935
34439 | KFTV-DT | 1,794,984 | 1,779,917 | 15,174
36917 | KFVE | 953,895 | 851,585 | 7,260
592 | KFVS-TV | 895,871 | 873,777 | 7,449
29015 | KFWD | 6,610,836 | 6,598,496 | 56,252
35336 | KFXA | 875,538 | 874,070 | 7,451
17625 | KFXB-TV | 373,280 | 368,466 | 3,141
70917 | KFXK-TV | 934,043 | 931,791 | 7,944
84453 | KFXL-TV | 862,531 | 854,678 | 7,286
41427 | KFYR-TV | 130,881 | 128,301 | 1,094
25685 | KGAN | 1,083,213 | 1,057,597 | 9,016
34457 | KGBT-TV | 1,230,798 | 1,230,791 | 10,492
52593 | KGBY | 270,089 | 218,544 | 1,863
7841 | KGCW | 949,575 | 945,476 | 8,060
24485 | KGEB | 1,186,225 | 1,150,201 | 9,805
34459 | KGET-TV | 917,927 | 874,332 | 7,454
53320 | KGFE | 114,564 | 114,564 | 977
7894 | KGIN | 230,535 | 228,338 | 1,947
83945 | KGLA-DT | 1,645,641 | 1,645,641 | 14,029
34445 | KGMB | 953,398 | 851,088 | 7,256
23302 | KGMC | 1,824,786 | 1,803,796 | 15,377
36914 | KGMD-TV | 94,323 | 93,879 | 800
36920 | KGMV | 193,564 | 162,230 | 1,383
10061 | KGNS-TV | 267,236 | 259,548 | 2,213
34470 | KGO-TV | 8,637,074 | 7,929,294 | 67,597
56034 | KGPE | 1,699,131 | 1,682,082 | 14,340
81694 | KGPX-TV | 685,626 | 624,955 | 5,328
25511 | KGTF | 161,885 | 160,568 | 1,369
40876 | KGTV | 3,960,667 | 3,682,219 | 31,391
36918 | KGUN-TV | 1,398,527 | 1,212,484 | 10,336
34874 | KGW | 3,058,216 | 2,881,387 | 24,564
63177 | KGWC-TV | 80,475 | 80,009 | 682
63162 | KGWL-TV | 38,125 | 38,028 | 324
63166 | KGWN-TV | 469,467 | 440,388 | 3,754
63170 | KGWR-TV | 51,315 | 50,957 | 434
4146 | KHAW-TV | 95,204 | 94,851 | 809
34846 | KHBC-TV | 74,884 | 74,884 | 638
60353 | KHBS | 631,770 | 608,052 | 5,184
27300 | KHCE-TV | 2,353,883 | 2,348,391 | 20,020
26431 | KHET | 959,060 | 944,568 | 8,052
21160 | KHGI-TV | 233,973 | 229,173 | 1,954
29085 | KHIN | 1,041,244 | 1,039,383 | 8,861
17688 | KHME | 181,345 | 179,706 | 1,532
47670 | KHMT | 175,601 | 170,957 | 1,457
47987 | KHNE-TV | 203,931 | 202,944 | 1,730
34867 | KHNL | 953,398 | 851,088 | 7,256
60354 | KHOG-TV | 765,360 | 702,984 | 5,993
4144 | KHON-TV | 953,207 | 886,431 | 7,557
34529 | KHOU | 6,083,336 | 6,081,785 | 51,847
4690 | KHQA-TV | 318,469 | 316,134 | 2,695
34537 | KHQ-TV | 822,371 | 774,821 | 6,605
30601 | KHRR | 1,227,847 | 1,166,890 | 9,948
34348 | KHSD-TV | 188,735 | 185,202 | 1,579
24508 | KHSL-TV | 625,904 | 608,850 | 5,190
69677 | KHSV | 2,059,794 | 2,020,045 | 17,221
64544 | KHVO | 94,226 | 93,657 | 798
23394 | KIAH | 6,099,694 | 6,099,297 | 51,997
34564 | KICU-TV | 8,233,041 | 7,174,316 | 61,161
56028 | KIDK | 305,509 | 302,535 | 2,579
58560 | KIDY | 116,614 | 116,596 | 994
53382 | KIEM-TV | 174,390 | 160,801 | 1,371
66258 | KIFI-TV | 324,422 | 320,118 | 2,729
10188 | KIII | 569,864 | 566,796 | 4,832
29095 | KIIN | 1,365,215 | 1,335,707 | 11,387
34527 | KIKU | 953,896 | 850,963 | 7,254
63865 | KILM | 17,256,205 | 15,804,489 | 134,733
56033 | KIMA-TV | 308,604 | 260,593 | 2,222
66402 | KIMT | 654,083 | 643,384 | 5,485
67089 | KINC | 2,002,066 | 1,920,903 | 16,376
34847 | KING-TV | 4,074,288 | 4,036,926 | 34,415
51708 | KINT-TV | 1,015,582 | 1,015,274 | 8,655
26249 | KION-TV | 2,400,317 | 855,808 | 7,296
62427 | KIPT | 171,405 | 170,455 | 1,453
66781 | KIRO-TV | 4,058,101 | 4,030,968 | 34,364
62430 | KISU-TV | 311,827 | 307,651 | 2,623
12896 | KITU-TV | 712,362 | 712,362 | 6,073
64548 | KITV | 953,207 | 839,906 | 7,160
59255 | KIVI-TV | 710,819 | 702,619 | 5,990
47285 | KIXE-TV | 467,518 | 428,118 | 3,650
13792 | KJJC-TV | 82,749 | 81,865 | 698
14000 | KJLA | 17,929,100 | 16,794,896 | 143,176
20015 | KJNP-TV | 98,403 | 98,097 | 836
53315 | KJRE | 16,187 | 16,170 | 138
59439 | KJRH-TV | 1,416,108 | 1,397,311 | 11,912
55364 | KJRR | 45,515 | 44,098 | 376
7675 | KJTL | 379,594 | 379,263 | 3,233
55031 | KJTV-TV | 406,283 | 406,260 | 3,463
13814 | KJUD | 31,229 | 30,106 | 257
36607 | KJZZ-TV | 2,388,965 | 2,209,183 | 18,833
83180 | KKAI | 955,203 | 941,214 | 8,024
58267 | KKAP | 957,786 | 923,172 | 7,870
24766 | KKCO | 206,018 | 172,628 | 1,472
35097 | KKJB | 629,939 | 624,784 | 5,326
22644 | KKPX-TV | 7,588,288 | 6,758,490 | 57,616
35037 | KKTV | 2,892,126 | 2,478,864 | 21,132
35042 | KLAS-TV | 2,094,297 | 1,940,030 | 16,539
52907 | KLAX-TV | 367,212 | 366,839 | 3,127
3660 | KLBK-TV | 387,783 | 387,743 | 3,306
65523 | KLBY | 31,102 | 31,096 | 265
38430 | KLCS | 16,875,019 | 15,402,588 | 131,307
77719 | KLCW-TV | 381,889 | 381,816 | 3,255
51479 | KLDO-TV | 250,832 | 250,832 | 2,138
37105 | KLEI | 175,045 | 138,087 | 1,177
56032 | KLEW-TV | 164,908 | 148,256 | 1,264
35059 | KLFY-TV | 1,355,890 | 1,355,409 | 11,555
54011 | KLJB | 1,027,104 | 1,012,309 | 8,630
11264 | KLKN | 932,757 | 895,101 | 7,631
47975 | KLNE-TV | 120,338 | 120,277 | 1,025
38590 | KLPA-TV | 414,699 | 414,447 | 3,533
38588 | KLPB-TV | 749,053 | 749,053 | 6,386
749 | KLRN | 2,374,472 | 2,353,440 | 20,063
11951 | KLRT-TV | 1,171,678 | 1,152,541 | 9,825
8564 | KLRU | 2,614,658 | 2,575,518 | 21,956
8322 | KLSR-TV | 564,415 | 508,157 | 4,332
31114 | KLST | 199,067 | 169,551 | 1,445
24436 | KLTJ | 6,034,131 | 6,033,867 | 51,439
38587 | KLTL-TV | 423,574 | 423,574 | 3,611
38589 | KLTM-TV | 694,280 | 688,915 | 5,873
38591 | KLTS-TV | 883,661 | 882,589 | 7,524
68540 | KLTV | 1,069,690 | 1,051,361 | 8,963
12913 | KLUJ-TV | 1,195,751 | 1,195,751 | 10,194
57220 | KLUZ-TV | 1,079,718 | 1,019,302 | 8,690
11683 | KLVX | 2,044,150 | 1,936,083 | 16,505
82476 | KLWB | 1,065,748 | 1,065,748 | 9,086
40250 | KLWY | 541,043 | 538,231 | 4,588
64551 | KMAU | 213,060 | 188,953 | 1,611
51499 | KMAX-TV | 10,767,605 | 7,132,240 | 60,802
65686 | KMBC-TV | 2,507,895 | 2,506,661 | 21,369
56079 | KMBH | 1,225,732 | 1,225,732 | 10,449
35183 | KMCB | 69,357 | 66,203 | 564
41237 | KMCC | 2,064,592 | 2,010,262 | 17,137
42636 | KMCI-TV | 2,429,392 | 2,428,626 | 20,704
38584 | KMCT-TV | 267,004 | 266,880 | 2,275
22127 | KMCY | 71,797 | 71,793 | 612
162016 | KMDE | 35,409 | 35,401 | 302
26428 | KMEB | 221,810 | 203,470 | 1,735
39665 | KMEG | 708,748 | 704,130 | 6,003
35123 | KMEX-DT | 17,628,354 | 16,318,720 | 139,117
40875 | KMGH-TV | 3,815,253 | 3,574,365 | 30,471
35131 | KMID | 383,449 | 383,439 | 3,269
16749 | KMIR-TV | 2,760,914 | 730,764 | 6,230
63164 | KMIZ | 532,025 | 530,008 | 4,518
53541 | KMLM-DT | 293,290 | 293,290 | 2,500
52046 | KMLU | 711,951 | 708,107 | 6,037
47981 | KMNE-TV | 47,232 | 44,189 | 377
24753 | KMOH-TV | 199,885 | 184,283 | 1,571
4326 | KMOS-TV | 804,745 | 803,129 | 6,847
41425 | KMOT | 81,517 | 79,504 | 678
70034 | KMOV | 3,035,077 | 3,029,405 | 25,826
51488 | KMPH-TV | 1,725,397 | 1,697,871 | 14,474
73701 | KMPX | 6,678,829 | 6,674,706 | 56,902
44052 | KMSB | 1,321,614 | 1,039,442 | 8,861
68883 | KMSP-TV | 3,832,040 | 3,805,141 | 32,439
12525 | KMSS-TV | 1,068,120 | 1,066,388 | 9,091
43095 | KMTP-TV | 5,252,062 | 4,457,617 | 38,001
35189 | KMTR | 589,948 | 520,666 | 4,439
35190 | KMTV-TV | 1,346,549 | 1,344,796 | 11,464
77063 | KMTW | 761,521 | 761,516 | 6,492
35200 | KMVT | 184,647 | 176,351 | 1,503
32958 | KMVU-DT | 308,150 | 231,506 | 1,974
86534 | KMYA-DT | 200,764 | 200,719 | 1,711
51518 | KMYS | 2,273,888 | 2,267,913 | 19,334
54420 | KMYT-TV | 1,314,197 | 1,302,378 | 11,103
35822 | KMYU | 133,563 | 130,198 | 1,110
993 | KNAT-TV | 1,157,630 | 1,124,619 | 9,587
24749 | KNAZ-TV | 332,321 | 227,658 | 1,941
47906 | KNBC | 17,859,647 | 16,555,232 | 141,133
81464 | KNBN | 145,493 | 136,995 | 1,168
9754 | KNCT | 1,751,838 | 1,726,148 | 14,715
82611 | KNDB | 118,154 | 118,122 | 1,007
82615 | KNDM | 72,216 | 72,209 | 616
12395 | KNDO | 314,875 | 270,892 | 2,309
12427 | KNDU | 475,612 | 462,556 | 3,943
17683 | KNEP | 101,389 | 95,890 | 817
48003 | KNHL | 277,777 | 277,308 | 2,364
125710 | KNIC-DT | 2,398,296 | 2,383,294 | 20,318
59363 | KNIN-TV | 708,289 | 703,838 | 6,000
48525 | KNLC | 2,981,508 | 2,978,979 | 25,396
48521 | KNLJ | 655,000 | 642,705 | 5,479
84215 | KNMD-TV | 1,120,286 | 1,100,869 | 9,385
55528 | KNME-TV | 1,149,036 | 1,103,695 | 9,409
47707 | KNMT | 2,887,142 | 2,794,995 | 23,827
48975 | KNOE-TV | 733,097 | 729,703 | 6,221
49273 | KNOP-TV | 87,904 | 85,423 | 728
10228 | KNPB | 604,614 | 462,732 | 3,945
55362 | KNRR | 25,957 | 25,931 | 221
35277 | KNSD | 3,861,660 | 3,618,321 | 30,846
19191 | KNSN-TV | 611,981 | 459,485 | 3,917
58608 | KNSO | 1,976,317 | 1,931,825 | 16,469
35280 | KNTV | 8,525,818 | 8,027,505 | 68,434
144 | KNVA | 2,550,225 | 2,529,184 | 21,561
33745 | KNVN | 495,902 | 470,252 | 4,009
69692 | KNVO | 1,247,014 | 1,247,014 | 10,631
29557 | KNWA-TV | 822,906 | 804,682 | 6,860
16950 | KNXT | 2,180,045 | 2,160,460 | 18,418
59440 | KNXV-TV | 4,183,943 | 4,173,022 | 35,575
59014 | KOAA-TV | 1,608,528 | 1,203,731 | 10,262
50588 | KOAB-TV | 207,070 | 203,371 | 1,734
50590 | KOAC-TV | 1,957,282 | 1,543,401 | 13,157
58552 | KOAM-TV | 595,307 | 584,921 | 4,986
53928 | KOAT-TV | 1,132,372 | 1,105,116 | 9,421
35313 | KOB | 1,152,841 | 1,113,162 | 9,490
35321 | KOBF | 201,911 | 166,177 | 1,417
8260 | KOBI | 562,463 | 519,063 | 4,425
62272 | KOBR | 211,709 | 211,551 | 1,803
50170 | KOCB | 1,629,783 | 1,629,152 | 13,889
4328 | KOCE-TV | 17,447,903 | 16,331,792 | 139,229
84225 | KOCM | 1,434,325 | 1,433,605 | 12,221
12508 | KOCO-TV | 1,716,569 | 1,708,085 | 14,561
83181 | KOCW | 83,807 | 83,789 | 714
18283 | KODE-TV | 740,156 | 731,512 | 6,236
66195 | KOED-TV | 1,497,297 | 1,459,833 | 12,445
50198 | KOET | 658,606 | 637,640 | 5,436
51189 | KOFY-TV | 5,252,062 | 4,457,617 | 38,001
34859 | KOGG | 190,829 | 161,310 | 1,375
166534 | KOHD | 201,310 | 197,662 | 1,685
35380 | KOIN | 3,028,482 | 2,881,460 | 24,564
35388 | KOKH-TV | 1,627,116 | 1,625,246 | 13,855
11910 | KOKI-TV | 1,366,220 | 1,352,227 | 11,528
48663 | KOLD-TV | 1,216,228 | 887,754 | 7,568
7890 | KOLN | 1,225,400 | 1,190,178 | 10,146
63331 | KOLO-TV | 959,178 | 826,985 | 7,050
28496 | KOLR | 1,076,144 | 1,038,613 | 8,854
21656 | KOMO-TV | 4,132,260 | 4,087,435 | 34,845
65583 | KOMU-TV | 551,658 | 542,544 | 4,625
35396 | KONG | 4,006,008 | 3,985,271 | 33,974
60675 | KOOD | 113,416 | 113,285 | 966
50589 | KOPB-TV | 3,059,231 | 2,875,815 | 24,516
2566 | KOPX-TV | 1,501,110 | 1,500,883 | 12,795
64877 | KORO | 560,983 | 560,983 | 4,782
6865 | KOSA-TV | 340,978 | 338,070 | 2,882
34347 | KOTA-TV | 174,876 | 152,861 | 1,303
8284 | KOTI | 298,175 | 97,132 | 828
35434 | KOTV-DT | 1,417,753 | 1,403,838 | 11,968
56550 | KOVR | 10,784,477 | 7,162,989 | 61,064
51101 | KOZJ | 429,982 | 427,991 | 3,649
51102 | KOZK | 839,841 | 834,308 | 7,112
3659 | KOZL-TV | 992,495 | 963,281 | 8,212
35455 | KPAX-TV | 206,895 | 193,201 | 1,647
67868 | KPAZ-TV | 4,190,080 | 4,176,323 | 35,603
6124 | KPBS | 3,584,237 | 3,463,189 | 29,524
50044 | KPBT-TV | 340,080 | 340,080 | 2,899
77452 | KPCB-DT | 30,861 | 30,835 | 263
35460 | KPDX | 2,970,703 | 2,848,423 | 24,283
12524 | KPEJ-TV | 368,212 | 368,208 | 3,139
41223 | KPHO-TV | 4,195,073 | 4,175,139 | 35,593
61551 | KPIC | 156,687 | 105,807 | 902
86205 | KPIF | 265,080 | 258,174 | 2,201
25452 | KPIX-TV | 8,340,753 | 7,480,594 | 63,772
58912 | KPJK | 7,884,411 | 6,955,179 | 59,293
166510 | KPJR-TV | 3,402,088 | 3,372,831 | 28,753
13994 | KPLC | 1,406,085 | 1,403,853 | 11,968
41964 | KPLO-TV | 55,827 | 52,765 | 450
35417 | KPLR-TV | 2,968,619 | 2,965,673 | 25,282
12144 | KPMR | 1,731,370 | 1,473,251 | 12,559
47973 | KPNE-TV | 92,675 | 89,021 | 759
35486 | KPNX | 4,215,834 | 4,184,428 | 35,672
77512 | KPNZ | 2,394,311 | 2,208,707 | 18,829
73998 | KPOB-TV | 144,525 | 143,656 | 1,225
26655 | KPPX-TV | 4,186,998 | 4,171,450 | 35,562
53117 | KPRC-TV | 6,099,422 | 6,099,076 | 51,995
48660 | KPRY-TV | 42,521 | 42,426 | 362
61071 | KPSD-TV | 19,886 | 18,799 | 160
53544 | KPTB-DT | 322,780 | 320,646 | 2,734
81445 | KPTF-DT | 84,512 | 84,512 | 720
77451 | KPTH | 660,556 | 655,373 | 5,587
51491 | KPTM | 1,414,998 | 1,414,014 | 12,054
33345 | KPTS | 832,000 | 827,866 | 7,058
50633 | KPTV | 2,998,460 | 2,847,263 | 24,273
82575 | KPTW | 80,374 | 80,012 | 682
1270 | KPVI-DT | 271,379 | 264,204 | 2,252
58835 | KPXB-TV | 6,062,472 | 6,062,271 | 51,681
68695 | KPXC-TV | 3,362,518 | 3,341,951 | 28,490
68834 | KPXD-TV | 6,555,157 | 6,553,373 | 55,868
33337 | KPXE-TV | 2,437,178 | 2,436,024 | 20,767
5801 | KPXG-TV | 3,026,219 | 2,882,598 | 24,574
81507 | KPXJ | 1,138,632 | 1,135,626 | 9,681
61173 | KPXL-TV | 2,257,007 | 2,243,520 | 19,126
35907 | KPXM-TV | 3,507,312 | 3,506,503 | 29,893
58978 | KPXN-TV | 17,256,205 | 15,804,489 | 134,733
77483 | KPXO-TV | 953,329 | 913,341 | 7,786
21156 | KPXR-TV | 828,915 | 821,250 | 7,001
10242 | KQCA | 10,077,891 | 6,276,197 | 53,505
41430 | KQCD-TV | 35,623 | 33,415 | 285
18287 | KQCK | 3,220,160 | 3,162,711 | 26,962
78322 | KQCW-DT | 1,128,198 | 1,123,324 | 9,576
35525 | KQDS-TV | 304,935 | 301,439 | 2,570
35500 | KQED | 8,195,398 | 7,283,828 | 62,095
35663 | KQEH | 8,195,398 | 7,283,828 | 62,095
8214 | KQET | 2,981,040 | 2,076,157 | 17,699
5471 | KQIN | 596,371 | 596,277 | 5,083
17686 | KQME | 188,783 | 184,719 | 1,575
61063 | KQSD-TV | 32,526 | 31,328 | 267
8378 | KQSL | 196,316 | 133,564 | 1,139
20427 | KQTV | 1,494,987 | 1,401,160 | 11,945
78921 | KQUP | 697,016 | 551,824 | 4,704
306 | KRBC-TV | 229,395 | 229,277 | 1,955
166319 | KRBK | 983,888 | 966,187 | 8,237
22161 | KRCA | 17,540,791 | 16,957,292 | 144,561
57945 | KRCB | 8,783,441 | 8,503,802 | 72,495
41110 | KRCG | 684,989 | 662,418 | 5,647
8291 | KRCR-TV | 423,000 | 402,594 | 3,432
10192 | KRCW-TV | 2,966,912 | 2,842,523 | 24,233
49134 | KRDK-TV | 349,941 | 349,929 | 2,983
52579 | KRDO-TV | 2,622,603 | 2,272,383 | 19,372
70578 | KREG-TV | 149,306 | 95,141 | 811
34868 | KREM | 817,619 | 752,113 | 6,412
51493 | KREN-TV | 810,039 | 681,212 | 5,807
70596 | KREX-TV | 145,700 | 145,606 | 1,241
70579 | KREY-TV | 74,963 | 65,700 | 560
48589 | KREZ-TV | 148,079 | 105,121 | 896
43328 | KRGV-TV | 1,247,057 | 1,247,029 | 10,631
82698 | KRII | 133,840 | 132,912 | 1,133
29114 | KRIN | 949,313 | 923,735 | 7,875
25559 | KRIS-TV | 561,825 | 561,718 | 4,789
22204 | KRIV | 6,078,936 | 6,078,846 | 51,822
14040 | KRMA-TV | 3,722,512 | 3,564,949 | 30,391
14042 | KRMJ | 174,094 | 159,511 | 1,360
20476 | KRMT | 2,956,144 | 2,864,236 | 24,418
84224 | KRMU | 85,274 | 72,499 | 618
20373 | KRMZ | 36,293 | 33,620 | 287
47971 | KRNE-TV | 47,473 | 38,273 | 326
60307 | KRNV-DT | 955,490 | 792,543 | 6,756
65526 | KRON-TV | 8,573,167 | 8,028,256 | 68,441
53539 | KRPV-DT | 65,943 | 65,943 | 562
48575 | KRQE | 1,135,461 | 1,105,093 | 9,421
57431 | KRSU-TV | 1,000,289 | 998,310 | 8,511
82613 | KRTN-TV | 96,062 | 74,452 | 635
35567 | KRTV | 92,645 | 90,849 | 774
84157 | KRWB-TV | 111,538 | 110,979 | 946
35585 | KRWF | 85,596 | 85,596 | 730
55516 | KRWG-TV | 894,492 | 661,703 | 5,641
48360 | KRXI-TV | 725,391 | 548,865 | 4,679
307 | KSAN-TV | 135,063 | 135,051 | 1,151
11911 | KSAS-TV | 752,513 | 752,504 | 6,415
53118 | KSAT-TV | 2,539,658 | 2,502,246 | 21,332
35584 | KSAX | 365,209 | 365,209 | 3,113
35587 | KSAZ-TV | 4,203,126 | 4,178,448 | 35,621
38214 | KSBI | 1,577,231 | 1,575,865 | 13,434
19653 | KSBW | 5,083,461 | 4,429,165 | 37,759
19654 | KSBY | 535,029 | 495,562 | 4,225
82910 | KSCC | 517,740 | 517,740 | 4,414
10202 | KSCE | 1,015,148 | 1,010,581 | 8,615
35608 | KSCI | 17,447,903 | 16,331,792 | 139,229
72348 | KSCW-DT | 915,691 | 910,511 | 7,762
46981 | KSDK | 2,986,764 | 2,979,035 | 25,396
35594 | KSEE | 1,761,193 | 1,746,282 | 14,887
48658 | KSFY-TV | 670,536 | 607,844 | 5,182
17680 | KSGW-TV | 62,178 | 57,629 | 491
59444 | KSHB-TV | 2,432,205 | 2,431,273 | 20,727
73706 | KSHV-TV | 943,947 | 942,978 | 8,039
29096 | KSIN-TV | 340,143 | 338,811 | 2,888
664 | KSIX-TV | 82,902 | 73,553 | 627
35606 | KSKN | 731,818 | 643,590 | 5,487
70482 | KSLA | 1,017,556 | 1,016,667 | 8,667
6359 | KSL-TV | 2,390,742 | 2,206,920 | 18,814
71558 | KSMN | 320,813 | 320,808 | 2,735
33336 | KSMO-TV | 2,401,201 | 2,398,686 | 20,449
28510 | KSMQ-TV | 524,391 | 507,983 | 4,331
35611 | KSMS-TV | 1,589,263 | 882,948 | 7,527
21161 | KSNB-TV | 658,560 | 656,650 | 5,598
72359 | KSNC | 174,135 | 173,744 | 1,481
67766 | KSNF | 621,919 | 617,868 | 5,267
72361 | KSNG | 145,058 | 144,822 | 1,235
72362 | KSNK | 48,715 | 45,414 | 387
67335 | KSNT | 622,818 | 594,604 | 5,069
10179 | KSNV | 1,967,781 | 1,919,296 | 16,362
72358 | KSNW | 791,403 | 791,127 | 6,744
61956 | KSPS-TV | 819,101 | 769,852 | 6,563
52953 | KSPX-TV | 7,078,228 | 5,275,946 | 44,977
166546 | KSQA | 382,328 | 374,290 | 3,191
53313 | KSRE | 75,181 | 75,181 | 641
35843 | KSTC-TV | 3,843,788 | 3,835,674 | 32,699
63182 | KSTF | 51,317 | 51,122 | 436
28010 | KSTP-TV | 3,788,898 | 3,782,053 | 32,242
60534 | KSTR-DT | 6,632,577 | 6,629,296 | 56,515
64987 | KSTS | 8,363,473 | 7,264,852 | 61,933
22215 | KSTU | 2,384,996 | 2,201,716 | 18,770
23428 | KSTW | 4,265,956 | 4,186,266 | 35,688
5243 | KSVI | 175,390 | 173,667 | 1,481
58827 | KSWB-TV | 3,677,190 | 3,488,655 | 29,741
60683 | KSWK | 79,012 | 78,784 | 672
35645 | KSWO-TV | 483,132 | 458,057 | 3,905
61350 | KSYS | 519,209 | 443,204 | 3,778
59988 | KTAB-TV | 270,967 | 268,579 | 2,290
999 | KTAJ-TV | 2,343,843 | 2,343,227 | 19,976
35648 | KTAL-TV | 1,094,332 | 1,092,958 | 9,317
12930 | KTAS | 471,882 | 464,149 | 3,957
81458 | KTAZ | 4,182,503 | 4,160,481 | 35,468
35649 | KTBC | 3,242,215 | 2,956,614 | 25,205
67884 | KTBN-TV | 17,795,677 | 16,510,302 | 140,750
67999 | KTBO-TV | 1,585,283 | 1,583,664 | 13,501
35652 | KTBS-TV | 1,163,228 | 1,159,665 | 9,886
28324 | KTBU | 6,035,927 | 6,035,725 | 51,455
67950 | KTBW-TV | 4,202,104 | 4,108,031 | 35,021
35655 | KTBY | 348,080 | 346,562 | 2,954
68594 | KTCA-TV | 3,693,877 | 3,684,081 | 31,407
68597 | KTCI-TV | 3,606,606 | 3,597,183 | 30,666
35187 | KTCW | 103,341 | 89,207 | 760
36916 | KTDO | 1,015,336 | 1,010,771 | 8,617
2769 | KTEJ | 419,750 | 417,368 | 3,558
83707 | KTEL-TV | 53,423 | 53,414 | 455
35666 | KTEN | 602,788 | 599,778 | 5,113
24514 | KTFD-TV | 3,210,669 | 3,172,543 | 27,046
35512 | KTFF-DT | 2,225,169 | 2,203,398 | 18,784
20871 | KTFK-DT | 6,969,307 | 5,211,719 | 44,430
68753 | KTFN | 1,017,335 | 1,013,157 | 8,637
35084 | KTFQ-TV | 1,151,433 | 1,117,061 | 9,523
29232 | KTGM | 159,358 | 159,091 | 1,356
2787 | KTHV | 1,275,062 | 1,246,348 | 10,625
29100 | KTIN | 281,096 | 279,385 | 2,382
66170 | KTIV | 751,089 | 746,274 | 6,362
49397 | KTKA-TV | 759,369 | 746,370 | 6,363
35670 | KTLA | 18,156,910 | 16,870,262 | 143,819
62354 | KTLM | 1,044,526 | 1,044,509 | 8,904
49153 | KTLN-TV | 5,381,955 | 4,740,894 | 40,416
64984 | KTMD | 6,095,741 | 6,095,606 | 51,965
14675 | KTMF | 187,251 | 168,526 | 1,437
10177 | KTMW | 2,261,671 | 2,144,791 | 18,284
21533 | KTNC-TV | 8,270,858 | 7,381,656 | 62,929
47996 | KTNE-TV | 100,341 | 95,324 | 813
60519 | KTNL-TV | 8,642 | 8,642 | 74
74100 | KTNV-TV | 2,094,506 | 1,936,752 | 16,511
71023 | KTNW | 450,926 | 432,398 | 3,686
8651 | KTOO-TV | 31,269 | 31,176 | 266
7078 | KTPX-TV | 1,066,196 | 1,063,754 | 9,069
68541 | KTRE | 441,879 | 421,406 | 3,592
35675 | KTRK-TV | 6,114,259 | 6,112,870 | 52,112
28230 | KTRV-TV | 714,833 | 707,557 | 6,032
69170 | KTSC | 3,124,536 | 2,949,795 | 25,147
61066 | KTSD-TV | 83,645 | 82,828 | 706
37511 | KTSF | 7,959,349 | 7,129,638 | 60,780
67760 | KTSM-TV | 1,015,348 | 1,011,264 | 8,621
35678 | KTTC | 815,213 | 731,919 | 6,240
28501 | KTTM | 76,133 | 73,664 | 628
11908 | KTTU | 1,324,801 | 1,060,613 | 9,042
22208 | KTTV | 17,380,551 | 16,693,085 | 142,309
28521 | KTTW | 329,633 | 326,405 | 2,783
65355 | KTTZ-TV | 380,240 | 380,225 | 3,241
35685 | KTUL | 1,416,959 | 1,388,183 | 11,834
10173 | KTUU-TV | 380,240 | 379,047 | 3,231
77480 | KTUZ-TV | 1,668,531 | 1,666,026 | 14,203
49632 | KTVA | 342,517 | 342,300 | 2,918
34858 | KTVB | 714,865 | 707,882 | 6,035
31437 | KTVC | 137,239 | 100,204 | 854
68581 | KTVD | 3,800,970 | 3,547,607 | 30,243
35692 | KTVE | 641,139 | 640,201 | 5,458
49621 | KTVF | 98,068 | 97,929 | 835
5290 | KTVH-DT | 228,832 | 184,264 | 1,571
35693 | KTVI | 2,995,764 | 2,991,513 | 25,503
40993 | KTVK | 4,184,825 | 4,173,028 | 35,575
22570 | KTVL | 419,849 | 369,469 | 3,150
18066 | KTVM-TV | 260,105 | 217,694 | 1,856
59139 | KTVN | 955,490 | 800,420 | 6,824
21251 | KTVO | 148,780 | 148,647 | 1,267
35694 | KTVQ | 179,797 | 173,271 | 1,477
50592 | KTVR | 147,808 | 54,480 | 464
23422 | KTVT | 6,912,366 | 6,908,715 | 58,897
35703 | KTVU | 8,297,634 | 7,406,751 | 63,143
35705 | KTVW-DT | 4,173,111 | 4,159,807 | 35,462
68889 | KTVX | 2,389,392 | 2,200,520 | 18,759
55907 | KTVZ | 201,828 | 198,558 | 1,693
18286 | KTWO-TV | 80,426 | 79,905 | 681
70938 | KTWU | 1,703,798 | 1,562,305 | 13,319
51517 | KTXA | 6,915,461 | 6,911,822 | 58,923
42359 | KTXD-TV | 6,706,651 | 6,704,781 | 57,158
51569 | KTXH | 6,092,710 | 6,092,525 | 51,939
10205 | KTXL | 8,306,449 | 5,896,320 | 50,266
308 | KTXS-TV | 247,603 | 246,760 | 2,104
69315 | KUAC-TV | 98,717 | 98,189 | 837
51233 | KUAM-TV | 159,358 | 159,358 | 1,359
2722 | KUAS-TV | 994,802 | 977,391 | 8,332
2731 | KUAT-TV | 1,485,024 | 1,253,342 | 10,685
60520 | KUBD | 14,817 | 13,363 | 114
70492 | KUBE-TV | 6,090,970 | 6,090,817 | 51,924
1136 | KUCW | 2,388,889 | 2,199,787 | 18,753
69396 | KUED | 2,388,995 | 2,203,093 | 18,781
69582 | KUEN | 2,364,481 | 2,184,483 | 18,623
82576 | KUES | 30,925 | 25,978 | 221
82585 | KUEW | 132,168 | 120,411 | 1,027
66611 | KUFM-TV | 187,680 | 166,697 | 1,421
169028 | KUGF-TV | 86,622 | 85,986 | 733
68717 | KUHM-TV | 154,836 | 145,241 | 1,238
69269 | KUHT | 6,090,213 | 6,089,665 | 51,914
62382 | KUID-TV | 432,855 | 284,023 | 2,421
169027 | KUKL-TV | 124,505 | 115,844 | 988
35724 | KULR-TV | 177,242 | 170,142 | 1,450
41429 | KUMV-TV | 41,607 | 41,224 | 351
81447 | KUNP | 130,559 | 43,472 | 371
4624 | KUNS-TV | 4,027,849 | 4,015,626 | 34,233
86532 | KUOK | 28,974 | 28,945 | 247
66589 | KUON-TV | 1,375,257 | 1,360,005 | 11,594
86263 | KUPB | 318,914 | 318,914 | 2,719
65535 | KUPK | 149,642 | 148,180 | 1,263
27431 | KUPT | 87,602 | 87,602 | 747
89714 | KUPU | 956,178 | 948,005 | 8,082
57884 | KUPX-TV | 2,374,672 | 2,191,229 | 18,680
23074 | KUSA | 3,803,461 | 3,561,587 | 30,363
61072 | KUSD-TV | 460,480 | 460,277 | 3,924
10238 | KUSI-TV | 3,572,818 | 3,435,670 | 29,289
43567 | KUSM-TV | 122,678 | 109,830 | 936
69694 | KUTF | 1,210,774 | 1,031,870 | 8,797
81451 | KUTH-DT | 2,219,788 | 2,027,174 | 17,282
68886 | KUTP | 4,191,015 | 4,176,014 | 35,601
35823 | KUTV | 2,388,625 | 2,199,731 | 18,753
63927 | KUVE-DT | 1,294,971 | 964,396 | 8,221
7700 | KUVI-DT | 1,204,490 | 1,009,943 | 8,610
35841 | KUVN-DT | 6,680,126 | 6,678,157 | 56,931
58609 | KUVS-DT | 4,043,413 | 4,005,657 | 34,148
49766 | KVAL-TV | 1,016,673 | 866,173 | 7,384
32621 | KVAW | 76,153 | 76,153 | 649
58795 | KVCR-DT | 18,215,524 | 17,467,140 | 148,907
35846 | KVCT | 288,221 | 287,446 | 2,450
10195 | KVCW | 1,967,550 | 1,918,811 | 16,358
64969 | KVDA | 2,566,563 | 2,548,720 | 21,728
19783 | KVEA | 17,423,429 | 16,146,250 | 137,647
12523 | KVEO-TV | 1,244,504 | 1,244,504 | 10,609
2495 | KVEW | 476,720 | 464,347 | 3,959
35852 | KVHP | 747,917 | 747,837 | 6,375
49832 | KVIA-TV | 1,015,350 | 1,011,266 | 8,621
35855 | KVIE | 10,759,440 | 7,467,369 | 63,659
40450 | KVIH-TV | 91,912 | 91,564 | 781
40446 | KVII-TV | 379,042 | 378,218 | 3,224
61961 | KVLY-TV | 350,732 | 350,449 | 2,988
16729 | KVMD | 6,145,526 | 4,116,524 | 35,093
83825 | KVME-TV | 26,711 | 22,802 | 194
25735 | KVOA | 1,317,956 | 1,030,404 | 8,784
35862 | KVOS-TV | 2,202,674 | 2,131,652 | 18,172
69733 | KVPT | 1,744,349 | 1,719,318 | 14,657
55372 | KVRR | 356,645 | 356,645 | 3,040
166331 | KVSN-DT | 2,706,244 | 2,283,409 | 19,466
608 | KVTH-DT | 303,755 | 299,230 | 2,551
2784 | KVTJ-DT | 1,466,426 | 1,465,802 | 12,496
607 | KVTN-DT | 936,328 | 925,884 | 7,893
35867 | KVUE | 2,661,290 | 2,611,314 | 22,261
78910 | KVUI | 257,964 | 251,872 | 2,147
35870 | KVVU-TV | 2,042,029 | 1,935,466 | 16,500
36170 | KVYE | 396,495 | 392,498 | 3,346
35095 | KWBA-TV | 1,129,524 | 1,073,029 | 9,148
78314 | KWBM | 657,822 | 639,560 | 5,452
27425 | KWBN | 953,207 | 840,455 | 7,165
76268 | KWBQ | 1,148,810 | 1,105,600 | 9,425
66413 | KWCH-DT | 883,647 | 881,674 | 7,516
71549 | KWCM-TV | 252,284 | 244,033 | 2,080
35419 | KWDK | 4,194,152 | 4,117,852 | 35,105
42007 | KWES-TV | 424,862 | 423,544 | 3,611
50194 | KWET | 127,976 | 112,750 | 961
35881 | KWEX-DT | 2,376,463 | 2,370,469 | 20,208
35883 | KWGN-TV | 3,706,495 | 3,513,577 | 29,953
37099 | KWHB | 979,393 | 978,719 | 8,344
37103 | KWHD | 97,959 | 94,560 | 806
36846 | KWHE | 952,966 | 834,341 | 7,113
26231 | KWHY-TV | 17,736,497 | 17,695,306 | 150,852
35096 | KWKB | 1,121,676 | 1,111,629 | 9,477
162115 | KWKS | 39,708 | 39,323 | 335
12522 | KWKT-TV | 1,299,675 | 1,298,478 | 11,070
21162 | KWNB-TV | 91,093 | 89,332 | 762
67347 | KWOG | 512,412 | 505,049 | 4,306
56852 | KWPX-TV | 4,220,008 | 4,148,577 | 35,367
6885 | KWQC-TV | 1,063,507 | 1,054,618 | 8,991
29121 | KWSD | 280,675 | 280,672 | 2,393
53318 | KWSE | 54,471 | 53,400 | 455
71024 | KWSU-TV | 725,554 | 468,295 | 3,992
25382 | KWTV-DT | 1,628,106 | 1,627,198 | 13,872
35903 | KWTX-TV | 2,071,023 | 1,972,365 | 16,814
593 | KWWL | 1,089,498 | 1,078,458 | 9,194
84410 | KWWT | 293,291 | 293,291 | 2,500
14674 | KWYB | 86,495 | 69,598 | 593
10032 | KWYP-DT | 128,874 | 126,992 | 1,083
35920 | KXAN-TV | 2,678,666 | 2,624,648 | 22,375
49330 | KXAS-TV | 6,774,295 | 6,771,827 | 57,730
24287 | KXGN-TV | 14,217 | 13,883 | 118
35954 | KXII | 2,323,974 | 2,264,951 | 19,309
55083 | KXLA | 17,929,100 | 16,794,896 | 143,176
35959 | KXLF-TV | 258,100 | 217,808 | 1,857
53847 | KXLN-DT | 6,085,891 | 6,085,712 | 51,881
35906 | KXLT-TV | 348,025 | 347,296 | 2,961
61978 | KXLY-TV | 772,116 | 740,960 | 6,317
55684 | KXMA-TV | 32,005 | 31,909 | 272
55686 | KXMB-TV | 142,755 | 138,506 | 1,181
55685 | KXMC-TV | 97,569 | 89,483 | 763
55683 | KXMD-TV | 37,962 | 37,917 | 323
47995 | KXNE-TV | 300,021 | 298,839 | 2,548
81593 | KXNW | 602,168 | 597,747 | 5,096
35991 | KXRM-TV | 1,843,363 | 1,500,689 | 12,793
1255 | KXTF | 121,558 | 121,383 | 1,035
25048 | KXTV | 10,759,864 | 7,477,140 | 63,743
35994 | KXTX-TV | 6,721,578 | 6,718,616 | 57,276
62293 | KXVA | 185,478 | 185,276 | 1,579
23277 | KXVO | 1,404,703 | 1,403,380 | 11,964
9781 | KXXV | 1,771,620 | 1,748,287 | 14,904
31870 | KYAZ | 6,038,257 | 6,038,071 | 51,475
21488 | KYES-TV | 381,413 | 380,355 | 3,243
29086 | KYIN | 581,748 | 574,691 | 4,899
60384 | KYLE-TV | 323,330 | 323,225 | 2,755
33639 | KYMA-DT | 396,278 | 391,619 | 3,339
47974 | KYNE-TV | 929,406 | 929,242 | 7,922
53820 | KYOU-TV | 651,334 | 640,935 | 5,464
36003 | KYTV | 1,095,904 | 1,083,524 | 9,237
55644 | KYTX | 927,327 | 925,550 | 7,890
13815 | KYUR | 379,943 | 379,027 | 3,231
5237 | KYUS-TV | 12,496 | 12,356 | 105
33752 | KYVE | 301,951 | 259,559 | 2,213
55762 | KYVV-TV | 67,201 | 67,201 | 573
25453 | KYW-TV | 11,061,941 | 10,876,511 | 92,722
69531 | KZJL | 6,037,458 | 6,037,272 | 51,468
69571 | KZJO | 4,147,016 | 4,097,776 | 34,934
61062 | KZSD-TV | 41,207 | 35,825 | 305
33079 | KZTV | 567,635 | 564,464 | 4,812
57292 | WAAY-TV | 1,498,006 | 1,428,197 | 12,175
1328 | WABC-TV | 20,948,273 | 20,560,001 | 175,274
43203 | WABG-TV | 393,020 | 392,348 | 3,345
17005 | WABI-TV | 530,773 | 510,729 | 4,354
16820 | WABM | 1,703,202 | 1,675,700 | 14,285
23917 | WABW-TV | 1,097,560 | 1,096,376 | 9,347
19199 | WACH | 1,403,222 | 1,400,385 | 11,938
189358 | WACP | 9,415,263 | 9,301,049 | 79,291
23930 | WACS-TV | 621,686 | 616,443 | 5,255
60018 | WACX | 4,292,829 | 4,288,149 | 36,556
361 | WACY-TV | 946,580 | 946,071 | 8,065
455 | WADL | 4,610,065 | 4,606,521 | 39,271
589 | WAFB | 1,857,882 | 1,857,418 | 15,834
591 | WAFF | 1,527,517 | 1,456,436 | 12,416
70689 | WAGA-TV | 6,000,355 | 5,923,191 | 50,495
48305 | WAGM-TV | 64,721 | 63,331 | 540
37809 | WAGV | 1,193,158 | 1,060,935 | 9,044
706 | WAIQ | 611,733 | 609,794 | 5,198
701 | WAKA | 799,637 | 793,645 | 6,766
4143 | WALA-TV | 1,320,419 | 1,318,127 | 11,237
70713 | WALB | 773,899 | 772,467 | 6,585
60536 | WAMI-DT | 5,449,193 | 5,449,193 | 46,454
70852 | WAND | 1,388,118 | 1,386,074 | 11,816
39270 | WANE-TV | 1,146,442 | 1,146,442 | 9,773
52280 | WAOE | 2,943,679 | 2,887,654 | 24,617
64546 | WAOW | 636,957 | 629,068 | 5,363
52073 | WAPA-TV | 3,764,742 | 2,794,738 | 23,825
49712 | WAPT | 793,621 | 791,620 | 6,749
67792 | WAQP | 2,135,670 | 2,131,399 | 18,170
13206 | WATC-DT | 5,732,204 | 5,705,819 | 48,642
71082 | WATE-TV | 1,874,433 | 1,638,059 | 13,964
22819 | WATL | 5,882,837 | 5,819,099 | 49,608
20287 | WATM-TV | 893,989 | 749,183 | 6,387
11907 | WATN-TV | 1,787,595 | 1,784,560 | 15,213
13989 | WAVE | 1,891,797 | 1,880,563 | 16,032
71127 | WAVY-TV | 2,080,708 | 2,080,691 | 17,738
54938 | WAWD | 579,079 | 579,023 | 4,936
65247 | WAWV-TV | 705,790 | 700,361 | 5,971
12793 | WAXN-TV | 2,677,951 | 2,669,224 | 22,755
65696 | WBAL-TV | 9,743,335 | 9,344,875 | 79,665
74417 | WBAY-TV | 1,225,928 | 1,225,335 | 10,446
71085 | WBBH-TV | 2,017,267 | 2,017,267 | 17,197
65204 | WBBJ-TV | 662,148 | 658,839 | 5,617
9617 | WBBM-TV | 9,914,233 | 9,907,806 | 84,464
9088 | WBBZ-TV | 1,269,256 | 1,260,686 | 10,747
70138 | WBDT | 3,660,544 | 3,646,874 | 31,090
51349 | WBEC-TV | 5,421,355 | 5,421,355 | 46,217
10758 | WBFF | 8,523,983 | 8,381,042 | 71,448
12497 | WBFS-TV | 5,349,613 | 5,349,613 | 45,605
6568 | WBGU-TV | 1,343,816 | 1,343,816 | 11,456
81594 | WBIF | 309,707 | 309,707 | 2,640
84802 | WBIH | 718,439 | 706,994 | 6,027
717 | WBIQ | 1,563,080 | 1,532,266 | 13,063
46984 | WBIR-TV | 1,978,347 | 1,701,857 | 14,508
67048 | WBKB-TV | 136,823 | 130,625 | 1,114
34167 | WBKI | 2,062,137 | 2,046,808 | 17,449
4692 | WBKO | 963,413 | 862,651 | 7,354
76001 | WBKP | 55,655 | 55,305 | 471
68427 | WBMM | 562,284 | 562,123 | 4,792
73692 | WBNA | 1,699,683 | 1,666,248 | 14,205
23337 | WBNG-TV | 1,435,634 | 1,051,932 | 8,968
71217 | WBNS-TV | 2,847,721 | 2,784,795 | 23,740
72958 | WBNX-TV | 3,639,256 | 3,630,531 | 30,950
71218 | WBOC-TV | 813,888 | 813,888 | 6,938
71220 | WBOY-TV | 711,302 | 621,367 | 5,297
60850 | WBPH-TV | 10,613,847 | 9,474,797 | 80,773
7692 | WBPX-TV | 6,833,712 | 6,761,949 | 57,646
5981 | WBRA-TV | 1,726,408 | 1,677,204 | 14,298
71221 | WBRC | 1,884,007 | 1,849,135 | 15,764
71225 | WBRE-TV | 2,879,196 | 2,244,735 | 19,136
38616 | WBRZ-TV | 2,223,336 | 2,222,309 | 18,945
82627 | WBSF | 1,836,543 | 1,832,446 | 15,622
30826 | WBTV | 4,433,020 | 4,295,962 | 36,623
66407 | WBTW | 1,975,457 | 1,959,172 | 16,702
16363 | WBUI | 981,884 | 981,868 | 8,370
59281 | WBUP | 126,472 | 112,603 | 960
60830 | WBUY-TV | 1,569,254 | 1,567,815 | 13,366
72971 | WBXX-TV | 2,142,759 | 1,984,544 | 16,918
25456 | WBZ-TV | 7,960,556 | 7,730,847 | 65,905
63153 | WCAU | 11,269,831 | 11,098,540 | 94,615
363 | WCAV | 1,032,270 | 874,886 | 7,458
46728 | WCAX-TV | 784,748 | 665,685 | 5,675
39659 | WCBB | 964,079 | 910,222 | 7,760
10587 | WCBD-TV | 1,149,489 | 1,149,489 | 9,799
12477 | WCBI-TV | 680,511 | 678,424 | 5,784
9610 | WCBS-TV | 22,087,789 | 21,511,236 | 183,383
49157 | WCCB | 3,642,232 | 3,574,928 | 30,476
9629 | WCCO-TV | 3,837,442 | 3,829,714 | 32,648
14050 | WCCT-TV | 5,818,471 | 5,307,612 | 45,247
69544 | WCCU | 694,550 | 693,317 | 5,911
3001 | WCCV-TV | 3,391,703 | 2,062,994 | 17,587
23937 | WCES-TV | 1,098,868 | 1,097,706 | 9,358
65666 | WCET | 3,123,290 | 3,110,519 | 26,517
46755 | WCFE-TV | 445,131 | 411,198 | 3,505
71280 | WCHS-TV | 1,352,824 | 1,274,766 | 10,867
42124 | WCIA | 834,084 | 833,547 | 7,106
711 | WCIQ | 3,186,320 | 3,016,907 | 25,719
71428 | WCIU-TV | 10,052,136 | 10,049,244 | 85,670
9015 | WCIV | 1,152,800 | 1,152,800 | 9,828
42116 | WCIX | 554,002 | 549,911 | 4,688
16993 | WCJB-TV | 977,492 | 977,492 | 8,333
11125 | WCLF | 4,097,389 | 4,096,624 | 34,924
68007 | WCLJ-TV | 2,305,723 | 2,303,534 | 19,638
50781 | WCMH-TV | 2,756,260 | 2,712,989 | 23,128
9917 | WCML | 233,439 | 224,255 | 1,912
9908 | WCMU-TV | 707,702 | 699,551 | 5,964
9922 | WCMV | 425,499 | 411,288 | 3,506
9913 | WCMW | 106,975 | 104,859 | 894
32326 | WCNC-TV | 3,883,049 | 3,809,706 | 32,478
53734 | WCNY-TV | 1,342,821 | 1,279,429 | 10,907
73642 | WCOV-TV | 889,102 | 884,417 | 7,540
40618 | WCPB | 560,426 | 560,426 | 4,778
59438 | WCPO-TV | 3,330,885 | 3,313,654 | 28,249
10981 | WCPX-TV | 9,753,235 | 9,751,916 | 83,135
71297 | WCSC-TV | 1,028,018 | 1,028,018 | 8,764
39664 | WCSH | 1,755,325 | 1,548,824 | 13,204
69479 | WCTE | 612,760 | 541,314 | 4,615
18334 | WCTI-TV | 1,671,152 | 1,668,833 | 14,227
31590 | WCTV | 1,065,524 | 1,065,464 | 9,083
33081 | WCTX | 7,844,936 | 7,332,431 | 62,509
65684 | WCVB-TV | 7,780,868 | 7,618,496 | 64,948
9987 | WCVE-TV | 1,721,004 | 1,712,249 | 14,597
83304 | WCVI-TV | 50,601 | 50,495 | 430
34204 | WCVN-TV | 2,129,816 | 2,120,349 | 18,076
9989 | WCVW | 1,505,484 | 1,505,330 | 12,833
73042 | WCWF | 1,077,314 | 1,077,194 | 9,183
35385 | WCWG | 3,630,551 | 3,299,114 | 28,125
29712 | WCWJ | 1,661,270 | 1,661,132 | 14,161
73264 | WCWN | 1,909,223 | 1,621,751 | 13,825
2455 | WCYB-TV | 2,363,002 | 2,057,404 | 17,539
11291 | WDAF-TV | 2,539,581 | 2,537,411 | 21,631
21250 | WDAM-TV | 512,594 | 500,343 | 4,265
22129 | WDAY-TV | 339,239 | 338,856 | 2,889
22124 | WDAZ-TV | 151,720 | 151,659 | 1,293
71325 | WDBB | 1,792,728 | 1,762,643 | 15,027
71326 | WDBD | 940,665 | 939,489 | 8,009
71329 | WDBJ | 1,626,017 | 1,435,762 | 12,240
51567 | WDCA | 8,070,491 | 8,015,328 | 68,331
16530 | WDCQ-TV | 1,269,199 | 1,269,199 | 10,820
30576 | WDCW | 8,155,998 | 8,114,847 | 69,179
54385 | WDEF-TV | 1,731,483 | 1,508,250 | 12,858
32851 | WDFX-TV | 271,499 | 270,942 | 2,310
43846 | WDHN | 452,377 | 451,978 | 3,853
71338 | WDIO-DT | 341,506 | 327,469 | 2,792
714 | WDIQ | 663,062 | 620,124 | 5,287
53114 | WDIV-TV | 5,450,318 | 5,450,174 | 46,463
71427 | WDJT-TV | 3,267,652 | 3,256,507 | 27,762
39561 | WDKA | 658,699 | 658,277 | 5,612
64017 | WDKY-TV | 1,204,817 | 1,173,579 | 10,005
67893 | WDLI-TV | 4,147,298 | 4,114,920 | 35,080
72335 | WDPB | 596,888 | 596,888 | 5,088
83740 | WDPM-DT | 1,365,977 | 1,364,744 | 11,634
1283 | WDPN-TV | 11,594,463 | 11,467,616 | 97,761
6476 | WDPX-TV | 6,833,712 | 6,761,949 | 57,646
28476 | WDRB | 2,054,813 | 2,037,086 | 17,366
12171 | WDSC-TV | 3,389,559 | 3,389,559 | 28,896
17726 | WDSE | 330,994 | 316,643 | 2,699
71353 | WDSI-TV | 1,100,302 | 1,042,191 | 8,885
71357 | WDSU | 1,649,083 | 1,649,083 | 14,058
7908 | WDTI | 2,092,242 | 2,091,941 | 17,834
65690 | WDTN | 3,660,544 | 3,646,874 | 31,090
70592 | WDTV | 962,532 | 850,394 | 7,250
25045 | WDVM-TV | 3,074,837 | 2,646,508 | 22,561
4110 | WDWL | 2,638,361 | 1,977,410 | 16,857
49421 | WEAO | 3,960,217 | 3,945,408 | 33,635
71363 | WEAR-TV | 1,520,973 | 1,520,386 | 12,961
7893 | WEAU | 1,006,393 | 971,050 | 8,278
61003 | WEBA-TV | 645,039 | 635,967 | 5,422
19561 | WECN | 2,886,669 | 2,157,288 | 18,391
48666 | WECT | 1,156,807 | 1,156,807 | 9,862
13602 | WEDH | 5,328,800 | 4,724,167 | 40,274
13607 | WEDN | 3,451,170 | 2,643,344 | 22,535
69338 | WEDQ | 5,379,887 | 5,365,612 | 45,742
21808 | WEDU | 5,379,887 | 5,365,612 | 45,742
13594 | WEDW | 5,996,408 | 5,544,708 | 47,269
13595 | WEDY | 5,328,800 | 4,724,167 | 40,274
24801 | WEEK-TV | 698,238 | 698,220 | 5,952
6744 | WEFS | 3,380,743 | 3,380,743 | 28,821
24215 | WEHT | 857,558 | 844,070 | 7,196
721 | WEIQ | 1,055,632 | 1,055,193 | 8,996
18301 | WEIU-TV | 458,480 | 458,416 | 3,908
69271 | WEKW-TV | 1,263,049 | 773,108 | 6,591
60825 | WELF-TV | 1,477,691 | 1,387,044 | 11,825
26602 | WELU | 2,248,146 | 1,678,682 | 14,311
40761 | WEMT | 1,726,085 | 1,186,706 | 10,117
69237 | WENH-TV | 4,500,498 | 4,328,222 | 36,898
71508 | WENY-TV | 656,240 | 517,754 | 4,414
83946 | WEPH | 604,105 | 602,833 | 5,139
81508 | WEPX-TV | 950,012 | 950,012 | 8,099
25738 | WESH | 4,059,180 | 4,048,459 | 34,513
65670 | WETA-TV | 8,315,499 | 8,258,807 | 70,406
69944 | WETK | 670,087 | 558,842 | 4,764
60653 | WETM-TV | 721,800 | 620,074 | 5,286
18252 | WETP-TV | 2,167,383 | 1,888,574 | 16,100
2709 | WEUX | 380,569 | 373,680 | 3,186
72041 | WEVV-TV | 752,417 | 751,094 | 6,403
59441 | WEWS-TV | 4,112,984 | 4,078,299 | 34,767
72052 | WEYI-TV | 3,715,686 | 3,652,991 | 31,142
72054 | WFAA | 6,917,502 | 6,907,616 | 58,887
81669 | WFBD | 814,185 | 813,564 | 6,936
69532 | WFDC-DT | 8,155,998 | 8,114,847 | 69,179
10132 | WFFF-TV | 633,649 | 552,182 | 4,707
25040 | WFFT-TV | 1,095,429 | 1,095,411 | 9,338
11123 | WFGC | 3,018,351 | 3,018,351 | 25,731
6554 | WFGX | 1,493,866 | 1,493,319 | 12,731
13991 | WFIE | 743,079 | 740,909 | 6,316
715 | WFIQ | 546,563 | 544,258 | 4,640
64592 | WFLA-TV | 5,583,544 | 5,576,649 | 47,541
22211 | WFLD | 9,957,301 | 9,954,828 | 84,865
72060 | WFLI-TV | 1,294,209 | 1,189,897 | 10,144
39736 | WFLX | 5,740,086 | 5,740,086 | 48,934
72062 | WFMJ-TV | 4,328,477 | 3,822,691 | 32,588
72064 | WFMY-TV | 4,772,783 | 4,746,167 | 40,461
39884 | WFMZ-TV | 10,613,847 | 9,474,797 | 80,773
83943 | WFNA | 1,391,519 | 1,390,447 | 11,854
47902 | WFOR-TV | 5,398,266 | 5,398,266 | 46,020
11909 | WFOX-TV | 1,603,324 | 1,603,324 | 13,668
40626 | WFPT | 5,829,226 | 5,442,352 | 46,396
21245 | WFPX-TV | 2,637,949 | 2,634,141 | 22,456
25396 | WFQX-TV | 537,340 | 534,314 | 4,555
9635 | WFRV-TV | 1,263,353 | 1,256,376 | 10,711
53115 | WFSB | 4,752,788 | 4,370,519 | 37,259
6093 | WFSG | 364,961 | 364,796 | 3,110
21801 | WFSU-TV | 576,105 | 576,093 | 4,911
11913 | WFTC | 3,787,177 | 3,770,207 | 32,141
64588 | WFTS-TV | 5,236,379 | 5,236,287 | 44,639
16788 | WFTT-TV | 4,523,828 | 4,521,879 | 38,549
72076 | WFTV | 3,882,888 | 3,882,888 | 33,102
70649 | WFTX-TV | 1,758,172 | 1,758,172 | 14,988
60553 | WFTY-DT | 5,678,755 | 5,560,460 | 47,403
25395 | WFUP | 234,863 | 234,436 | 1,999
60555 | WFUT-DT | 19,992,096 | 19,643,518 | 167,461
22108 | WFWA | 1,035,114 | 1,034,862 | 8,822
9054 | WFXB | 1,393,865 | 1,393,510 | 11,880
3228 | WFXG | 1,070,032 | 1,057,760 | 9,017
70815 | WFXL | 793,637 | 785,106 | 6,693
19707 | WFXP | 583,315 | 562,500 | 4,795
24813 | WFXR | 1,426,061 | 1,286,450 | 10,967
6463 | WFXT | 7,494,070 | 7,400,830 | 63,092
22245 | WFXU | 218,273 | 218,273 | 1,861
43424 | WFXV | 702,682 | 612,494 | 5,222
25236 | WFXW | 274,078 | 270,967 | 2,310
41397 | WFYI | 2,389,627 | 2,388,970 | 20,366
53930 | WGAL | 6,287,688 | 5,610,833 | 47,832
2708 | WGBA-TV | 1,170,375 | 1,170,127 | 9,975
24314 | WGBC | 249,415 | 249,235 | 2,125
72099 | WGBH-TV | 7,711,842 | 7,601,732 | 64,805
12498 | WGBO-DT | 9,771,815 | 9,769,552 | 83,285
72098 | WGBX-TV | 7,803,280 | 7,636,641 | 65,102
72096 | WGBY-TV | 4,470,009 | 3,739,675 | 31,881
72120 | WGCL-TV | 6,027,276 | 5,961,471 | 50,822
62388 | WGCU | 1,510,671 | 1,510,671 | 12,878
54275 | WGEM-TV | 361,598 | 356,682 | 3,041
27387 | WGEN-TV | 43,037 | 43,037 | 367
7727 | WGFL | 877,163 | 877,163 | 7,478
25682 | WGGB-TV | 3,443,386 | 3,053,436 | 26,031
11027 | WGGN-TV | 1,991,462 | 1,969,331 | 16,789
9064 | WGGS-TV | 2,759,326 | 2,705,067 | 23,061
72106 | WGHP | 4,174,964 | 4,123,106 | 35,149
710 | WGIQ | 363,849 | 363,806 | 3,101
12520 | WGMB-TV | 1,742,708 | 1,742,659 | 14,856
25683 | WGME-TV | 1,495,724 | 1,325,465 | 11,300
24618 | WGNM | 742,458 | 741,502 | 6,321
72119 | WGNO | 1,641,765 | 1,641,765 | 13,996
9762 | WGNT | 2,128,079 | 2,127,891 | 18,140
72115 | WGN-TV | 9,942,959 | 9,941,552 | 84,752
40619 | WGPT | 578,294 | 344,300 | 2,935
65074 | WGPX-TV | 2,765,350 | 2,754,743 | 23,484
64547 | WGRZ | 1,878,725 | 1,812,309 | 15,450
63329 | WGTA | 1,061,654 | 1,030,538 | 8,785
66285 | WGTE-TV | 2,210,496 | 2,208,927 | 18,831
59279 | WGTQ | 95,618 | 92,019 | 784
59280 | WGTU | 358,543 | 353,477 | 3,013
23948 | WGTV | 5,880,594 | 5,832,714 | 49,724
7623 | WGTW-TV | 807,797 | 807,797 | 6,886
24783 | WGVK | 2,439,225 | 2,437,526 | 20,780
24784 | WGVU-TV | 1,825,744 | 1,784,264 | 15,211
21536 | WGWG | 986,963 | 986,963 | 8,414
56642 | WGWW | 1,677,166 | 1,647,976 | 14,049
58262 | WGXA | 779,955 | 779,087 | 6,642
73371 | WHAM-TV | 1,381,564 | 1,334,653 | 11,378
32327 | WHAS-TV | 1,955,983 | 1,925,901 | 16,418
6096 | WHA-TV | 1,635,777 | 1,628,950 | 13,887
13950 | WHBF-TV | 1,712,339 | 1,704,072 | 14,527
12521 | WHBQ-TV | 1,736,335 | 1,708,345 | 14,564
10894 | WHBR | 1,302,764 | 1,302,041 | 11,100
65128 | WHDF | 1,553,469 | 1,502,852 | 12,812
72145 | WHDH | 7,441,208 | 7,343,735 | 62,605
83929 | WHDT | 5,768,239 | 5,768,239 | 49,174
70041 | WHEC-TV | 1,322,243 | 1,279,606 | 10,909
67971 | WHFT-TV | 5,417,409 | 5,417,409 | 46,183
41458 | WHIO-TV | 3,877,520 | 3,868,597 | 32,980
713 | WHIQ | 1,278,174 | 1,225,940 | 10,451
61216 | WHIZ-TV | 917,531 | 847,762 | 7,227
65919 | WHKY-TV | 3,304,037 | 3,269,549 | 27,873
18780 | WHLA-TV | 554,446 | 515,561 | 4,395
48668 | WHLT | 484,432 | 483,532 | 4,122
24582 | WHLV-TV | 3,906,201 | 3,906,201 | 33,300
37102 | WHMB-TV | 2,959,585 | 2,889,145 | 24,630
61004 | WHMC | 774,921 | 774,921 | 6,606
36117 | WHME-TV | 1,455,358 | 1,455,110 | 12,405
37106 | WHNO | 1,499,653 | 1,499,653 | 12,785
72300 | WHNS | 2,549,610 | 2,270,868 | 19,359
48693 | WHNT-TV | 1,569,885 | 1,487,578 | 12,682
66221 | WHO-DT | 1,120,480 | 1,099,818 | 9,376
6866 | WHOI | 736,125 | 736,047 | 6,275
72313 | WHP-TV | 4,030,693 | 3,538,096 | 30,162
51980 | WHPX-TV | 5,579,464 | 5,114,336 | 43,600
73036 | WHRM-TV | 495,398 | 495,174 | 4,221
25932 | WHRO-TV | 2,169,238 | 2,169,237 | 18,493
68058 | WHSG-TV | 5,870,314 | 5,808,605 | 49,518
4688 | WHSV-TV | 845,013 | 711,912 | 6,069
9990 | WHTJ | 807,960 | 690,381 | 5,885
72326 | WHTM-TV | 2,829,585 | 2,367,000 | 20,179
11117 | WHTN | 1,914,755 | 1,905,733 | 16,246
27772 | WHUT-TV | 7,649,763 | 7,617,337 | 64,938
18793 | WHWC-TV | 994,710 | 946,335 | 8,068
72338 | WHYY-TV | 10,379,045 | 9,982,651 | 85,102
5360 | WIAT | 1,837,072 | 1,802,810 | 15,369
63160 | WIBW-TV | 1,234,347 | 1,181,009 | 10,068
25684 | WICD | 1,238,332 | 1,237,046 | 10,546
25686 | WICS | 1,149,358 | 1,147,264 | 9,780
24970 | WICU-TV | 740,115 | 683,435 | 5,826
62210 | WICZ-TV | 1,249,974 | 965,416 | 8,230
18410 | WIDP | 2,559,306 | 1,899,768 | 16,196
26025 | WIFS | 1,583,693 | 1,578,870 | 13,460
720 | WIIQ | 353,241 | 347,685 | 2,964
68939 | WILL-TV | 1,178,545 | 1,158,147 | 9,873
6863 | WILX-TV | 3,378,644 | 3,218,221 | 27,435
22093 | WINK-TV | 1,851,105 | 1,851,105 | 15,781
67787 | WINM | 1,001,485 | 971,031 | 8,278
41314 | WINP-TV | 2,935,057 | 2,883,944 | 24,586
3646 | WIPB | 1,965,353 | 1,965,174 | 16,753
48408 | WIPL | 850,656 | 799,165 | 6,813
53863 | WIPM-TV | 2,196,157 | 1,554,017 | 2,460
53859 | WIPR-TV | 3,596,802 | 2,811,148 | 23,965
10253 | WIPX-TV | 2,305,723 | 2,303,534 | 19,638
39887 | WIRS | 1,153,382 | 761,454 | 5,111
71336 | WIRT-DT | 127,001 | 126,300 | 1,077
13990 | WIS | 2,644,715 | 2,600,887 | 22,173
65143 | WISC-TV | 1,734,112 | 1,697,537 | 14,472
13960 | WISE-TV | 1,070,155 | 1,070,155 | 9,123
39269 | WISH-TV | 2,912,963 | 2,855,253 | 24,341
65680 | WISN-TV | 3,003,636 | 2,997,695 | 25,555
73083 | WITF-TV | 2,412,561 | 2,191,501 | 18,683
73107 | WITI | 3,111,641 | 3,102,097 | 26,445
594 | WITN-TV | 1,861,458 | 1,836,905 | 15,660
61005 | WITV | 871,783 | 871,783 | 7,432
7780 | WIVB-TV | 1,900,503 | 1,820,106 | 15,516
11260 | WIVT | 855,138 | 613,934 | 5,234
60571 | WIWN | 3,338,845 | 3,323,941 | 28,337
62207 | WIYC | 639,641 | 637,499 | 5,435
73120 | WJAC-TV | 2,219,529 | 1,897,986 | 16,180
10259 | WJAL | 8,750,706 | 8,446,074 | 72,003
50780 | WJAR | 7,108,180 | 6,976,099 | 59,471
35576 | WJAX-TV | 1,630,782 | 1,630,782 | 13,902
27140 | WJBF | 1,601,088 | 1,588,444 | 13,541
73123 | WJBK | 5,748,623 | 5,711,224 | 48,688
37174 | WJCL | 938,086 | 938,086 | 7,997
73130 | WJCT | 1,624,624 | 1,624,033 | 13,845
29719 | WJEB-TV | 1,607,603 | 1,607,603 | 13,705
65749 | WJET-TV | 747,431 | 717,721 | 6,119
7651 | WJFB | 1,805,891 | 1,798,600 | 15,333
49699 | WJFW-TV | 277,530 | 268,295 | 2,287
73136 | WJHG-TV | 864,121 | 859,823 | 7,330
57826 | WJHL-TV | 2,034,663 | 1,462,129 | 12,465
68519 | WJKT | 655,780 | 655,373 | 5,587
1051 | WJLA-TV | 8,750,706 | 8,447,643 | 72,016
86537 | WJLP | 21,384,863 | 21,119,366 | 180,043
9630 | WJMN-TV | 160,991 | 154,424 | 1,316
61008 | WJPM-TV | 623,965 | 623,813 | 5,318
58340 | WJPX | 3,254,481 | 2,500,195 | 21,314
21735 | WJRT-TV | 2,788,684 | 2,543,446 | 21,683
23918 | WJSP-TV | 4,225,860 | 4,188,428 | 35,706
41210 | WJTC | 1,381,529 | 1,379,283 | 11,758
48667 | WJTV | 987,206 | 980,717 | 8,361
73150 | WJW | 3,977,148 | 3,905,325 | 33,293
61007 | WJWJ-TV | 1,034,555 | 1,034,555 | 8,820
58342 | WJWN-TV | 1,962,885 | 1,405,189 | 5,111
53116 | WJXT | 1,622,616 | 1,622,616 | 13,833
11893 | WJXX | 1,618,191 | 1,617,272 | 13,787
32334 | WJYS | 9,667,341 | 9,667,317 | 82,414
25455 | WJZ-TV | 9,743,335 | 9,350,346 | 79,712
73152 | WJZY | 4,432,745 | 4,301,117 | 36,667
64983 | WKAQ-TV | 3,697,088 | 2,731,588 | 23,287
6104 | WKAR-TV | 1,693,373 | 1,689,830 | 14,406
34171 | WKAS | 542,308 | 512,994 | 4,373
51570 | WKBD-TV | 5,065,617 | 5,065,350 | 43,182
73153 | WKBN-TV | 4,898,622 | 4,535,576 | 38,666
13929 | WKBS-TV | 1,082,894 | 937,847 | 7,995
74424 | WKBT-DT | 866,325 | 824,795 | 7,031
54176 | WKBW-TV | 2,247,191 | 2,161,366 | 18,426
53465 | WKCF | 4,241,181 | 4,240,354 | 36,149
73155 | WKEF | 3,730,595 | 3,716,127 | 31,680
34177 | WKGB-TV | 413,268 | 411,587 | 3,509
34196 | WKHA | 511,281 | 400,721 | 3,416
34207 | WKLE | 856,237 | 846,630 | 7,218
34212 | WKMA-TV | 524,617 | 524,035 | 4,467
71293 | WKMG-TV | 3,803,492 | 3,803,492 | 32,425
34195 | WKMJ-TV | 1,477,906 | 1,470,645 | 12,537
34202 | WKMR | 463,316 | 428,462 | 3,653
34174 | WKMU | 344,430 | 344,050 | 2,933
42061 | WKNO | 1,645,867 | 1,642,092 | 13,999
83931 | WKNX-TV | 1,684,178 | 1,459,493 | 12,442
34205 | WKOH | 584,645 | 579,258 | 4,938
67869 | WKOI-TV | 3,660,544 | 3,646,874 | 31,090
34211 | WKON | 1,080,274 | 1,072,320 | 9,142
18267 | WKOP-TV | 1,555,654 | 1,382,098 | 11,782
64545 | WKOW | 1,918,224 | 1,899,746 | 16,195
21432 | WKPC-TV | 1,525,919 | 1,517,701 | 12,938
65758 | WKPD | 283,454 | 282,250 | 2,406
34200 | WKPI-TV | 606,666 | 481,220 | 4,102
27504 | WKPT-TV | 1,131,213 | 887,806 | 7,569
58341 | WKPV | 1,132,932 | 731,199 | 5,111
11289 | WKRC-TV | 3,281,914 | 3,229,223 | 27,529
73187 | WKRG-TV | 1,526,600 | 1,526,075 | 13,010
73188 | WKRN-TV | 2,409,767 | 2,388,588 | 20,363
34222 | WKSO-TV | 658,441 | 642,090 | 5,474
40902 | WKTC | 1,387,229 | 1,386,779 | 11,822
60654 | WKTV | 1,573,503 | 1,342,387 | 11,444
73195 | WKYC | 4,180,327 | 4,124,135 | 35,158
24914 | WKYT-TV | 1,174,615 | 1,156,978 | 9,863
71861 | WKYU-TV | 411,448 | 409,310 | 3,489
34181 | WKZT-TV | 1,044,532 | 1,020,878 | 8,703
18819 | WLAE-TV | 1,397,967 | 1,397,967 | 11,918
36533 | WLAJ | 4,100,475 | 4,063,963 | 34,645
2710 | WLAX | 469,017 | 447,381 | 3,814
68542 | WLBT | 948,671 | 947,857 | 8,080
39644 | WLBZ | 373,129 | 364,346 | 3,106
69328 | WLED-TV | 332,718 | 174,998 | 1,492
63046 | WLEF-TV | 192,283 | 191,149 | 1,630
73203 | WLEX-TV | 969,481 | 964,735 | 8,224
37806 | WLFB | 808,036 | 680,534 | 5,802
37808 | WLFG | 1,614,321 | 1,282,063 | 10,930
73204 | WLFI-TV | 2,243,009 | 2,221,313 | 18,937
73205 | WLFL | 3,640,360 | 3,636,542 | 31,002
11113 | WLGA | 950,018 | 943,236 | 8,041
19777 | WLII-DT | 2,801,102 | 2,153,564 | 18,359
37503 | WLIO | 1,067,232 | 1,050,170 | 8,953
38336 | WLIW | 20,027,920 | 19,717,729 | 168,094
27696 | WLJC-TV | 1,401,072 | 1,281,256 | 10,923
71645 | WLJT-DT | 385,493 | 385,380 | 3,285
53939 | WLKY | 1,927,997 | 1,919,810 | 16,366
11033 | WLLA | 2,081,693 | 2,081,436 | 17,744
17076 | WLMB | 2,754,484 | 2,747,490 | 23,422
68518 | WLMT | 1,736,552 | 1,733,496 | 14,778
22591 | WLNE-TV | 6,429,522 | 6,381,825 | 54,405
74420 | WLNS-TV | 4,100,475 | 4,063,963 | 34,645
73206 | WLNY-TV | 7,501,199 | 7,415,578 | 63,218
84253 | WLOO | 913,960 | 912,674 | 7,781
56537 | WLOS | 3,086,751 | 2,544,360 | 21,691
37732 | WLOV-TV | 609,526 | 607,780 | 5,181
13995 | WLOX | 1,182,149 | 1,170,659 | 9,980
38586 | WLPB-TV | 1,219,624 | 1,219,407 | 10,395
73189 | WLPX-TV | 1,066,912 | 1,022,543 | 8,717
66358 | WLRN-TV | 5,447,399 | 5,447,399 | 46,439
73226 | WLS-TV | 10,174,464 | 10,170,757 | 86,706
73230 | WLTV-DT | 5,427,398 | 5,427,398 | 46,269
37176 | WLTX | 1,580,677 | 1,578,645 | 13,458
37179 | WLTZ | 689,521 | 685,358 | 5,843
21259 | WLUC-TV | 92,246 | 85,393 | 728
4150 | WLUK-TV | 1,251,563 | 1,247,414 | 10,634
73238 | WLVI | 7,441,208 | 7,343,735 | 62,605
36989 | WLVT-TV | 10,613,847 | 9,474,797 | 80,773
3978 | WLWC | 3,281,532 | 3,150,875 | 26,861
46979 | WLWT | 3,367,381 | 3,355,009 | 28,601
54452 | WLXI | 4,184,851 | 4,166,318 | 35,518
55350 | WLYH | 2,829,585 | 2,367,000 | 20,179
43192 | WMAB-TV | 407,794 | 401,487 | 3,423
43170 | WMAE-TV | 686,076 | 653,173 | 5,568
43197 | WMAH-TV | 1,257,393 | 1,256,995 | 10,716
43176 | WMAO-TV | 369,696 | 369,343 | 3,149
47905 | WMAQ-TV | 9,914,395 | 9,913,272 | 84,511
59442 | WMAR-TV | 9,198,495 | 9,072,076 | 77,339
43184 | WMAU-TV | 642,328 | 636,504 | 5,426
43193 | WMAV-TV | 1,008,339 | 1,008,208 | 8,595
43169 | WMAW-TV | 726,173 | 715,450 | 6,099
46991 | WMAZ-TV | 1,185,678 | 1,136,616 | 9,690
66398 | WMBB | 935,027 | 914,607 | 7,797
43952 | WMBC-TV | 18,706,132 | 18,458,331 | 157,357
42121 | WMBD-TV | 742,729 | 742,660 | 6,331
83969 | WMBF-TV | 445,363 | 445,363 | 3,797
60829 | WMCF-TV | 612,942 | 609,635 | 5,197
9739 | WMCN-TV | 10,379,045 | 9,982,651 | 85,102
19184 | WMC-TV | 2,047,403 | 2,043,125 | 17,418
189357 | WMDE | 6,384,827 | 6,257,910 | 53,349
73255 | WMDN | 278,227 | 278,018 | 2,370
16455 | WMDT | 731,931 | 731,931 | 6,240
39656 | WMEA-TV | 902,755 | 853,857 | 7,279
39648 | WMEB-TV | 511,761 | 494,574 | 4,216
70537 | WMEC | 218,027 | 217,839 | 1,857
39649 | WMED-TV | 30,488 | 29,577 | 252
39662 | WMEM-TV | 71,700 | 69,981 | 597
41893 | WMFD-TV | 1,561,367 | 1,324,244 | 11,289
41436 | WMFP | 5,792,048 | 5,564,295 | 47,436
61111 | WMGM-TV | 807,797 | 807,797 | 6,886
43847 | WMGT-TV | 601,894 | 601,309 | 5,126
73263 | WMHT | 1,719,949 | 1,550,977 | 13,222
68545 | WMLW-TV | 1,843,933 | 1,843,663 | 15,717
53819 | WMOR-TV | 5,394,541 | 5,394,541 | 45,988
81503 | WMOW | 121,150 | 105,957 | 903
65944 | WMPB | 7,279,563 | 7,190,696 | 61,301
43168 | WMPN-TV | 856,237 | 854,089 | 7,281
65942 | WMPT | 8,637,742 | 8,584,398 | 73,182
60827 | WMPV-TV | 1,423,052 | 1,422,411 | 12,126
10221 | WMSN-TV | 1,947,942 | 1,927,158 | 16,429
2174 | WMTJ | 3,143,148 | 2,365,308 | 20,164
6870 | WMTV | 1,548,616 | 1,545,459 | 13,175
73288 | WMTW | 1,940,292 | 1,658,816 | 14,141
23935 | WMUM-TV | 862,740 | 859,204 | 7,325
73292 | WMUR-TV | 5,192,179 | 5,003,980 | 42,659
42663 | WMVS | 3,172,534 | 3,112,231 | 26,532
42665 | WMVT | 3,172,534 | 3,112,231 | 26,532
81946 | WMWC-TV | 946,858 | 916,989 | 7,817
56548 | WMYA-TV | 1,650,798 | 1,571,594 | 13,398
74211 | WMYD | 5,750,989 | 5,750,873 | 49,026
20624 | WMYT-TV | 4,432,745 | 4,301,117 | 36,667
25544 | WMYV | 3,901,915 | 3,875,210 | 33,036
73310 | WNAB | 2,176,984 | 2,166,809 | 18,472
73311 | WNAC-TV | 7,310,183 | 6,959,064 | 59,326
47535 | WNBC | 21,952,082 | 21,399,204 | 182,428
83965 | WNBW-DT | 1,400,631 | 1,396,012 | 11,901
72307 | WNCF | 667,683 | 665,950 | 5,677
50782 | WNCN | 3,795,494 | 3,783,131 | 32,251
57838 | WNCT-TV | 1,935,414 | 1,887,929 | 16,095
41674 | WNDU-TV | 1,863,764 | 1,835,398 | 15,647
28462 | WNDY-TV | 2,912,963 | 2,855,253 | 24,341
71928 | WNED-TV | 1,387,961 | 1,370,480 | 11,683
60931 | WNEH | 1,261,482 | 1,255,218 | 10,701
41221 | WNEM-TV | 1,475,094 | 1,471,908 | 12,548
49439 | WNEO | 3,353,869 | 3,271,369 | 27,888
73318 | WNEP-TV | 3,429,213 | 2,838,000 | 24,194
18795 | WNET | 21,113,760 | 20,615,190 | 175,744
51864 | WNEU | 7,135,190 | 7,067,520 | 60,251
23942 | WNGH-TV | 5,744,856 | 5,595,366 | 47,700
67802 | WNIN | 883,322 | 865,128 | 7,375
41671 | WNIT | 1,305,447 | 1,305,447 | 11,129
48457 | WNJB | 20,787,272 | 20,036,393 | 170,810
48477 | WNJN | 20,787,272 | 20,036,393 | 170,810
48481 | WNJS | 7,211,292 | 7,176,711 | 61,181
48465 | WNJT | 7,211,292 | 7,176,711 | 61,181
73333 | WNJU | 21,952,082 | 21,399,204 | 182,428
73336 | WNJX-TV | 1,585,248 | 1,149,468 | 2,600
61217 | WNKY | 379,002 | 377,357 | 3,217
71905 | WNLO | 1,900,503 | 1,820,106 | 15,516
4318 | WNMU | 181,736 | 179,662 | 1,532
73344 | WNNE | 792,551 | 676,539 | 5,767
54280 | WNOL-TV | 1,632,389 | 1,632,389 | 13,916
71676 | WNPB-TV | 2,130,047 | 1,941,707 | 16,553
62137 | WNPI-DT | 167,931 | 161,748 | 1,379
41398 | WNPT | 2,260,463 | 2,227,570 | 18,990
28468 | WNPX-TV | 2,084,890 | 2,071,017 | 17,655
61009 | WNSC-TV | 2,431,154 | 2,425,044 | 20,674
61010 | WNTV | 2,419,841 | 2,211,019 | 18,849
16539 | WNTZ-TV | 344,704 | 343,849 | 2,931
7933 | WNUV | 9,098,694 | 8,906,508 | 75,928
9999 | WNVC | 807,960 | 690,381 | 5,885
10019 | WNVT | 1,721,004 | 1,712,249 | 14,597
73354 | WNWO-TV | 2,232,660 | 2,232,660 | 19,033
136751 | WNYA | 1,540,430 | 1,406,032 | 11,986
30303 | WNYB | 1,785,269 | 1,756,096 | 14,971
6048 | WNYE-TV | 19,185,983 | 19,015,910 | 162,111
34329 | WNYI | 1,627,542 | 1,338,811 | 11,413
67784 | WNYO-TV | 1,430,491 | 1,409,756 | 12,018
73363 | WNYT | 1,679,494 | 1,516,775 | 12,931
22206 | WNYW | 20,075,874 | 19,753,060 | 168,395
69618 | WOAI-TV | 2,525,811 | 2,513,887 | 21,431
66804 | WOAY-TV | 581,486 | 443,210 | 3,778
41225 | WOFL | 4,048,104 | 4,043,672 | 34,472
70651 | WOGX | 1,112,408 | 1,112,408 | 9,483
8661 | WOI-DT | 1,173,757 | 1,170,432 | 9,978
39746 | WOIO | 3,821,233 | 3,745,335 | 31,929
71725 | WOLE-DT | 1,784,094 | 1,312,984 | 8,066
73375 | WOLF-TV | 2,990,646 | 2,522,858 | 21,507
60963 | WOLO-TV | 2,635,715 | 2,594,980 | 22,122
36838 | WOOD-TV | 2,507,053 | 2,501,084 | 21,322
67602 | WOPX-TV | 3,877,863 | 3,877,805 | 33,058
64865 | WORA-TV | 2,733,629 | 2,149,090 | 3,138
73901 | WORO-DT | 3,243,301 | 2,511,742 | 21,413
60357 | WOST | 1,193,381 | 853,762 | 7,278
66185 | WOSU-TV | 2,843,651 | 2,776,901 | 23,673
131 | WOTF-TV | 3,451,383 | 3,451,383 | 29,423
10212 | WOTV | 2,368,797 | 2,368,397 | 20,191
50147 | WOUB-TV | 756,762 | 734,988 | 6,266
50141 | WOUC-TV | 1,713,515 | 1,649,853 | 14,065
23342 | WOWK-TV | 1,159,175 | 1,083,663 | 9,238
65528 | WOWT | 1,380,979 | 1,377,287 | 11,741
31570 | WPAN | 637,347 | 637,347 | 5,433
4190 | WPBA | 5,217,180 | 5,200,958 | 44,338
51988 | WPBF | 3,190,307 | 3,186,405 | 27,164
21253 | WPBN-TV | 442,005 | 430,953 | 3,674
62136 | WPBS-DT | 338,448 | 301,692 | 2,572
13456 | WPBT | 5,416,604 | 5,416,604 | 46,177
13924 | WPCB-TV | 2,934,614 | 2,800,516 | 23,874
64033 | WPCH-TV | 5,948,778 | 5,874,163 | 50,077
4354 | WPCT | 195,270 | 194,869 | 1,661
69880 | WPCW | 3,393,365 | 3,188,441 | 27,181
17012 | WPDE-TV | 1,772,233 | 1,769,553 | 15,085
52527 | WPEC | 5,788,448 | 5,788,448 | 49,347
84088 | WPFO | 1,329,690 | 1,209,873 | 10,314
54728 | WPGA-TV | 559,495 | 559,025 | 4,766
60820 | WPGD-TV | 2,355,629 | 2,343,715 | 19,980
73875 | WPGH-TV | 3,236,098 | 3,121,767 | 26,613
2942 | WPGX | 425,098 | 422,872 | 3,605
73879 | WPHL-TV | 10,421,216 | 10,246,856 | 87,354
73881 | WPIX | 20,638,932 | 20,213,158 | 172,317
53113 | WPLG | 5,587,129 | 5,587,129 | 47,630
11906 | WPMI-TV | 1,468,001 | 1,467,594 | 12,511
10213 | WPMT | 2,412,561 | 2,191,501 | 18,683
18798 | WPNE-TV | 1,161,295 | 1,160,631 | 9,894
73907 | WPNT | 3,172,170 | 3,064,423 | 26,124
28480 | WPPT | 10,613,847 | 9,474,797 | 80,773
51984 | WPPX-TV | 8,206,117 | 7,995,941 | 68,165
47404 | WPRI-TV | 7,254,721 | 6,990,606 | 59,595
51991 | WPSD-TV | 883,814 | 879,213 | 7,495
12499 | WPSG | 10,232,988 | 9,925,334 | 84,613
66219 | WPSU-TV | 1,055,133 | 868,013 | 7,400
73905 | WPTA | 1,099,180 | 1,099,180 | 9,371
25067 | WPTD | 3,423,417 | 3,411,727 | 29,085
25065 | WPTO | 2,961,254 | 2,951,883 | 25,165
59443 | WPTV-TV | 5,840,102 | 5,840,102 | 49,787
57476 | WPTZ | 792,551 | 676,539 | 5,767
8616 | WPVI-TV | 11,491,587 | 11,302,701 | 96,356
48772 | WPWR-TV | 9,957,301 | 9,954,828 | 84,865
51969 | WPXA-TV | 6,587,205 | 6,458,510 | 55,059
71236 | WPXC-TV | 1,561,014 | 1,561,014 | 13,308
5800 | WPXD-TV | 5,249,447 | 5,249,447 | 44,752
37104 | WPXE-TV | 3,067,071 | 3,057,388 | 26,064
48406 | WPXG-TV | 2,577,848 | 2,512,150 | 21,416
73312 | WPXH-TV | 1,471,601 | 1,451,634 | 12,375
73910 | WPXI | 3,300,896 | 3,197,864 | 27,262
2325 | WPXJ-TV | 2,357,870 | 2,289,706 | 19,520
52628 | WPXK-TV | 1,801,997 | 1,577,806 | 13,451
21729 | WPXL-TV | 1,639,180 | 1,639,180 | 13,974
48608 | WPXM-TV | 5,153,621 | 5,153,621 | 43,935
73356 | WPXN-TV | 20,878,066 | 20,454,468 | 174,374
27290 | WPXP-TV | 5,565,072 | 5,565,072 | 47,442
50063 | WPXQ-TV | 3,281,532 | 3,150,875 | 26,861
70251 | WPXR-TV | 1,375,640 | 1,200,331 | 10,233
40861 | WPXS | 2,339,305 | 2,251,498 | 19,194
53065 | WPXT | 1,002,128 | 952,535 | 8,120
37971 | WPXU-TV | 690,613 | 690,613 | 5,887
67077 | WPXV-TV | 1,919,794 | 1,919,794 | 16,366
74091 | WPXW-TV | 8,075,268 | 8,024,342 | 68,408
21726 | WPXX-TV | 1,562,675 | 1,560,834 | 13,306
73319 | WQAD-TV | 1,101,012 | 1,089,523 | 9,288
65130 | WQCW | 1,307,345 | 1,236,020 | 10,537
71561 | WQEC | 183,969 | 183,690 | 1,566
41315 | WQED | 3,529,305 | 3,426,684 | 29,212
3255 | WQHA | 1,052,107 | 730,913 | 6,231
60556 | WQHS-DT | 3,996,567 | 3,952,672 | 33,697
53716 | WQLN | 602,232 | 577,633 | 4,924
52075 | WQMY | 410,269 | 254,586 | 2,170
64550 | WQOW | 369,066 | 358,576 | 3,057
5468 | WQPT-TV | 595,685 | 595,437 | 5,076
64690 | WQPX-TV | 1,644,283 | 1,212,587 | 10,337
52408 | WQRF-TV | 1,375,774 | 1,354,979 | 11,551
2175 | WQTO | 2,864,201 | 1,598,365 | 6,261
8688 | WRAL-TV | 3,852,675 | 3,848,801 | 32,811
10133 | WRAY-TV | 4,184,851 | 4,166,318 | 35,518
64611 | WRAZ | 3,800,594 | 3,797,515 | 32,374
136749 | WRBJ-TV | 1,030,831 | 1,028,010 | 8,764
3359 | WRBL | 1,493,140 | 1,461,459 | 12,459
57221 | WRBU | 2,933,497 | 2,929,776 | 24,976
54940 | WRBW | 4,080,267 | 4,077,341 | 34,759
59137 | WRCB | 1,587,742 | 1,363,582 | 11,625
47904 | WRC-TV | 8,188,601 | 8,146,696 | 69,451
54963 | WRDC | 3,972,477 | 3,966,864 | 33,818
55454 | WRDQ | 3,931,023 | 3,931,023 | 33,512
73937 | WRDW-TV | 1,564,584 | 1,533,682 | 13,075
66174 | WREG-TV | 1,642,307 | 1,638,585 | 13,969
61011 | WRET-TV | 2,419,841 | 2,211,019 | 18,849
73940 | WREX | 2,303,027 | 2,047,951 | 17,459
54443 | WRFB | 2,674,527 | 1,975,375 | 23,287
73942 | WRGB | 1,757,575 | 1,645,483 | 14,028
411 | WRGT-TV | 3,451,036 | 3,416,078 | 29,122
74416 | WRIC-TV | 2,059,152 | 1,996,075 | 17,017
61012 | WRJA-TV | 1,127,088 | 1,119,936 | 9,547
412 | WRLH-TV | 2,017,508 | 1,959,111 | 16,701
61013 | WRLK-TV | 1,229,094 | 1,228,616 | 10,474
43870 | WRLM | 3,960,217 | 3,945,408 | 33,635
74156 | WRNN-TV | 19,853,836 | 19,615,370 | 167,221
73964 | WROC-TV | 1,203,412 | 1,185,203 | 10,104
159007 | WRPT | 110,009 | 109,937 | 937
20590 | WRPX-TV | 2,637,949 | 2,634,141 | 22,456
62009 | WRSP-TV | 1,156,134 | 1,154,040 | 9,838
40877 | WRTV | 2,919,683 | 2,895,164 | 24,681
15320 | WRUA | 2,905,193 | 2,121,362 | 18,085
71580 | WRXY-TV | 1,784,000 | 1,784,000 | 15,209
48662 | WSAV-TV | 1,000,315 | 1,000,309 | 8,528
6867 | WSAW-TV | 652,442 | 646,386 | 5,510
36912 | WSAZ-TV | 1,239,187 | 1,168,954 | 9,965
56092 | WSBE-TV | 7,535,710 | 7,266,304 | 61,945
73982 | WSBK-TV | 7,290,901 | 7,225,463 | 61,597
72053 | WSBS-TV | 42,952 | 42,952 | 366
73983 | WSBT-TV | 1,763,215 | 1,752,698 | 14,942
23960 | WSB-TV | 5,897,425 | 5,828,269 | 49,686
69446 | WSCG | 867,516 | 867,490 | 7,395
64971 | WSCV | 5,465,435 | 5,465,435 | 46,593
70536 | WSEC | 541,118 | 540,495 | 4,608
49711 | WSEE-TV | 613,176 | 595,476 | 5,076
21258 | WSES | 1,548,117 | 1,513,982 | 12,907
73988 | WSET-TV | 1,569,722 | 1,323,180 | 11,280
13993 | WSFA | 1,168,636 | 1,133,724 | 9,665
11118 | WSFJ-TV | 1,675,987 | 1,667,150 | 14,212
10203 | WSFL-TV | 5,344,129 | 5,344,129 | 45,559
72871 | WSFX-TV | 970,833 | 970,833 | 8,276
73999 | WSIL-TV | 672,560 | 669,176 | 5,705
4297 | WSIU-TV | 1,019,939 | 937,070 | 7,989
74007 | WSJV | 1,522,499 | 1,522,499 | 12,979
78908 | WSKA | 546,588 | 431,354 | 3,677
74034 | WSKG-TV | 892,402 | 633,163 | 5,398
76324 | WSKY-TV | 1,934,585 | 1,934,519 | 16,492
57840 | WSLS-TV | 1,447,286 | 1,277,753 | 10,893
21737 | WSMH | 2,339,224 | 2,327,660 | 19,843
41232 | WSMV-TV | 2,447,769 | 2,404,766 | 20,501
70119 | WSNS-TV | 9,914,395 | 9,913,272 | 84,511
74070 | WSOC-TV | 3,706,808 | 3,638,832 | 31,021
66391 | WSPA-TV | 3,388,945 | 3,227,025 | 27,510
64352 | WSPX-TV | 1,298,295 | 1,174,763 | 10,015
17611 | WSRE | 1,354,495 | 1,353,634 | 11,540
63867 | WSST-TV | 331,907 | 331,601 | 2,827
60341 | WSTE-DT | 3,723,930 | 3,033,241 | 25,858
21252 | WSTM-TV | 1,455,586 | 1,379,393 | 11,759
11204 | WSTR-TV | 3,297,280 | 3,286,795 | 28,020
19776 | WSUR-DT | 3,714,790 | 3,015,529 | 8,066
2370 | WSVI | 50,601 | 50,601 | 431
63840 | WSVN | 5,588,748 | 5,588,748 | 47,644
73374 | WSWB | 1,530,002 | 1,102,316 | 9,397
28155 | WSWG | 381,004 | 380,910 | 3,247
71680 | WSWP-TV | 858,726 | 659,416 | 5,622
74094 | WSYM-TV | 1,498,905 | 1,498,671 | 12,776
73113 | WSYR-TV | 1,329,933 | 1,243,035 | 10,597
40758 | WSYT | 1,970,721 | 1,739,071 | 14,826
56549 | WSYX | 2,635,937 | 2,592,420 | 22,100
65681 | WTAE-TV | 2,995,755 | 2,860,979 | 24,390
23341 | WTAJ-TV | 1,187,718 | 948,598 | 8,087
4685 | WTAP-TV | 512,358 | 494,914 | 4,219
416 | WTAT-TV | 1,111,476 | 1,111,476 | 9,475
67993 | WTBY-TV | 15,858,470 | 15,766,438 | 134,409
29715 | WTCE-TV | 2,620,599 | 2,620,599 | 22,341
65667 | WTCI | 1,204,613 | 1,099,395 | 9,372
67786 | WTCT | 608,457 | 607,620 | 5,180
28954 | WTCV | 3,254,481 | 2,500,195 | 21,314
74422 | WTEN | 1,902,431 | 1,613,747 | 13,757
9881 | WTGL | 3,707,507 | 3,707,507 | 31,606
27245 | WTGS | 966,519 | 966,357 | 8,238
70655 | WTHI-TV | 928,934 | 886,846 | 7,560
70162 | WTHR | 2,949,339 | 2,901,633 | 24,736
147 | WTIC-TV | 5,318,753 | 4,707,697 | 40,133
26681 | WTIN-TV | 3,714,547 | 2,898,224 | 2,600
66536 | WTIU | 1,570,257 | 1,569,135 | 13,377
1002 | WTJP-TV | 1,947,743 | 1,907,300 | 16,260
4593 | WTJR | 334,527 | 334,221 | 2,849
70287 | WTJX-TV | 135,017 | 121,498 | 1,036
47401 | WTKR | 2,149,376 | 2,149,375 | 18,323
82735 | WTLF | 349,696 | 349,691 | 2,981
23486 | WTLH | 1,065,127 | 1,065,105 | 9,080
67781 | WTLJ | 1,622,365 | 1,621,227 | 13,821
65046 | WTLV | 1,757,600 | 1,739,021 | 14,825
1222 | WTLW | 1,646,714 | 1,644,206 | 14,017
74098 | WTMJ-TV | 3,096,406 | 3,085,983 | 26,308
74109 | WTNH | 7,845,782 | 7,332,431 | 62,509
19200 | WTNZ | 1,699,427 | 1,513,754 | 12,905
590 | WTOC-TV | 993,098 | 992,658 | 8,462
74112 | WTOG | 4,796,964 | 4,796,188 | 40,888
4686 | WTOK-TV | 410,134 | 404,555 | 3,449
13992 | WTOL | 4,184,020 | 4,174,198 | 35,585
21254 | WTOM-TV | 83,379 | 81,092 | 691
74122 | WTOV-TV | 3,892,886 | 3,619,899 | 30,860
82574 | WTPC-TV | 2,049,246 | 2,042,851 | 17,415
86496 | WTPX-TV | 255,972 | 255,791 | 2,181
6869 | WTRF-TV | 2,941,511 | 2,565,375 | 21,870
67798 | WTSF | 922,441 | 851,465 | 7,259
11290 | WTSP | 5,511,840 | 5,494,925 | 46,844
4108 | WTTA | 5,583,544 | 5,576,649 | 47,541
74137 | WTTE | 2,690,341 | 2,650,354 | 22,594
22207 | WTTG | 8,070,491 | 8,015,328 | 68,331
56526 | WTTK | 2,844,384 | 2,825,807 | 24,090
74138 | WTTO | 1,817,151 | 1,786,516 | 15,230
56523 | WTTV | 2,522,077 | 2,518,133 | 21,467
10802 | WTTW | 9,729,982 | 9,729,634 | 82,945
74148 | WTVA | 823,492 | 810,123 | 6,906
22590 | WTVC | 1,579,628 | 1,366,976 | 11,653
8617 | WTVD | 3,790,354 | 3,775,757 | 32,188
55305 | WTVE | 5,156,905 | 5,152,997 | 43,929
36504 | WTVF | 2,384,622 | 2,367,601 | 20,184
74150 | WTVG | 4,274,274 | 4,263,894 | 36,350
74151 | WTVH | 1,350,223 | 1,275,171 | 10,871
10645 | WTVI | 2,856,703 | 2,829,960 | 24,125
63154 | WTVJ | 5,458,451 | 5,458,451 | 46,533
595 | WTVM | 1,498,667 | 1,405,957 | 11,986
72945 | WTVO | 1,409,708 | 1,398,825 | 11,925
28311 | WTVP | 678,884 | 678,539 | 5,785
51597 | WTVQ-DT | 989,786 | 983,552 | 8,385
57832 | WTVR-TV | 1,816,197 | 1,809,035 | 15,422
16817 | WTVS | 5,511,091 | 5,510,837 | 46,980
68569 | WTVT | 5,475,385 | 5,462,416 | 46,567
3661 | WTVW | 839,003 | 834,187 | 7,111
35575 | WTVX | 3,157,609 | 3,157,609 | 26,919
4152 | WTVY | 974,532 | 971,173 | 8,279
40759 | WTVZ-TV | 2,156,534 | 2,156,346 | 18,383
66908 | WTWC-TV | 1,061,101 | 1,061,079 | 9,046
20426 | WTWO | 737,341 | 731,294 | 6,234
81692 | WTWV | 1,527,511 | 1,526,625 | 13,014
51568 | WTXF-TV | 10,784,256 | 10,492,549 | 89,449
41065 | WTXL-TV | 1,054,514 | 1,054,322 | 8,988
8532 | WUAB | 3,821,233 | 3,745,335 | 31,929
12855 | WUCF-TV | 3,707,507 | 3,707,507 | 31,606
36395 | WUCW | 3,664,480 | 3,657,236 | 31,178
69440 | WUFT | 1,372,142 | 1,372,142 | 11,698
413 | WUHF | 1,152,580 | 1,147,972 | 9,786
8156 | WUJA | 2,638,361 | 1,977,410 | 16,857
69080 | WUNC-TV | 4,184,851 | 4,166,318 | 35,518
69292 | WUND-TV | 1,506,640 | 1,506,640 | 12,844
69114 | WUNE-TV | 3,146,865 | 2,625,942 | 22,386
69300 | WUNF-TV | 2,335,055 | 2,068,975 | 17,638
69124 | WUNG-TV | 3,605,143 | 3,588,220 | 30,590
60551 | WUNI | 7,209,571 | 7,084,349 | 60,394
69332 | WUNJ-TV | 1,081,274 | 1,081,274 | 9,218
69149 | WUNK-TV | 2,018,916 | 2,013,516 | 17,165
69360 | WUNL-TV | 3,055,263 | 2,834,274 | 24,162
69444 | WUNM-TV | 1,357,346 | 1,357,346 | 11,571
69397 | WUNP-TV | 1,402,186 | 1,393,524 | 11,880
69416 | WUNU | 1,202,495 | 1,201,481 | 10,243
83822 | WUNW | 1,109,237 | 570,072 | 4,860
6900 | WUPA | 5,966,454 | 5,888,379 | 50,198
13938 | WUPL | 1,721,320 | 1,721,320 | 14,674
10897 | WUPV | 1,933,664 | 1,914,643 | 16,322
19190 | WUPW | 2,100,914 | 2,099,572 | 17,899
23128 | WUPX-TV | 1,102,435 | 1,089,118 | 9,285
65593 | WUSA | 8,750,706 | 8,446,074 | 72,003
4301 | WUSI-TV | 339,507 | 339,507 | 2,894
60552 | WUTB | 8,523,983 | 8,381,042 | 71,448
30577 | WUTF-TV | 7,918,927 | 7,709,189 | 65,721
57837 | WUTR | 526,114 | 481,957 | 4,109
415 | WUTV | 1,589,376 | 1,557,474 | 13,277
16517 | WUVC-DT | 3,768,817 | 3,748,841 | 31,959
48813 | WUVG-DT | 6,029,495 | 5,965,975 | 50,860
3072 | WUVN | 1,233,568 | 1,157,140 | 9,865
60560 | WUVP-DT | 10,421,216 | 10,246,856 | 87,354
9971 | WUXP-TV | 2,316,872 | 2,305,293 | 19,653
417 | WVAH-TV | 1,373,555 | 1,295,383 | 11,043
23947 | WVAN-TV | 1,026,862 | 1,025,950 | 8,746
65387 | WVBT | 1,885,169 | 1,885,169 | 16,071
72342 | WVCY-TV | 2,543,642 | 2,542,235 | 21,673
60559 | WVEA-TV | 4,553,004 | 4,552,113 | 38,807
74167 | WVEC | 2,098,679 | 2,092,868 | 17,842
5802 | WVEN-TV | 3,921,016 | 3,919,361 | 33,413
61573 | WVEO | 1,153,382 | 761,454 | 5,111
69946 | WVER | 888,756 | 758,441 | 6,466
10976 | WVFX | 731,193 | 609,763 | 5,198
47929 | WVIA-TV | 3,429,213 | 2,838,000 | 24,194
3667 | WVII-TV | 368,022 | 346,874 | 2,957
70309 | WVIR-TV | 1,945,637 | 1,908,395 | 16,269
74170 | WVIT | 5,846,093 | 5,357,639 | 45,674
18753 | WVIZ | 3,695,223 | 3,689,173 | 31,450
70021 | WVLA-TV | 1,897,179 | 1,897,007 | 16,172
81750 | WVLR | 1,412,728 | 1,300,554 | 11,087
35908 | WVLT-TV | 1,888,607 | 1,633,633 | 13,927
74169 | WVNS-TV | 911,630 | 606,820 | 5,173
11259 | WVNY | 742,579 | 659,270 | 5,620
29000 | WVOZ-TV | 1,132,932 | 731,199 | 5,111
71657 | WVPB-TV | 780,268 | 752,747 | 6,417
60111 | WVPT | 767,268 | 642,173 | 5,475
70491 | WVPX-TV | 4,147,298 | 4,114,920 | 35,080
66378 | WVPY | 756,696 | 632,649 | 5,393
67190 | WVSN | 2,948,832 | 2,137,333 | 18,221
69943 | WVTA | 760,072 | 579,703 | 4,942
69940 | WVTB | 455,880 | 257,445 | 2,195
74173 | WVTM-TV | 2,009,346 | 1,940,153 | 16,540
74174 | WVTV | 3,091,132 | 3,083,108 | 26,283
77496 | WVUA | 2,209,921 | 2,160,101 | 18,415
4149 | WVUE-DT | 1,658,125 | 1,658,125 | 14,136
4329 | WVUT | 273,293 | 273,215 | 2,329
74176 | WVVA | 1,037,632 | 722,666 | 6,161
3113 | WVXF | 85,191 | 78,556 | 670
12033 | WWAY | 1,208,625 | 1,208,625 | 10,304
30833 | WWBT | 1,924,502 | 1,892,842 | 16,136
20295 | WWCP-TV | 2,811,278 | 2,548,691 | 21,728
24812 | WWCW | 1,390,985 | 1,212,308 | 10,335
23671 | WWDP | 5,792,048 | 5,564,295 | 47,436
21158 | WWHO | 2,762,344 | 2,721,504 | 23,201
14682 | WWJE-DT | 7,209,571 | 7,084,349 | 60,394
72123 | WWJ-TV | 5,562,031 | 5,561,777 | 47,414
166512 | WWJX | 518,866 | 518,846 | 4,423
6868 | WWLP | 3,838,272 | 3,077,800 | 26,238
74192 | WWL-TV | 1,788,624 | 1,788,624 | 15,248
3133 | WWMB | 1,547,974 | 1,544,778 | 13,169
74195 | WWMT | 2,460,942 | 2,455,432 | 20,933
68851 | WWNY-TV | 375,600 | 346,623 | 2,955
74197 | WWOR-TV | 19,853,836 | 19,615,370 | 167,221
65943 | WWPB | 3,197,858 | 2,775,966 | 23,665
23264 | WWPX-TV | 2,299,441 | 2,231,612 | 19,024
68547 | WWRS-TV | 2,324,155 | 2,321,066 | 19,787
61251 | WWSB | 3,340,133 | 3,340,133 | 28,475
23142 | WWSI | 11,269,831 | 11,098,540 | 94,615
16747 | WWTI | 196,531 | 190,097 | 1,621
998 | WWTO-TV | 5,613,737 | 5,613,737 | 47,857
26994 | WWTV | 1,034,174 | 1,022,322 | 8,715
84214 | WWTW | 1,527,511 | 1,526,625 | 13,014
26993 | WWUP-TV | 116,638 | 110,592 | 943
23338 | WXBU | 4,030,693 | 3,538,096 | 30,162
61504 | WXCW | 1,749,847 | 1,749,847 | 14,917
61084 | WXEL-TV | 5,416,604 | 5,416,604 | 46,177
60539 | WXFT-DT | 10,174,464 | 10,170,757 | 86,706
23929 | WXGA-TV | 608,494 | 606,849 | 5,173
51163 | WXIA-TV | 6,179,680 | 6,035,828 | 51,455
53921 | WXII-TV | 3,630,551 | 3,299,114 | 28,125
146 | WXIN | 2,836,532 | 2,814,815 | 23,996
39738 | WXIX-TV | 2,911,054 | 2,900,875 | 24,730
414 | WXLV-TV | 4,362,761 | 4,333,737 | 36,945
68433 | WXMI | 1,988,970 | 1,988,589 | 16,953
64549 | WXOW | 425,378 | 413,264 | 3,523
6601 | WXPX-TV | 4,594,588 | 4,592,639 | 39,152
74215 | WXTV-DT | 19,992,096 | 19,643,518 | 167,461
12472 | WXTX | 699,095 | 694,837 | 5,923
11970 | WXXA-TV | 1,680,670 | 1,537,868 | 13,110
57274 | WXXI-TV | 1,184,860 | 1,168,696 | 9,963
53517 | WXXV-TV | 1,191,123 | 1,189,584 | 10,141
10267 | WXYZ-TV | 5,622,543 | 5,622,140 | 47,929
12279 | WYCC | 9,729,982 | 9,729,634 | 82,945
77515 | WYCI | 35,873 | 26,508 | 226
70149 | WYCW | 3,388,945 | 3,227,025 | 27,510
62219 | WYDC | 560,266 | 449,486 | 3,832
18783 | WYDN | 2,577,848 | 2,512,150 | 21,416
35582 | WYDO | 1,097,745 | 1,097,745 | 9,358
25090 | WYES-TV | 1,872,245 | 1,872,059 | 15,959
53905 | WYFF | 2,626,363 | 2,416,551 | 20,601
49803 | WYIN | 6,956,141 | 6,956,141 | 59,301
24915 | WYMT-TV | 1,180,276 | 863,881 | 7,365
17010 | WYOU | 2,879,196 | 2,226,883 | 18,984
77789 | WYOW | 91,233 | 90,799 | 774
13933 | WYPX-TV | 1,529,500 | 1,413,583 | 12,051
4693 | WYTV | 4,898,622 | 4,535,576 | 38,666
5875 | WYZZ-TV | 1,042,140 | 1,036,721 | 8,838
15507 | WZBJ | 1,606,844 | 1,439,716 | 12,274
28119 | WZDX | 1,596,771 | 1,514,654 | 12,912
70493 | WZME | 5,996,408 | 5,544,708 | 47,269
81448 | WZMQ | 73,423 | 72,945 | 622
71871 | WZPX-TV | 2,039,157 | 2,039,157 | 17,384
136750 | WZRB | 952,279 | 951,693 | 8,113
418 | WZTV | 2,312,658 | 2,301,187 | 19,618
83270 | WZVI | 76,992 | 75,863 | 647
19183 | WZVN-TV | 1,981,488 | 1,981,488 | 16,892
49713 | WZZM | 1,574,546 | 1,548,835 | 13,204
¹ Call signs WIPM and WIPR are stations in Puerto Rico that are linked together with a total fee of $26,425.
² Call signs WNJX and WAPA are stations in Puerto Rico that are linked together with a total fee of $26,425.
³ Call signs WKAQ and WORA are stations in Puerto Rico that are linked together with a total fee of $26,425.
⁴ Call signs WOLE and WLII are stations in Puerto Rico that are linked together with a total fee of $26,425.
⁵ Call signs WVEO and WTCV are stations in Puerto Rico that are linked together with a total fee of $26,425.
⁶ Call signs WJPX and WJWN are stations in Puerto Rico that are linked together with a total fee of $26,425.
⁷ Call signs WAPA and WTIN are stations in Puerto Rico that are linked together with a total fee of $26,425.
⁸ Call signs WSUR and WLII are stations in Puerto Rico that are linked together with a total fee of $26,425.
⁹ Call signs WVOZ and WTCV are stations in Puerto Rico that are linked together with a total fee of $26,425.
¹⁰ Call signs WJPX and WKPV are stations in Puerto Rico that are linked together with a total fee of $26,425.
¹¹ Call signs WMTJ and WQTO are stations in Puerto Rico that are linked together with a total fee of $26,425.
¹² Call signs WIRS and WJPX are stations in Puerto Rico that are linked together with a total fee of $26,425.
¹³ Call signs WRFB and WORA are stations in Puerto Rico that are linked together with a total fee of $26,425.

Table 8—FY 2020 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) | .17.
CMRS Messaging Services (per unit) (47 CFR parts 20, 22, 24 and 90) | .08.
Broadband Radio Service (formerly MMDS/MDS) (per license) (47 CFR part 27) | 560.
Local Multipoint Distribution Service (per call sign) (47 CFR, part 101) | 560.
AM Radio Construction Permits | 610.
FM Radio Construction Permits | 1,075.
AM and FM Broadcast Radio Station Fees | See Table Below.
Digital TV (47 CFR part 73) VHF and UHF Commercial Fee Factor | * .007837.
Digital TV Construction Permits | 4,950.
Low Power TV, Class A TV, TV/FM Translators & Boosters (47 CFR part 74) | 315.
CARS (47 CFR part 78) | 1,300.
Cable Television Systems (per subscriber) (47 CFR part 76), Including IPTV | .89.
Direct Broadcast Service (DBS) (per subscriber) (as defined by section 602(13) of the Act) | .72.
Interstate Telecommunication Service Providers (per revenue dollar) | .00321.
Toll Free (per toll free subscriber) (47 CFR section 52.101 (f) of the rules) | .12.
Earth Stations (47 CFR part 25) | 560.
Space Stations (per operational station in geostationary orbit) (47 CFR part 25) also includes DBS Service (per operational station) (47 CFR part 100) | 98,125.
Space Stations (per operational system in non-geostationary orbit) (47 CFR part 25) | 223,500.
International Bearer Circuits—Terrestrial/Satellites (per Gbps circuit) | 41.
Submarine Cable Landing Licenses Fee (per cable system) | See Table Below.
* See Appendix G for fee amounts due, also available at https://www.fcc.gov/licensing-databases/fees/regulatory-fees.

FY 2020 Radio Station Regulatory Fees
Population served | AM class A | AM class B | AM class C | AM class D | FM classes A, B1 & C3 | FM classes B, C, C0, C1 & C2
<=25,000 | $975 | $700 | $610 | $670 | $1,075 | $1,225
25,001-75,000 | 1,475 | 1,050 | 915 | 1,000 | 1,625 | 1,850
75,001-150,000 | 2,200 | 1,575 | 1,375 | 1,500 | 2,425 | 2,750
150,001-500,000 | 3,300 | 2,375 | 2,050 | 2,275 | 3,625 | 4,150
500,001-1,200,000 | 4,925 | 3,550 | 3,075 | 3,400 | 5,450 | 6,200
1,200,001-3,000,000 | 7,400 | 5,325 | 4,625 | 5,100 | 8,175 | 9,300
3,000,001-6,000,000 | 11,100 | 7,975 | 6,950 | 7,625 | 12,250 | 13,950
>6,000,000 | 16,675 | 11,975 | 10,425 | 11,450 | 18,375 | 20,925

FY 2020 International Bearer Circuits—Submarine Cable Systems
Submarine cable systems (capacity as of December 31, 2019) | Fee ratio (units) | FY 2020 regulatory fees
Less than 50 Gbps | .0625 | $13,450
50 Gbps or greater, but less than 250 Gbps | .125 | 26,875
250 Gbps or greater, but less than 1,500 Gbps | .25 | 53,750
1,500 Gbps or greater, but less than 3,500 Gbps | .5 | 107,500
3,500 Gbps or greater, but less than 6,500 Gbps | 1.0 | 215,000
6,500 Gbps or greater | 2.0 | 430,000

V. Initial Regulatory Flexibility Analysis

1. As required by the Regulatory Flexibility Act of 1980, as amended (RFA), the Commission prepared this Initial Regulatory Flexibility Analysis (IRFA) of the possible significant economic impact on small entities by the policies and rules proposed in the Notice of Proposed Rulemaking (Notice). Written comments are requested on this IRFA. Comments must be identified as responses to the IRFA and must be filed by the deadline for comments on this Notice. The Commission will send a copy of the Notice, including the IRFA, to the Chief Counsel for Advocacy of the Small Business Administration (SBA). In addition, the Notice and IRFA (or summaries thereof) will be published in the Federal Register.

A. Need for, and Objectives of, the Proposed Rules

2. The Notice seeks comment on regulatory fees for fiscal year (FY) 2021, as required by section 9 of the Communications Act of 1934, as amended (Communications Act or Act). The Notice sets forth the proposed regulatory fees for FY 2021 for regulatees in the Wireless Telecommunications Bureau, Media Bureau, Wireline Competition Bureau, and International Bureau. The proposed regulatory fees are attached to the Notice in Tables 2 and 3.

3. This regulatory fee Notice is needed because the Commission is required by Congress to adopt regulatory fees each year “to recover the costs of carrying out the activities described in section 6(a) only to the extent, and in the total amounts, provided for in Appropriation Acts.” The objective of the Notice is to propose regulatory fees for FY 2021. The Notice seeks comment on the Commission's proposed regulatory fees for FY 2021.

4. The Notice proposes to collect $374,000,000 in regulatory fees for FY 2021, as detailed in the proposed fee schedules in Tables 2 and 3. In addition, the Notice seeks comment on a proposed increase in the DBS fee rate; proposed fees for full-power broadcast televisions using the actual population covered by the station's contour, as the Commission adopted last year; and a fee for a new regulatory fee category for “less complex” non-geostationary space stations. All proposed fees are listed in Tables 2 and 3 of the Notice.

5. The Notice seeks comment on whether to continue for FY 2021 regulatory fees the temporary relief measures adopted in FY 2020 for requesting waiver, reduction, deferral, and installment payment of FY 2020 regulatory fees. Specifically, the Notice seeks comment on whether we should extend to the FY 2021 regulatory fee season the temporary measures the Commission adopted in FY 2020 to provide relief to regulatees whose businesses have suffered financial harm due to the pandemic, i.e., waiver of section 1.1166(a) of the Commission's rules to permit parties seeking regulatory fee waiver and deferral for financial hardship reasons to make a single request for both waiver and deferral; waiver of the same rule to permit requests to be submitted electronically to the Commission, rather than in paper form; waivers to allow parties seeking extended payment terms to do so by submitting an email request, and allowing a combined installment payment request with any waiver, reduction, and deferral requests in a single filing.

B. Legal Basis

6. This action, including publication of proposed rules, is authorized under sections (4)(i) and (j), 159, and 303(r) of the Communications Act of 1934, as amended.

C. Description and Estimate of the Number of Small Entities to Which the Proposed Rules Will Apply

7. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

8. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the SBA's Office of Advocacy, in general a small business is an independent business having fewer than 500 employees. These types of small businesses represent 99.9% of all businesses in the United States which translates to 28.8 million businesses.

9. Next, the type of small entity described as a “small organization” is generally “any not-for-profit enterprise which is independently owned and operated and is not dominant in its field.” Nationwide, as of August 2016, there were approximately 356,494 small organizations based on registration and tax data filed by nonprofits with the Internal Revenue Service (IRS).

10. Finally, the small entity described as a “small governmental jurisdiction” is defined generally as “governments of cities, counties, towns, townships, villages, school districts, or special districts, with a population of less than fifty thousand.” U.S. Census Bureau data from the 2012 Census of Governments indicate that there were 90,056 local governmental jurisdictions consisting of general purpose governments and special purpose governments in the United States. Of this number there were 37,132 General purpose governments (county, municipal and town or township) with populations of less than 50,000 and 12,184 Special purpose governments (independent school districts and special districts) with populations of less than 50,000. The 2012 U.S. Census Bureau data for most types of governments in the local government category show that the majority of these governments have populations of less than 50,000. Based on this data we estimate that at least 49,316 local government jurisdictions fall in the category of “small governmental jurisdictions.” Governmental entities are, however, exempt from application fees.

11. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable and IPTV) audio and video programming distribution, and wired broadband internet services. By exception, establishments providing satellite television distribution services using facilities and infrastructure that they operate are included in this industry.” The SBA has developed a small business size standard for Wired Telecommunications Carriers, which consists of all such companies having 1,500 or fewer employees. U.S. Census Bureau data for 2012 show that there were 3,117 firms that operated that year. Of this total, 3,083 operated with fewer than 1,000 employees. Thus, under this size standard, the majority of firms in this industry can be considered small.

12. Local Exchange Carriers (LECs). Neither the Commission nor the SBA has developed a size standard for small businesses specifically applicable to local exchange services. The closest applicable NAICS Code category is Wired Telecommunications Carriers. Under the applicable SBA size standard, such a business is small if it has 1,500 or fewer employees. U.S. Census Bureau data for 2012 show that there were 3,117 firms that operated for the entire year. Of that total, 3,083 operated with fewer than 1,000 employees. Thus under this category and the associated size standard, the Commission estimates that the majority of local exchange carriers are small entities.

13. Incumbent LECs. Neither the Commission nor the SBA has developed a small business size standard specifically for incumbent local exchange services. The closest applicable NAICS Code category is Wired Telecommunications Carriers. Under the applicable SBA size standard, such a business is small if it has 1,500 or fewer employees. U.S. Census Bureau data for 2012 indicate that 3,117 firms operated the entire year. Of this total, 3,083 operated with fewer than 1,000 employees. Consequently, the Commission estimates that most providers of incumbent local exchange service are small businesses that may be affected by our actions. According to Commission data, one thousand three hundred and seven (1,307) Incumbent Local Exchange Carriers reported that they were incumbent local exchange service providers. Of this total, an estimated 1,006 have 1,500 or fewer employees. Thus, using the SBA's size standard the majority of incumbent LECs can be considered small entities.

14. Competitive Local Exchange Carriers (Competitive LECs), Competitive Access Providers (CAPs), Shared-Tenant Service Providers, and Other Local Service Providers. Neither the Commission nor the SBA has developed a small business size standard specifically for these service providers. The appropriate NAICS Code category is Wired Telecommunications Carriers and under that size standard, such a business is small if it has 1,500 or fewer employees. U.S. Census Bureau data for 2012 indicate that 3,117 firms operated during that year. Of that number, 3,083 operated with fewer than 1,000 employees. Based on these data, the Commission concludes that the majority of Competitive LECS, CAPs, Shared-Tenant Service Providers, and Other Local Service Providers, are small entities. According to Commission data, 1,442 carriers reported that they were engaged in the provision of either competitive local exchange services or competitive access provider services. Of these 1,442 carriers, an estimated 1,256 have 1,500 or fewer employees. In addition, 17 carriers have reported that they are Shared-Tenant Service Providers, and all 17 are estimated to have 1,500 or fewer employees. Also, 72 carriers have reported that they are Other Local Service Providers. Of this total, 70 have 1,500 or fewer employees. Consequently, based on internally researched FCC data, the Commission estimates that most providers of competitive local exchange service, competitive access providers, Shared-Tenant Service Providers, and Other Local Service Providers are small entities.

15. Interexchange Carriers (IXCs). Neither the Commission nor the SBA has developed a small business size standard specifically for Interexchange Carriers. The closest applicable NAICS Code category is Wired Telecommunications Carriers. The applicable size standard under SBA rules is that such a business is small if it has 1,500 or fewer employees. U.S. Census Bureau data for 2012 indicate that 3,117 firms operated for the entire year. Of that number, 3,083 operated with fewer than 1,000 employees. According to internally developed Commission data, 359 companies reported that their primary telecommunications service activity was the provision of interexchange services. Of this total, an estimated 317 have 1,500 or fewer employees. Consequently, the Commission estimates that the majority of interexchange service providers are small entities.

16. Prepaid Calling Card Providers. Neither the Commission nor the SBA has developed a small business size standard specifically for prepaid calling card providers. The appropriate NAICS code category for prepaid calling card providers is Telecommunications Resellers. This industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small business size standard for the category of Telecommunications Resellers. Under that size standard, such a business is small if it has 1,500 or fewer employees. U.S. Census Bureau data for 2012 show that 1,341 firms provided resale services during that year. Of that number, 1,341 operated with fewer than 1,000 employees. Thus, under this category and the associated small business size standard, the majority of these resellers can be considered small entities. According to Commission data, 193 carriers have reported that they are engaged in the provision of prepaid calling cards. All 193 carriers have 1,500 or fewer employees. Consequently, the Commission estimates that the majority of prepaid calling card providers are small.

17. Local Resellers. The SBA has not developed a small business size standard specifically for Local Resellers. The SBA category of Telecommunications Resellers is the closest NAICs code category for local resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data from 2012 show that 1,341 firms provided resale services during that year. Of that number, all operated with fewer than 1,000 employees. Thus, under this category and the associated small business size standard, the majority of these resellers can be considered small entities. According to Commission data, 213 carriers have reported that they are engaged in the provision of local resale services. Of these, an estimated 211 have 1,500 or fewer employees and two have more than 1,500 employees. Consequently, the Commission estimates that the majority of local resellers are small entities.

18. Toll Resellers. The Commission has not developed a definition for Toll Resellers. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of toll resellers are small entities.

19. Other Toll Carriers. Neither the Commission nor the SBA has developed a size standard for small businesses specifically applicable to Other Toll Carriers. This category includes toll carriers that do not fall within the categories of interexchange carriers, operator service providers, prepaid calling card providers, satellite service carriers, or toll resellers. The closest applicable NAICS code category is for Wired Telecommunications Carriers, as defined in paragraph 6 of this IRFA. Under that size standard, such a business is small if it has 1,500 or fewer employees. U.S. Census Bureau data for 2012 show that there were 3,117 firms that operated that year. Of this total, 3,083 operated with fewer than 1,000 employees. Thus, under this size standard, the majority of firms in this industry can be considered small. According to Commission data, 284 companies reported that their primary telecommunications service activity was the provision of other toll carriage. Of these, an estimated 279 have 1,500 or fewer employees. Consequently, the Commission estimates that most Other Toll Carriers are small entities.

20. Wireless Telecommunications Carriers (except Satellite). This industry comprises establishments engaged in operating and maintaining switching and transmission facilities to provide communications via the airwaves. Establishments in this industry have spectrum licenses and provide services using that spectrum, such as cellular services, paging services, wireless internet access, and wireless video services. The appropriate size standard under SBA rules is that such a business is small if it has 1,500 or fewer employees. For this industry, U.S. Census Bureau data for 2012 show that there were 967 firms that operated for the entire year. Of this total, 955 firms had employment of 999 or fewer employees and 12 had employment of 1,000 employees or more. Thus under this category and the associated size standard, the Commission estimates that the majority of wireless telecommunications carriers (except satellite) are small entities.

21. Television Broadcasting. This Economic Census category “comprises establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA has created the following small business size standard for such businesses: Those having $41.5 million or less in annual receipts. The 2012 Economic Census reports that 751 firms in this category operated in that year. Of that number, 656 had annual receipts of $25,000,000 or less. Based on this data we therefore estimate that the majority of commercial television broadcasters are small entities under the applicable SBA size standard.

22. The Commission has estimated the number of licensed commercial television stations to be 1,377. Of this total, 1,258 stations (or about 91 percent) had revenues of $41.5 million or less, according to Commission staff review of the BIA Kelsey Inc. Media Access Pro Television Database (BIA) on November 16, 2017, and therefore these licensees qualify as small entities under the SBA definition. In addition, the Commission has estimated the number of licensed noncommercial educational television stations to be 384. Notwithstanding, the Commission does not compile and otherwise does not have access to information on the revenue of NCE stations that would permit it to determine how many such stations would qualify as small entities. There are also 2,300 low power television stations, including Class A stations (LPTV) and 3,681 TV translator stations. Given the nature of these services, we will presume that all of these entities qualify as small entities under the above SBA small business size standard.

23. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which rules may apply does not exclude any television station from the definition of a small business on this basis and is therefore possibly over-inclusive. Also, as noted above, an additional element of the definition of “small business” is that the entity must be independently owned and operated. The Commission notes that it is difficult at times to assess these criteria in the context of media entities and its estimates of small businesses to which they apply may be over-inclusive to this extent.

24. Radio Stations. This Economic Census category “comprises establishments primarily engaged in broadcasting aural programs by radio to the public. Programming may originate in their own studio, from an affiliated network, or from external sources.” The SBA has established a small business size standard for this category as firms having $41.5 million or less in annual receipts. Economic Census data for 2012 show that 2,849 radio station firms operated during that year. Of that number, 2,806 firms operated with annual receipts of less than $25 million per year, 17 with annual receipts between $25 million and $49,999,999 million and 26 with annual receipts of $50 million or more. Therefore, based on the SBA's size standard the majority of such entities are small entities.

25. According to Commission staff review of the BIA/Kelsey, LLC's Media Access Pro Radio Database as of January 2018, about 11,261 (or about 99.9 percent) of 11,383 commercial radio stations had revenues of $41.5 million or less and thus qualify as small entities under the SBA definition. The Commission has estimated the number of licensed commercial AM radio stations to be 4,633 stations and the number of commercial FM radio stations to be 6,738, for a total number of 11,371. We note the Commission has also estimated the number of licensed noncommercial (NCE) FM radio stations to be 4,128. Nevertheless, the Commission does not compile and otherwise does not have access to information on the revenue of NCE stations that would permit it to determine how many such stations would qualify as small entities. We also note, that in assessing whether a business entity qualifies as small under the above definition, business control affiliations must be included. The Commission's estimate therefore likely overstates the number of small entities that might be affected by its action, because the revenue figure on which it is based does not include or aggregate revenues from affiliated companies. In addition, to be determined a “small business,” an entity may not be dominant in its field of operation. We further note, that it is difficult at times to assess these criteria in the context of media entities, and the estimate of small businesses to which these rules may apply does not exclude any radio station from the definition of a small business on these basis, thus our estimate of small businesses may therefore be over-inclusive. Also, as noted above, an additional element of the definition of “small business” is that the entity must be independently owned and operated. The Commission notes that it is difficult at times to assess these criteria in the context of media entities and the estimates of small businesses to which they apply may be over-inclusive to this extent.

26. Cable Companies and Systems (Rate Regulation). The Commission has also developed its own small business size standards, for the purpose of cable rate regulation. Under the Commission's rules, a “small cable company” is one serving 400,000 or fewer subscribers nationwide. Industry data indicate that there are 4,600 active cable systems in the United States. Of this total, all but five cable operators nationwide are small under the 400,000-subscriber size standard. In addition, under the Commission's rate regulation rules, a “small system” is a cable system serving 15,000 or fewer subscribers. Commission records show 4,600 cable systems nationwide. Of this total, 3,900 cable systems have fewer than 15,000 subscribers, and 700 systems have 15,000 or more subscribers, based on the same records. Thus, under this standard as well, we estimate that most cable systems are small entities.

27. Cable System Operators (Telecom Act Standard). The Communications Act of 1934, as amended, also contains a size standard for small cable system operators, which is “a cable operator that, directly or through an affiliate, serves in the aggregate fewer than one percent of all subscribers in the United States and is not affiliated with any entity or entities whose gross annual revenues in the aggregate exceed $250,000,000.” As of 2019, there were approximately 48,646,056 basic cable video subscribers in the United States. Accordingly, an operator serving fewer than 486,460 subscribers shall be deemed a small operator if its annual revenues, when combined with the total annual revenues of all its affiliates, do not exceed $250 million in the aggregate. Based on available data, we find that all but five cable operators are small entities under this size standard. We note that the Commission neither requests nor collects information on whether cable system operators are affiliated with entities whose gross annual revenues exceed $250 million. Therefore, we are unable at this time to estimate with greater precision the number of cable system operators that would qualify as small cable operators under the definition in the Communications Act.

28. Direct Broadcast Satellite (DBS) Service. DBS service is a nationally distributed subscription service that delivers video and audio programming via satellite to a small parabolic “dish” antenna at the subscriber's location. DBS is included in SBA's economic census category “Wired Telecommunications Carriers.” The Wired Telecommunications Carriers industry comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry. The SBA determines that a wireline business is small if it has fewer than 1,500 employees. U.S. Census Bureau data for 2012 indicates that 3,117 wireline companies were operational during that year. Of that number, 3,083 operated with fewer than 1,000 employees. Based on that data, we conclude that the majority of wireline firms are small under the applicable SBA standard. Currently, however, only two entities provide DBS service, which requires a great deal of capital for operation: DIRECTV (owned by AT&T) and DISH Network. DIRECTV and DISH Network each report annual revenues that are in excess of the threshold for a small business. Accordingly, we must conclude that internally developed FCC data are persuasive that, in general, DBS service is provided only by large firms.

29. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small business size standard for All Other Telecommunications, which consists of all such firms with annual receipts of $35 million or less. For this category, U.S. Census Bureau data for 2012 shows that there were 1,442 firms that operated for the entire year. Of those firms, a total of 1,400 had annual receipts less than $25 million and 15 firms had annual receipts of $25 million to $49, 999,999. Thus, the Commission estimates that the majority of “All Other Telecommunications” firms potentially affected by our action can be considered small.

30. RespOrgs. Responsible Organizations, or RespOrgs, are entities chosen by toll free subscribers to manage and administer the appropriate records in the toll free Service Management System for the toll free subscriber. Although RespOrgs are often wireline carriers, they can also include non-carrier entities. Therefore, in the definition herein of RespOrgs, two categories are presented, i.e., Carrier RespOrgs and Non-Carrier RespOrgs.

31. Carrier RespOrgs. Neither the Commission, the U.S. Census, nor the SBA have developed a definition for Carrier RespOrgs. Accordingly, the Commission believes that the closest NAICS code-based definitional categories for Carrier RespOrgs are Wired Telecommunications Carriers, and Wireless Telecommunications Carriers (except satellite).

32. The U.S. Census Bureau defines Wired Telecommunications Carriers as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” The SBA has developed a small business size standard for Wired Telecommunications Carriers, which consists of all such companies having 1,500 or fewer employees. U.S. Census Bureau data for 2012 show that there were 3,117 firms that operated that year. Of this total, 3,083 operated with fewer than 1,000 employees. Based on that data, we conclude that the majority of Carrier RespOrgs that operated with wireline-based technology are small.

33. The U.S. Census Bureau defines Wireless Telecommunications Carriers (except satellite) as establishments engaged in operating and maintaining switching and transmission facilities to provide communications via the airwaves, such as cellular services, paging services, wireless internet access, and wireless video services. The appropriate size standard under SBA rules is that such a business is small if it has 1,500 or fewer employees. Census data for 2012 show that 967 Wireless Telecommunications Carriers operated in that year. Of that number, 955 operated with less than 1,000 employees. Based on that data, we conclude that the majority of Carrier RespOrgs that operated with wireless-based technology are small.

34. Non-Carrier RespOrgs. Neither the Commission, the U.S. Census, nor the SBA have developed a definition of Non-Carrier RespOrgs. Accordingly, the Commission believes that the closest NAICS code-based definitional categories for Non-Carrier RespOrgs are “Other Services Related to Advertising” and “Other Management Consulting Services.”

35. The U.S. Census defines Other Services Related to Advertising as comprising establishments primarily engaged in providing advertising services (except advertising agency services, public relations agency services, media buying agency services, media representative services, display advertising services, direct mail advertising services, advertising material distribution services, and marketing consulting services). The SBA has established a size standard for this industry as annual receipts of $16.5 million dollars or less. Census data for 2012 show that 5,804 firms operated in this industry for the entire year. Of that number, 5,612 operated with annual receipts of less than $10 million. Based on that data we conclude that the majority of Non-Carrier RespOrgs who provide toll-free number (TFN)-related advertising services are small.

36. The U.S. Census defines Other Management Consulting Services as establishments primarily engaged in providing management consulting services (except administrative and general management consulting; human resources consulting; marketing consulting; or process, physical distribution, and logistics consulting). Establishments providing telecommunications or utilities management consulting services are included in this industry. The SBA has established a size standard for this industry of $16.5 million dollars or less. Census data for 2012 show that 3,683 firms operated in this industry for that entire year. Of that number, 3,632 operated with less than $10 million in annual receipts. Based on this data, we conclude that a majority of non-carrier RespOrgs who provide TFN-related management consulting services are small.

37. In addition to the data contained in the four (see above) U.S. Census NAICS code categories that provide definitions of what services and functions the Carrier and Non-Carrier RespOrgs provide, Somos, the trade association that monitors RespOrg activities, compiled data showing that as of July 1, 2016 there were 23 RespOrgs operational in Canada and 436 RespOrgs operational in the United States, for a total of 459 RespOrgs currently registered with Somos.

D. Description of Projected Reporting, Recordkeeping and Other Compliance Requirements for Small Entities

38. This Notice does not propose any changes to the Commission's current information collection, reporting, recordkeeping, or compliance requirements. Licensees, including small entities, will be required to pay application fees after such fees are adopted.

E. Steps Taken To Minimize Significant Economic Impact on Small Entities, and Significant Alternatives Considered

39. The RFA requires an agency to describe any significant alternatives that it has considered in reaching its approach, which may include the following four alternatives, among others: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

40. The Notice seeks comment on the Commission's proposed regulatory fees for FY 2021. The Notice proposes to collect $374,000,000 in regulatory fees for FY 2021, as detailed in the proposed fee schedules in Tables 2 and 3 of the Notice. The Commission has taken steps to minimize the economic impact on small entities by adopting a de minimis threshold under the section 9(e)(2) exemption in the Act. Under the section 9(e)(2) exemption, a regulatee is exempt from paying regulatory fees if the sum total of all of its annual regulatory fee liabilities is $1,000 or less for the fiscal year. The threshold applies only to filers of annual regulatory fees, not regulatory fees paid through multi-year filings. The Commission also adopted a new regulatory fee category for “less complex” NGSO satellite systems, so that these smaller systems would have a lower regulatory fee than the other NGSO systems.

F. Federal Rules That May Duplicate, Overlap, or Conflict With the Proposed Rules

41. None.

VI. Ordering Clauses

42. Accordingly, it is ordered that, pursuant to the authority found in sections 4(i) and (j), 9, 9A, and 303(r) of the Communications Act of 1934, as amended, 47 U.S.C. 154(i), 154(j), 159, 159A, and 303(r), this Notice of Proposed Rulemaking is hereby adopted.

Federal Communications Commission.
Cecilia Sigmund,
Federal Register Liaison Officer, Office of the Secretary.

[FR Doc. 2021-10119 Filed 5-12-21; 8:45 am]

BILLING CODE 6712-01-P